DEPARTMENT OF COMMERCE

National Oceanic and Atmospheric Administration

50 CFR Part 660

[Docket No. 0809121213-9221-02]

RIN 0648-AX24

Magnuson-Stevens Act Provisions; Fisheries Off West Coast States; Pacific Coast Groundfish Fishery; 2009-2010 Biennial Specifications and Management Measures

AGENCY: National Marine Fisheries Service (NMFS), National Oceanic and Atmospheric Administration (NOAA), Commerce.

ACTION: Final rule.

SUMMARY: This final rule sets the 2009-2010 harvest specifications and management measures for groundfish taken in the U.S. exclusive economic zone (EEZ) off the coasts of Washington, Oregon, and California and it revises rebuilding plans for four of the seven overfished rockfish species, consistent with the Magnuson-Stevens Fishery Conservation and Management Act and the Pacific Coast Groundfish Fishery Management Plan. Together, the revisions to rebuilding plans and the 2009-2010 harvest specifications and management measures are intended to rebuild overfished stocks as soon as possible, taking into account the status and biology of the stocks, the needs of fishing communities, and the interaction of the overfished stocks within the marine environment.

DATES: Effective March 1, 2009.

FOR FURTHER INFORMATION CONTACT: Gretchen Arentzen (Northwest Region, NMFS), phone: 206-526-6147, fax: 206-526-6736 and e-mail gretchen.arentzen@noaa.gov.

SUPPLEMENTARY INFORMATION:

Electronic Access

This final rule is accessible via the Internet at the Office of the Federal Register's Web site at http://www.gpoaccess.gov/fr/index.html. Background information and documents are available at the Pacific Fishery Management Council's Web site at http://www.pcouncil.org/.

Background

NMFS published a proposed rule to implement the 2009-2010 groundfish harvest specifications and management measures on December 31, 2008, (73 FR 80516). The proposed rule requested comments through January 30, 2009. NMFS received eight letters of comment, which are addressed later in the preamble to this final rule. See the preamble to the proposed rule for additional background information on the fishery and on this final rule.

The amount of each Pacific Coast groundfish species or species group that is available for harvest in a specific year is referred to as a harvest specification. Harvest specifications include acceptable biological catches (ABCs), optimum yields (OYs), and harvest guidelines (HGs). Harvest specifications may also include “set-asides” of harvestable amounts of fish.

The ABC is a biologically based estimate of the amount of fish that may be harvested each year without affecting the sustainability of the resource. The ABC may be modified with precautionary adjustments to account for uncertainty. An OY is a target harvest level for a species or species group. The OYs may be set equal to the ABC for the species or species group, but are often set lower as a precautionary measure. The Council's policies on setting ABCs, OYs, and other harvest specifications are discussed later in the preamble to this final rule. Harvest specifications for 2009-2010 are provided in Tables 1a through 2c.

Management measures for 2009-2010 work in combination with the existing regulations to create a management structure that is intended to constrain fishing so the catch of overfished groundfish species does not exceed the rebuilding-based OYs while allowing, to the extent possible, the OYs for healthier groundfish stocks that co-occur with the overfished stocks to be achieved. In order to rebuild overfished species, allowable harvest levels of healthy species will only be achieved where such harvest will not deter rebuilding of overfished stocks.

Comments and Responses

During the comment period for the 2009-2010 harvest specifications and management measures proposed rule, NMFS received eight letters of comment. The Makah Tribe and the Quileute Tribe each submitted letters of comment concerning the tribal allocation for Pacific whiting. The Department of the Interior submitted a letter stating they had no comment. California Department of Fish and Game, Washington Department of Fish and Wildlife, and Oregon Department of Fish and Wildlife submitted editorial and technical corrections to be made in the final rule to make it consistent with the Pacific Council action. One letter of comment was sent jointly by four environmental advocacy organizations (Natural Resources Defense Council, Pacific Marine Conservation Council, Ocean Conservancy, and Marine Fish Conservation Network; hereinafter, “The Four Organizations.”) Santa Monica Seafood sent a letter of comment in support of precautionary and sustainable fishery management. Substantive comments received on the proposed rule are addressed here:

Makah Tribe

Comment 1: The Makah Tribe supported the proposed rule, and focused their comments on the portion of the rule that addressed tribal treaty fisheries for Pacific whiting. They believe that the total allocation of whiting to the treaty tribes should be sufficient to meet the needs of each tribe participating in the fishery, as reasonably determined by the tribes themselves, and that each tribe should be responsible for managing the portion of the allocation necessary to meet its needs and minimizing bycatch. The Makah believe that the proposed rule is consistent with these principles, and addresses the possibility of a race for fish and any associated exceedence of bycatch limits.

Response: NOAA agrees that the rule reflects the approach described by the Makah, and that a goal of the tribal whiting portion of the rule is to accommodate the tribal treaty right and to avoid a race for fish and excessive bycatch.

Quileute Tribe

Comment 2: The Quileute Tribe believes that the proposed rule's division of the tribal whiting allocation into “set-asides” for the Makah Tribe and the Quileute Tribe is inconsistent with court rulings in United States v. Washington and with prior NOAA practice.

Response: As stated in the proposed rule, the tribal set-asides for 2009 are based on timely requests made to the Council, consistent with the schedule for the implementation of tribal fisheries set forth in 50 CFR 660.324(b). Both the Makah Tribe and the Quileute Tribe made timely requests for the 2009 whiting fishery for consideration at the June 2008 Council meeting. At this meeting, and at additional meetings and discussions among the tribal, state, and federal co-managers, NOAA reached an understanding that the Quileute anticipated harvesting up to 8,000 mt and that the Makah anticipated harvesting up to 42,000 mt, for a total tribal allocation of 50,000 mt. Fifty thousand metric tons, while higher that previous tribal allocations, is still clearly within the treaty right given the current knowledge of the distribution and abundance of the coastal whiting stock. At its June 2008 meeting, the Council recommended this amount and the individual tribal set-asides for further analysis.

Following the Council's recommendation and the issuance of the DEIS analyzing that recommendation and the associated bycatch, the Quileute Tribe stated its intent to harvest up to 24,000 mt of whiting in the 2009 fishery. The tribes have not reached agreement regarding the division of the tribal share for 2009 in light of the Quileute Tribe's later, larger harvest estimate. Without clear management targets for each tribe, a race for fish may occur as whiting migrate from south to north, reaching the Quileutes usual and accustomed fishing areas (U&A) before they reach the Makah U&A. A race for fish could result in excessive bycatch of overfished species, and the closure of other groundfish fisheries.

The division of the tribal share of whiting into set-asides for the individual tribes is not inconsistent with either the court rulings in United States v. Washington or NOAA's past practice. These set-asides are not formal allocations, nor do they create precedent for future years. They are, however, necessary under the circumstances to ensure that the tribal and non-tribal fisheries are conducted in an orderly manner and bycatch limits of overfished species are not exceeded. The tribes bear the primary responsibility for dividing the tribal share of the fish. U.S. v. Washington, 384 F. Supp. 312, 417 (1974). However, the court has also emphasized the importance of close coordination between the co-managers to ensure that the fishery resource is properly managed and conserved. See, e.g., U.S. v. Washington, 520 F.2d 676, 685 (9th Cir. 1975). In several instances, the court has ordered the co-managers to share information on a schedule, and to consult with each other on the management of the fisheries. See, e.g., U.S. v. Washington, 459 F. Supp. 1020, 1035-38 (W.D. Wash. 1978); U.S. v. Washington, 626 F. Supp. 1405, 1420 (W. D. Wash. 1985). The process and schedule for the implementation of new tribal fisheries set forth in 50 CFR 660.324(b) is consistent with the co-management responsibility the court has described. The goal of the schedule is to integrate consideration of the tribal fisheries into the Council's process for determining annual groundfish harvest specifications. Close coordination in planning for tribal and non-tribal fisheries is particularly important given the severe limits imposed on the west coast groundfish fisheries in order to rebuild overfished species such as canary and yelloweye rockfish. NOAA is responsible under the MSA for minimizing bycatch and preventing overfishing, and must carry out this responsibility consistent with the tribes' treaty fishing rights. Further, as trustee for all of the tribes, the Federal Government has a responsibility to ensure that one tribe's exercise of its treaty right does not prevent another tribes' exercise of that right. The regulatory processes for implementing the tribal fisheries and the tribal set-asides for 2009 are consistent with these legal mandates.

The Council has asked NOAA to work with the tribal, state, and Federal co-managers to develop a proposal for the tribal whiting fishery for 2010 and beyond. NOAA has begun the process of developing scientific information for use in achieving this goal, in consultation with the tribal and state co-managers. Specifically, NOAA hopes to reach consensus with the other co-managers on the appropriate tribal allocation, and to provide the tribes with information that may assist them in reaching agreement on the division of the tribal share in the future. NOAA does not intend to allocate the total tribal whiting allocation to the individual tribes. Should the tribes fail to reach consensus regarding the division of that amount amongst themselves in the future, NOAA will consider initiating litigation to resolve this issue in order to ensure that the fishery is conducted in a manner that accommodates the treaty rights of the tribes, and avoids excessive bycatch.

Comment 3: The Quileute Tribe argues that the proposed set-asides unfairly favor the Makah Tribe because the Makah set-aside is significantly larger than the Quileute set-aside, even though at least as many whiting pass through the Quileute U&A as pass through the Makah U&A.

Response: As described above, the tribal set-asides for 2009 are based on the tribes' own estimates of the size of their harvests, not on any independent analysis by NOAA. Further, the set-asides for 2009 do not create any sort of precedent for future tribal fisheries. Ideally, the tribes will reach consensus on the division of the total tribal share for 2010 and beyond.

California Department of Fish and Game, Washington Department of Fish and Wildlife, and Oregon Department of Fish and Wildlife

Comment 4: The California Department of Fish and Game (CDFG) submitted a list of 20 editorial, technical, and corrective comments on the proposed rule. The comments ranged from edits on capitalization to proposing clarifying revisions to the regulatory text for California's recreational groundfish fisheries. Washington Department of Fish and Wildlife had one minor comment on incidental catch of lingcod in the salmon troll fishery. Oregon Department of Fish and Wildlife suggested corrections to the ABC/OY tables.

Response: None of the CDFG comments represent fundamental revisions, but propose to correct the final rule so that it is consistent with the Pacific Council's final action. Much of the preamble text, to which the first four CDFG comments pertain, is not repeated or revised in this final rule. Therefore, though NMFS agrees with these four editorial comments, no revisions are made to this final rule. NMFS also agrees with the remainder of the comments and has revised the following regulatory paragraphs in response to these comments: § 660.384; Table 1a, Table 1c, and Table 2a; and § 660.394. The lingcod comment from Washington Department of Fish and Wildlife was addressed in Table 5 (North). Comments from Oregon Department of Fish and Wildlife were addressed in ABC/OY tables 1a, 1b, 1c, 2a, 2b, and 2c. These changes are explained below in the section Changes from the Proposed Rule.

Comment 5: In their comment letter (Comment 9), CDFG requests that NMFS add language to § 660.390—Groundfish Conservation Areas that refers readers to the California Recreational Fishery regulations, at § 660.384(c), so that they can see the effective periods of each particular area closure.

Response: The introductory regulatory text to section § 660.390 states that, “ * * * Fishing activity that is prohibited or permitted within a particular groundfish conservation area is detailed at §§ 660.381 through 660.384.” This introductory text was not published in the proposed rule, as no revisions to this language were proposed. NMFS feels that the clarification requested by CDFG is already captured in the existing regulatory language, and therefore has not made any revisions in this final rule.

The Four Organizations

Comment 6: The Four Organizations urged NMFS to manage blue rockfish separately from the minor nearshore complex and set a precautionary OY that reduces catch below the 2007 level given scientific suspicion that this species may be experiencing overfishing.

Response: NMFS will continue to manage blue rockfish under the minor nearshore rockfish complexes and to establish a 220 mt harvest guideline (HG) for all California fisheries. The 220 mt HG is below the assessment ABC of 241 mt in 2009 (223 mt north of Pt. Conception from base model in the assessment plus 18 mt for south of Pt. Conception) and 239 mt in 2010 (221 mt north of Pt. Conception from base model in the assessment plus 18 mt for south of Pt. Conception) and is therefore a prescribed harvest level below the overfishing threshold. California Department of Fish and Game (CDFG) has committed to maintaining harvests below this HG and has the authority to enact more precautionary management measures if necessary (see section 4.3.2.1 in the DEIS for more details). Blue rockfish are covered by the California Nearshore Fishery Management Plan and are harvested primarily inside state waters off California, so California has the greater ability to control the harvest of blue rockfish. They have indicated they will take management measures as necessary to stay within harvest guidelines.

Comment 7: The Four Organizations urged NMFS to schedule greenspotted rockfish for assessment in the 2009-2010 cycle per the SSC recommendation.

Response: Deciding which groundfish stocks to assess in 2009 is not part of this final rule. NMFS notes that the assessment schedule, developed by the Council in close coordination with NMFS and the states, is based on a variety of factors, including data availability and workload issues for all involved.

Comment 8: The Four Organizations urged NMFS to conduct an assessment of and design specific protection measures for bronzespotted rockfish as scientific data indicate it is vulnerable to fishing and that landings have declined dramatically; they also urged NMFS to keep the preferred alternative choice of a no-retention policy.

Response: As per the response on greenspotted rockfish, deciding on whether an assessment of bronzespotted rockfish is done is not a part of the proposed action. Given the scientific information on bronzespotted rockfish, which is summarized in the FEIS, NMFS is prohibiting retention of bronzespotted rockfish in all west coast fisheries, which will greatly reduce fishing mortality, since historical data indicate that the stock was targeted when it was encountered. The available scientific information also suggests that bronzespotted rockfish are distributed in the same habitats as cowcod and continuing the Cowcod Conservation Areas should contribute to conservation of the stock. In the proposed rule, regulatory language at § 660.384(c)(3)(iii)(B) mistakenly neglected to add bronzespotted rockfish to the list of species that may not be retained in the California recreational fishery. In the final rule, this section is revised to add bronzespotted rockfish to the list of species that may not be retained in the California recreational fishery. Also, NMFS adds species specific trip limits for bronzespotted rockfish, to designate it as “closed”, in Tables 3 (South), 4 (South), and 5 (South). These actions are consistent with the FEIS.

Comment 9: The Four Organizations urged NMFS to conduct a spiny dogfish stock assessment in the 2009-2010 timeframe. They assert that spiny dogfish are a slow-growing species which is “experiencing crashes and red listings within its range.”

Response: NMFS notes again that the assessment schedule is not part of this final rule and is based on a variety of factors, including data availability and workload issues. As discussed in NMFS response to comments in Chapter 15 of the FEIS, NMFS has considered that the general life history characteristics of spiny dogfish make the species generally vulnerable to overexploitation. However, trip limits in combination with Rockfish Conservation Areas (RCAs), are intended to reduce the total catch of dogfish over historical catch levels. NMFS assumes that the reference to “red listings” refers to the International Union for Conservation of Nature (IUCN) red list, which does not appear to include Pacific spiny dogfish. It should also be noted that there does not appear to be the same potential threats to spiny dogfish populations in the northeast Pacific compared to other regions where they occur.

Comment 10: The Four Organizations urged NMFS to rebuild darkblotched rockfish within 10 years, which they assert is required under the Magnuson-Stevens Act; in the event that NMFS does not follow this course of action, at a minimum NMFS should implement an OY no higher than the 2006 OY level of 200 mt to reflect the new biological understanding that the stock is rebuilding more slowly than previously thought.

Response: The Magnuson-Stevens Act requires a rebuilding period that is as short as possible, taking into account the appropriate statutory factors, and that does not exceed 10 years unless it is biologically impossible. In the groundfish FMP, Tmin is the minimum time to rebuild a stock from the onset of the rebuilding plan or the first year of rebuilding. Tmin is the predicted time to rebuild a stock in the absence of fishing (a zero-harvest strategy) and was established when the original rebuilding plan for darkblotched was developed. The revised rebuilding plan for darkblotched begins by determining the time to rebuild under a zero-harvest strategy starting with the implementation of the revised rebuilding plan; this is referred to as T0 or T at F=0. Both Tmin and T0 are estimated in the groundfish rebuilding analyses and these estimates are provided in Tables 2-3 and 2-5 in the FEIS. From Table 2-5, the current estimate of Tmin for darkblotched is 2015 and, from Table 2-3, the current estimate of T0 for darkblotched is 2018. What this means, given our current understanding of darkblotched status and productivity, is that the stock could have been rebuilt by 2015 if a zero-harvest strategy had been adopted from the onset of rebuilding in 2002 (the stock was declared overfished in 2001) or the stock could be rebuilt by 2018 if a zero-harvest strategy is adopted beginning in 2009, which is the shortest rebuilding period that can be currently considered for rebuilding darkblotched, based on the best information available now.

The Four Organizations imply that a zero-harvest strategy is a Magnuson-Stevens Act mandate for the revised rebuilding plan since the stock can now be rebuilt within ten years under a zero-harvest strategy. This does not make sense, since that reasoning would require a zero-harvest strategy whenever a stock is potentially within ten years of being rebuilt at any point in the rebuilding period.

The darkblotched rebuilding plan, as well as all west coast groundfish rebuilding plans, relies on a strategy to rebuild in as short a time as possible while taking into account the status and biology of the depleted stock, the needs of fishing communities, and the interaction of the depleted stock within the marine ecosystem. As described in section 2.1.1 of the FEIS, this rebuilding objective was underscored in an August 2005 ruling in the Ninth Circuit Court of Appeals, which resulted in reconsideration of all west coast groundfish rebuilding plans under FMP Amendment 16-4 in 2006. The resulting darkblotched OYs in 2007 and 2008 were specified in accordance with the Amendment 16-4 rebuilding plan, considering the time to rebuild, the needs of west coast fishing communities, and other appropriate factors. Setting the 2009 and 2010 darkblotched OY no higher than the 2006 OY of 200 mt would cause significant negative impacts to west coast fishing communities as evidenced by the analyses in the Amendment 16-4 EIS, and the analyses used to decide the preferred OYs for 2009 and 2010 in the FEIS.

The rebuilding approach under Amendment 16-4 does not consider the harvest and rebuilding of darkblotched rockfish in isolation from the harvest and rebuilding of other groundfish species. Changes in the OYs for any of the overfished species affect the time to rebuild for that species and the ability of fishermen to harvest other species of groundfish, including healthy species. Similarly, changes in OYs for groundfish species have differing economic impacts on West Coast fishing communities. For these reasons, the Four Organizations have taken a limited perspective on the darkblotched rebuilding plan. Consistent with Amendment 16-4, NMFS took a programmatic perspective for 2009 and 2010 and examined all rebuilding plans, and their impacts on communities, simultaneously. In doing so, NMFS considered both time to rebuild and needs of communities in the decision for all changes to rebuilding plans and selection of overfished species OYs.

Darkblotched rockfish is one of the most important overfished species in relation to the overall health of commercial fisheries and their communities, because its rebuilding OY limits access to some of the most valuable target stocks (Dover sole, thornyheads, sablefish, petrale sole, and to some degree, Pacific whiting). Therefore, a relatively small reduction in darkblotched harvest in one year will result in a relatively large reduction in the amount of the target species that can be harvested. Because marginal changes in the darkblotched harvest rate have a relatively large effect on economic benefits from the groundfish commercial fisheries, a darkblotched OY that is slightly less conservative than those for other overfished species and results in a slightly longer rebuilding period is justified.

Comment 11: The Four Organizations urged NMFS to adopt an OY of 44 mt or 85 mt for canary rockfish in light of the fact that the 2007 OY of 44 mt was manageable and that the new, more optimistic stock assessment has considerable uncertainty.

Response: Considerable analysis of the new canary rockfish stock assessment, the new canary rockfish rebuilding analysis, and the alternative 2009 and 2010 OYs resulting from the new assessment and rebuilding analysis was done in the process leading to NMFS's decision on a canary rockfish OY of 105 mt. The Stock Assessment Review (STAR) panel and the Council's Scientific and Statistical Committee (SSC) that critically evaluated the new canary rockfish assessment in 2007 recommended the new, more optimistic assessment as the best available science. While there is uncertainty in the new canary rockfish assessment, the new assessment is considered superior to previous canary rockfish assessments by the STAR panel and the SSC.

NMFS disagrees with the Four Organizations' assertion that the 105 mt canary rockfish OY “prioritizes economic gain over rebuilding within the statutorily required timeframe”. The reductions in groundfish harvest imposed by the canary rockfish rebuilding plan have created significant adverse economic impacts on all sectors of the west coast groundfish fishery. As shown during the development of Amendment 16-4 and continuing now, many of the most economically vulnerable ports are losing their infrastructure and seeing many fishing-related business losses.

In addition to the impacts predicted during the development of Amendment 16-4, following the adoption of 2007-2008 groundfish harvest specifications and management measures, the Council received updated observer data that indicated canary rockfish bycatch was higher than previously thought. As a result, at the April, 2007 Council meeting, the Council recommended inseason adjustments to management measures in order to keep overall harvest levels within the canary rockfish OY. As a result, NMFS expanded the size of the RCAs, closing off several important grounds for fishing communities off the Washington and Oregon coasts (72 FR 19390, April 18, 2007). This resulted in community impacts in 2007 and 2008 that were worse than had been anticipated. The regulations and management measures initially established for 2007 were much less restrictive than those now in place as a result of the more recent observer data. Significantly, in the remote fishing community of Neah Bay, all areas actively fished by the non-tribal trawl fleet were closed, eliminating much of the fishing activity occurring in that port and community. Other communities may not have been harmed to the same degree, but were certainly impacted more than anticipated when the 2007-2008 groundfish harvest specifications and management measures were developed and analyzed. Vessels in Astoria, for example, lost much of their access to fishing grounds shoreward-of-the-trawl RCA, an area relied upon heavily in the past. The 44 mt OY was, and would continue to be, extremely restrictive in the trawl fishery, as well as for other sectors.

The Council's SSC and National Standard 1 guidelines generally recommend a constant harvest rate strategy for rebuilding plans. However, in view of the requirement to rebuild as quickly as possible while taking into account the appropriate factors, the Council's preferred 2009-2010 canary rockfish OY of 105 mt actually lowers the status quo harvest rate in the current rebuilding plan (maintaining the status quo SPR harvest rate of F88.7% would equate to a 2009-2010 OY of 155 mt). Further, the preferred alternative changes the target rebuilding year from 2063 to 2021. Table 2-3 and Figure 2-2 in the FEIS show the tradeoff in rebuilding duration under the alternative harvest rates analyzed to decide 2009-2010 OYs. One additional year of rebuilding is the “cost” of increasing the OY from 44 mt to 105 mt. Another way to look at it is that an OY of 105 mt results in only two additional years of rebuilding relative to the zero-harvest of canary rockfish beginning in 2009. Because canary rockfish is found along most of the coast, out to approximately 150 fathoms, zero-harvest would result in nearly total closure of the recreational fisheries along the coast and large closures for both trawl and longline fisheries. Therefore, the preferred alternative for canary rockfish responsibly uses the information in the most recent assessment to rebuild the stock while taking into account the needs of the fishing communities.

Comment 12: The Four Organizations urged NMFS to adhere to the rebuilding plan adopted in 16-4 for yelloweye rockfish and not modify it to allow higher take in 2010. Additionally, they assert that the modified rebuilding plan has a lower probability of rebuilding than under the original ramp-down plan.

Response: The revised rebuilding plan for yelloweye rockfish essentially maintains the status quo rebuilding plan adopted under FMP Amendment 16-4 by maintaining the target rebuilding year and maintaining the SPR harvest rate scheduled to be in place once the constant harvest rate strategy begins in 2011. The harvest is ramping down from the OY levels in 2007 and 2008 (23 mt and 20 mt respectively) to 17 mt in 2009 as specified in the status quo rebuilding plan. The modification is that in 2010, the OY will remain at 17 mt rather than be reduced to 14 mt, as specified in the status quo rebuilding plan. The harvest of yelloweye rockfish under the status quo rebuilding plan in 2010 would take 1.29 percent of the spawning biomass in that year. Under the revised rebuilding plan, 1.56 percent will be taken. This slight modification occurs in only one year of the rebuilding plan and provides no appreciable difference in the time or probability to rebuild between this alternative and the status quo plan. Table 4-10 in the FEIS that shows the rebuilding probability for yelloweye rockfish under both the preliminary and final preferred alternative are essentially the same, as calculated to one tenth of one percent.

The Four Organizations allege that there is no quantitative analysis to support the view that implementing a lower yelloweye OY in 2010 would have unacceptably severe impacts on fishing communities. NMFS disagrees. As an example, in terms of California recreational fisheries, yelloweye is the most constraining species north of Pt. Arena. A 2010 yelloweye rockfish OY of 17 mt provides for an additional three months of fishing in that area, as opposed to a 2010 OY of 14 mt. See Figures 2-41 and 2-51 in the FEIS.

Avoiding yelloweye rockfish in line gear fisheries has proven extremely difficult. The Council and NMFS have been progressively specifying more conservative management measures to achieve the target yelloweye rockfish harvest rate in the rebuilding plan. New recommended management measures for 2009 and 2010, such as expanding the size of the non-trawl RCA by extending it seaward and shoreward in areas north of 40°10′ N. latitude, are designed to maintain yelloweye rockfish impacts below the target harvest prescribed in the rebuilding plan. As noted in the FEIS (see sections 2.1.1.7 and 4.3.1.1), the slightly higher yelloweye rockfish harvest rate in 2010 under the preferred alternative is recommended in large part due to higher than anticipated yelloweye bycatch in the northern California recreational groundfish fishery in 2007 and to allow one more year to determine effective management measures, including potential new Yelloweye RCAs (YRCAs) needed to minimize bycatch of yelloweye rockfish in a manner that minimizes potential impacts.

Comment 13: The Four Organizations urged NMFS to analyze and determine a threshold of economic activity below which a disaster would occur and structure the rebuilding alternatives to analyze incremental increases of overfished species OY. In addition, the Four Organizations assert that NMFS has failed to show that the groundfish fishery is experiencing a “disaster.”

Response: Declaration of a “disaster threshhold” is not a requirement under MSA or any other applicable laws. The appropriate standard is set out in the MSA. The analysis of socioeconomic impacts associated with overfished species OYs uses the same framework adopted under Amendment 16-4 for rebuilding plans and the 2007-2008 harvest specifications. Under this framework, impacts to west coast fishing communities associated with rebuilding alternatives are analyzed based on each community's dependence on the groundfish fishery and the general economic resilience of that community to changes in fishing opportunities. Communities that are highly dependent on the groundfish fishery and with very low resilience to changes in economic activities associated with groundfish fishing are considered more vulnerable to negative socioeconomic impacts under more conservative rebuilding alternatives. Each community is differentially affected by an individual species rebuilding plan based on that species distribution and the way that species rebuilding plan affects the fisheries that contribute to the community's economic infrastructure. This is a more realistic approach for assessing impacts on communities since different communities suffer such different impacts.

However, to put the “disaster threshold” question in its proper context, one must consider that the current non-whiting groundfish fishery is much more constrained today under the full range of overfished species OYs analyzed for the 2009-2010 management period than those that were specified prior to and during the year 2000 when the west coast groundfish fishery was declared a federal disaster. That is, there are far fewer groundfish fishing opportunities available today under the more conservative management regime than there were during the late 1990s and 2000. This is driven by the groundfish rebuilding plans that today dictate the amount of fishing opportunity that can be considered.

Comment 14: The Four Organizations submitted detailed comments challenging the rebuilding approach adopted under Amendment 16-4. The Four Organizations assert that NMFS prioritizes short-term economic gains over the rebuilding of overfished species. They urged the agency to adopt and implement the paradigm that is mandated by the MSA and the 9th Circuit Court. The Four Organizations assert that the “interrelated” framework approach of Amendment 16-4 undermines the statutory requirement to rebuild as quickly as possible and that the agency has offered no scientific basis for treating the overfished species and their OYs as “interrelated.” They specifically state that “The agency is allowing more bycatch of the overfished species that it deems to be in slightly better shape in an effort to compensate fishermen for having to stay away from ones in worse shape. Nothing in the MSA allows the agency to make this trade-off between more fishing of some overfished species and less than others.” In addition, the Four Organizations urge NMFS to adopt Alternative 3 instead of the current preferred alternative as Alternative 3 rebuilds overfished species more quickly and the DEIS analysis fails to demonstrate it would cause disastrous consequences.

Response: As explained in response to Comment 10, consistent with Amendment 16-4, NMFS took a programmatic perspective for 2009 and 2010 and examined all rebuilding plans, and their impacts on communities, simultaneously. In doing so, NMFS considered both time to rebuild and needs of communities in the decision for all changes to rebuilding plans and selection of overfished species OYs. Consistent with the 9th Circuit's recognition that different species of groundfish co-exist in the fishery when it stated that the MSA “allows the Agency to set limited quotas that would account for the short-term needs of fishing communities (for example, to allow for some fishing of plentiful species despite the inevitability of bycatch), even though this would mean that the rebuilding period would take longer than it would under a total fishing ban.” Natural Resources Defense Council v. NMFS, 421 F. 3d 872,880 (9th Cir. 2005) at 11423. The rebuilding approach does not consider the harvest and rebuilding of one groundfish species in isolation from the harvest and rebuilding of other groundfish species. Changes in the OYs for any of the overfished species affect the time to rebuild for that species and the ability of fishermen to harvest other species of groundfish, including healthy species. Similarly, changes in OYs for different groundfish species have differing economic impacts on West Coast fishing communities.

Short rebuilding time periods, after taking into account the appropriate statutory factors, have been the first priority to the Council and the agency during the development and implementation of Amendment 16-4. Specifically for the 2009-2010 specifications, a wider range of alternative OYs was analyzed for the seven overfished species managed under the groundfish FMP than for the other, healthier stocks. This was due to the need to periodically evaluate the effectiveness of management measures to rebuild these stocks and to fully evaluate new stock status information that became available through stock assessments. Rebuilding OYs chosen by the Council for analysis in the DEIS encompass a reasonable range of alternatives, including 0 mt to higher OYs.

The DEIS analyses approach the harvest specifications decision by first considering the implications to stock rebuilding by evaluating alternative OYs using the criteria of catch monitoring uncertainty, stock assessment uncertainty, the level of stock depletion, rebuilding probabilities, and the extended duration of rebuilding (see DEIS section 4.2). These evaluations are used to rank the risk of alternative OYs in achieving rebuilding objectives at the individual stock level. This evaluation specifically looks at the tradeoff of potential fishing opportunities provided by progressively higher OYs versus extending rebuilding periods for these species. The next step is to systematically range OY alternatives for all seven species in concert (termed rebuilding alternatives in the DEIS) to generally gauge how these different OY suites may affect fishing opportunities on the west coast shelf and slope. This analysis recognizes that available yields for each overfished species differentially affect fisheries spatially both latitudinally and in distance from the shore, as well as by the selectivity of the various fishing gears deployed on the west coast to catch that species. For instance, yelloweye rockfish OY alternatives have a greater effect on fisheries deploying line gears on the northern shelf while widow OY alternatives are more likely to affect the ability of whiting-directed trawl fisheries to successfully harvest their whiting allocations. Finally, the analysis projects the socioeconomic impacts to west coast fishing communities by ranking communities based on their dependence on groundfish fisheries constrained by rebuilding OYs and their resilience to changes in economic activity affected by fishing opportunities. This multi-tiered analytical approach to rebuilding all the overfished species is designed to appropriately address the Magnuson-Stevens Act mandate to rebuild in as short a time as possible while taking into account the status and biology of the depleted stock, the needs of fishing communities, and the interaction of the depleted stock within the marine ecosystem.

Alternative 3 OYs are in some cases more conservative than status quo rebuilding plans and in other cases more liberal. This is because all rebuilding plans, except the yelloweye rockfish plan during the harvest rate ramp-down period, specify a constant harvest rate strategy as recommended by the Council's SSC and National Standard 1 guidelines. As discussed in response to Comment 11, the higher Alternative 6 OY for canary rockfish comports to the status quo rebuilding plan since that OY is determined using the specified SPR harvest rate of F88.7%. The Alternative 3 OY, which maintains the 2007-2008 canary rockfish OY of 44 mt, is much more conservative than an OY calculated under the status quo rebuilding plan. Alternative rebuilding OYs need to be considered on a case by case basis and need to consider much more than how the OY changes from one management period to the next.

NMFS disagrees that the rebuilding plan gives priority to economic interests over rebuilding. In taking into account the needs of fishing communities, the Council and NMFS recognize that fishing communities have, for a number of years, already seen their economic activities curtailed in order to rebuild overfished species. The analysis in the DEIS provides information and analyses on individual community impacts and broader coastwide fishery impacts of groundfish fishery management focused on rebuilding overfished species. The analysis identifies classes of communities according to attributes of fishery dependence, resilience, and vulnerability. In comparing these community attributes to amounts of overfished species, target groundfish species and other target species (crab, shrimp, etc.) associated with these communities, NMFS found that there were few regions on the West Coast without a highly dependent or vulnerable groundfish fishing community.

In addition to severely reduced groundfish fishing opportunities, in May, 2008, a commercial fishery failure was declared for the West Coast salmon fishery. The unprecedented collapse of Sacramento River Fall Chinook, combined with the exceptionally poor status of coho salmon from Oregon and Washington, led officials to close all commercial and sport Chinook ocean fishing off California and most of Oregon in 2008. This 2008 salmon closure left thousands of commercial fishermen and dependent commercial and recreational businesses struggling to make ends meet. In response to a request for $290 million in disaster aid by the Governors of Washington, Oregon, and California, Congress appropriated $170 million in disaster aid to affected commercial fishermen and affected commercial and recreational businesses, including support businesses. Given the lack of opportunity for fishermen to harvest salmon in 2008, the Council and NMFS recognized that there might be an increased economic incentive to harvest West Coast groundfish stocks. Because of this, the Council and NMFS took actions to reduce cumulative trip limits for some species in open access fisheries as a conservation measure to ensure that specific OYs were not exceeded (73 FR 21057, April 18, 2008). While the salmon measures for 2009 have not yet been determined, salmon seasons off California and Oregon may be similarly constrained in 2009.

The DEIS provides a rationale for the preferred alternative. Setting harvest specifications and associated management measures is largely driven by the legal requirement to rebuild overfished species. Because of the resulting constraints that this imposes on fisheries and the fact that harvest of other stocks is constrained by the restrictions on overfished stocks, the risk that other stocks will be subjected to overfishing is minimal. For overfished stocks, the basic approach that guides the adoption of a rebuilding strategy comes from the MSA, as explained above.

Table 7-57c in the FEIS shows estimated income impacts under the different management measure alternatives by commercial and tribal fishery including non-groundfish fisheries. Income impacts are a measure of total harvesting, processing, and support activities connected with Council-managed commercial harvests and recreational angler trip expenditures. The Council-preferred alternative shows a $22 million increase in commercial personal income impacts compared to No Action. This is about a 3-percent increase in the total west coast personal income generated landings of groundfish and non-groundfish over the status quo. In terms of “groundfish only” impacts, income generated by the directed groundfish fisheries is about $19 million for about a 12 percent increase over the status quo. These personal income impacts are primarily based on the ex-vessel revenues projected for each of the alternatives which in turn are based on projected OYs. These projections are discussed in the RIR/IRFA associated with this action (Chapter 10 of the DEIS and FEIS) and Chapter 7 of the DEIS and FEIS. The analysis provides projections that compare various alternatives considered including: 2007, No-Action (status quo regulations), and Council's preferred (regulations associated with this final rule). For the tribal and non-tribal commercial fleets, the Council's preferred Alternative leads to $104 million in projected ex-vessel revenues. This is $13 million greater than the No-Action Alternative projection-$91 million and $20 million greater than those earned in 2007. These increases are from the increase in the sablefish OY and the use of the 2008 whiting OY for projecting the 2009 and 2010 whiting OYs. In 2007, the commercial and tribal fleets harvested 5,200 mt of the 5,900 mt sablefish OY and received about $21 million in ex-vessel revenues. The proposed 2009-10 sablefish OYs are about 8,400 mt each—a 46 percent increase. In 2007, whiting vessels harvested about 86 percent of the 243,000 mt OY, earning about $39 million in ex-vessel revenues. The 2008 OY is 269,000 mt—an 11 percent increase.

The Council's analysis provides impacts by gear group or fishery. (The Council's analysis also provides impacts by fishing communities-showing estimates by 18 community/port groups which encompass about 63 individual ports. This analysis is not presented here.) Under these proposed regulations, the projected commercial ex-vessel revenues for the non-tribal directed groundfish groups are about $90 million yearly. These figures represent slight increases from the No-Action (status quo) alternative. Forecast revenues for the limited entry non-whiting trawl fleet are higher than those forecast under previous years' (2007-2008) management regime. The prime reason for this increase is the increase in the sablefish OY as opposed to changes in the rebuilding species OYs. However, the proposed area-based management controls for this fishery are likely to be more limiting than those developed for the 2007-2008 fisheries. These changes will lead to a decrease in fishable area and a potential increase in the cost of fishing because vessels traveling to and fishing at deeper depths will need more fuel. Fixed gear sablefish harvesters will produce more revenue than earned in the 2007-08 period because of the higher sablefish OY. However, similar to the situation for limited entry trawlers, area management will be more restrictive and cause harvesting costs to rise. The nearshore groundfish fishery will be able to reach ex-vessel revenues that equal the status quo but also will face increased area limits. Under the proposed rules, tribal groundfish fisheries should produce the same amount of ex-vessel revenues and personal income as under the No-Action Alternative. The projected revenues earned by limited entry whiting fishery (which includes the catcher-processor fleet) are similar to those projected for the previous biennial period.

However, the potential amount of ex-vessel revenue and personal income will chiefly depend on the 2009 Pacific whiting assessment, adopted yearly by the Council during the March meeting. The Council's preferred alternative assumes that the 298,272 mt of whiting will be harvested in 2009. In 2007, 86 percent of the 2007 243,000 mt OY was harvested and the analysis forecasted that 60 percent of the 2008 OY of 269,000 mt would be harvested. Most recent estimates of the 2008 fishery indicate that 92 percent of 2008 OY was harvested. In January 2009, whiting stock assessment scientists have started developing the Pacific whiting assessment. Early indications are that the OY for Pacific whiting will not increase but decrease from 2009 levels. Consequently the Council projections of $22 million increase in personal income may actually be closer to $14 million if actual 2008 final whiting harvests and 2009 OYs are applied based on Tables 7-57c of the FEIS.

For the coastwide recreational fishery, the projected number of charterboat and private angler trips associated with this rule is higher under the preferred alternative compared to the No Action alternative and are less than in 2007 (See FEIS Tables 7-65 a, b, and c). Under the No Action Alternative, 1.2 million angler trips are projected. These trips would lead to an estimated $114 million in angler expenditures and $90 million in personal income (profits, wages, and other income that result from angler expenditures and remain in fishing communities). Under the Council-preferred Alternative, anglers will take an estimated 1.27 million trips and spend $118 million and yield $93 million in personal income. This is an increase of 3 percent compared to No Action alternative but lower than the 2007 levels of expenditure ($122 million) and personal income ($96 million). As groundfish are caught in targeted bottomfish trips and in targeted trips for halibut, salmon, tuna and other species, these estimates are projections for the total west coast recreational fishery. For groundfish-targeted trips only, the No Action Alternative leads to $48 million in personal income. This is slightly down from 2007 levels of $51 million. Charterboats are considered small businesses. Under these proposed regulations, coastwide, the projected annual number of charterboat trips for all species is 399,000 trips. This is a decrease from 2007 levels of 414,000 trips and a slight increase from the No-Action level of 392,000 trips. The impacts to the recreational sectors are driven by the OYs for yelloweye rockfish, canary rockfish, and to a lesser extent bocaccio and widow rockfish. The 2009-10 yelloweye rockfish OYs under the final Council preferred alternative represent a decrease of 3 mt from No Action levels. Management measures designed so as not to exceed the yelloweye rockfish OY also keep recreational catch within harvest guidelines for other potentially constraining species, such as canary rockfish. The proposed yelloweye bycatch reduction measures include restricting recreational fisheries to depths shallower than 20 fm in certain areas and/or during certain months and expanding areas to protect yelloweye rockfish.

The Council-preferred alternative, in comparison to No Action, continues current rebuilding strategies for most overfished species with an increase in positive short-term socioeconomic impacts (assuming that the whiting fishery is prosecuted at levels similar to past years). As discussed above, and in the FEIS and related documents, lower OYs and associated management measures could result in shorter rebuilding periods for overfished species; however, the Council and NMFS also considered the needs of fishing communities along the entire West Coast in selecting its preferred alternative. The cumulative decline in revenue and income over the past decade has been significant and the small increases in projected revenue are justified. Additional reductions in revenue due to additional management restrictions would likely have significant short-term socioeconomic impacts. The rationale for adopting the preferred alternative is therefore consistent with the comprehensive requirements of the MSA at § 304(e)(4)(A).

Comment 15: The Four Organizations urged NMFS to implement management changes recommended by scientists to address the challenges and uncertainties that climate change and ocean acidification bring.

Response: NMFS agrees there are great challenges and uncertainties associated with climate change and ocean acidification. Potential long term changes to marine ecosystems brought about by climate change and ocean acidification were considered in our management decision. As stated in our response to comments in the FEIS, relevant observations on climate change are included in Chapter 5 of the Supplemental Comprehensive Analysis to the Federal Columbia River Power System Biological Opinion, 2008 (http://www.nwr.noaa.gov/Salmon-Hydropower/Columbia-Snake-Basin/Final-BOs.cfm). Inter-annual climatic variations (e.g. El Niño and La Niña), longer term cycles in ocean conditions (e.g. Pacific Decadal Oscillation), and ongoing global climate change have implications for marine habitats and groundfish species. These phenomena are an area of substantial scientific investigation. Scientific evidence strongly suggests that global climate change is already altering marine ecosystems from the tropics to polar seas. Physical changes associated with warming include increases in ocean temperature, increased stratification of the water column, and changes in the intensity and timing of coastal upwelling. These changes will alter primary and secondary productivity, and the structure of marine communities. NMFS believes that the west coast groundfish fishery is conservatively managed and we will continue to pursue the necessary research and adaptive management strategies to best address a changing marine ecosystem.

Comment 16: The Four Organizations urged NMFS to analyze an option to increase intersector allocation to the fixed gear fleet by 25-30 percent, as fixed gear generally causes orders of magnitude less bycatch and habitat destruction than trawl gear.

Response: Intersector allocations are being considered in a separate ongoing process under FMP Amendment 21. We anticipate an alternative will be analyzed that will address an increase in allocation to fixed gear. Consideration of habitat impacts associated with different gear types and effects of long term sector allocations on west coast fishing communities will be considered in that process.

Comment 17: The Four Organizations urged NMFS to reduce the cowcod OY to 3 mt to reflect the new, more pessimistic understanding of the species's unfished biomass. The Four Organizations assert that NMFS has made no adjustments in rebuilding specifications in order to be precautionary or responsive to the change in unfished biomass from 18 percent to 4.6 percent.

Response: The 2007 cowcod assessment incorporated a suite of corrections and changes to the previous assessment (2005), resulting in revised estimates of several management reference points. The change in perception of stock status is reflected in the results of the revised rebuilding analysis. Due to technical flaws in the 2005 assessment, a direct comparison of revised rebuilding parameters to status quo values is inappropriate and misleading.

The revised rebuilding analysis identifies a median rebuilding year of 2069 with a 3 mt OY and a median rebuilding year of 2072 with a 4 mt OY. The median time to rebuild the stock if all fishing-related mortality were eliminated beginning in 2009 (TF=0) is 2061.

Cowcod is the most constraining species in the southern trawl fishery, and in past years catch of cowcod in this fishery has been highly variable and unpredictable. While the average cowcod mortality in the trawl fishery is only 1.3 mt, catches have been as high as 2.1 mt in recent years. When combined with the total mortality from all sectors of the fishery, this variation would not be accommodated by a 3 mt OY. Therefore, additional fishery restrictions would be necessary if a 3 mt cowcod OY were adopted. Additional restrictions would not be necessary with a 4 mt OY, and the median time to rebuild is only extended by three years.

Comment 18: The Four Organizations urged NMFS to analyze the effect that the trawl individual quota (TIQ) program is likely to have on communities identified as vulnerable in the specifications process to determine if a higher OY (and thus a longer rebuilding period) will actually preserve these communities.

Response: The TIQ program is being considered in a separate ongoing process under FMP Amendment 22. We anticipate that alternatives will be analyzed to address the effects that the program will have on communities, including those identified as vulnerable in previous analyses. Such considerations as rebuilding overfished species and effects of overfished species allocations on west coast fishing communities will be considered in that process. One of the purposes of the Adaptive Management portion of the TIQ program is for the deployment and use of quotas specifically set aside to mitigate for unforeseen impacts upon communities.

Comment 19: The Four Organizations described the need to develop Annual Catch Limits (ACLs) and encouraged NMFS to begin integrating these requirements into the harvest specifications for 2009-2010.

Response: NMFS appreciates the perspectives provided by the Four Organizations on the ACL rule. However, the ACL rule and NMFS associated actions in response are not part of the final action on harvest specifications and management measures for 2009-2010; ACLs will be addressed by the Council and NMFS during the next several years.

Comment 20: The Four Organizations assert, using information on the groundfish trawl fishery, that the groundfish fishery has stabilized as evidenced by increasing average revenues per vessel in comparison to 1995 and 1996, and in particular since implementation of the 2002 Buyback Program.

Response: It is not clear that the groundfish trawl fishery has stabilized. While it is true that the Pacific Coast Groundfish LE Trawl Fishery Rationalization Decision Document (October 2008) at page 140 stated that “Exvessel revenues in the fishery peaked in the mid 1990s at over $60 million. Following the passage of the Sustainable Fisheries Act (1996) and the listing of several species as overfished, harvests became increasingly restricted and landings and revenues declined steadily until 2002. Since 2002 exvessel revenues have stabilized at around $23-27 million per year.” It should be noted that the per-vessel trend analysis that the Four Organizations refer to did not account for inflation nor for changes in the costs of fishing, particularly fuel prices which until recently have increased tremendously and buyback loan fees which have been incurred by the industry. Since September 2005, there has been the imposition of a federal 5 percent ex-vessel revenue fee on ground fish trawl landings for purposes of repaying the $36 million loan associated with the 2002 trawl buyback program. Depending on the state of landing, similar or lesser fees are associated with landings of crab and shrimp. According to Table 7-46 in the FEIS, Oregon June fuel prices increased from $0.93 per gallon in 1999 to over $2.20 a gallon in 2005 with most of the increase occurring in 2004 and 2005 as 2003 prices were about $1.12 per gallon. Recent estimates by the Pacific States Marine Fisheries Commission show that prices continued to increase through June of 2008 to about $4.20 per gallon and have since declined to $2.80 per gallon. (Note that California and Washington fuel prices tend be higher than Oregon prices.) The Four Organizations cite the conclusion that “the fleet reduction and cost efficiency model shows that the consolidation that may occur could diminish the number of vessels by 50 to 66 percent or to a non-whiting fleet size that is somewhere on the order of 40-60 vessels.” This model was based on analysis of the 2004 trawl fishery. After taking into account landings of flatfish, crab, shrimp, whiting and other groundfish, one of the conclusions was that groundfish vessels either suffered a loss of about $2.5 million in 2004 or broke even in 2004 depending on the assumption of the annual rate of return to vessel capital investment.

Three additional perspectives should be noted. First is that the Four Organizations focused this comment on the trawl sector whereas the Council took into account all sectors of the fishery, including the non-trawl sector and the recreational sector. Second, although reducing capacity leads to fewer vessels that have higher trip limits and generally improved economics of the trawl fleet, more important indicators for fishing communities are the total flow of fish and revenue to the community and the resulting amount of income that is generated. Finally, the third perspective is that since Council adoption of the 2009-10 OYs in June of 2008, the national economy has moved into a serious recession. It is a reasonable expectation that the impacts of a declining national economy include reduced demand for seafood and therefore lower prices and revenues to the commercial industry and reduced participation in the recreational fishery.

Santa Monica Seafood

Comment 21: Santa Monica Seafood urges NMFS to reconsider the proposed catch levels and adopt more precautionary and risk averse catch levels for canary, darkblotched, and yelloweye rockfish. They also urged NMFS to account for uncertainty and to rebuild overfished species populations as quickly as possible.

Response: As described in the responses above, the rebuilding approach takes a precautionary approach and is designed to rebuild the overfished stocks consistent with legal requirements.

Changes From the Proposed Rule

The three states submitted comments on the proposed rule, and those comments are addressed in the response to comments section as well as this section due to changes from the proposed rule as a result of those comments.

The proposed rule included revisions to the California recreational management measures, and the regulations at § 660.384 (c)(3). The California Department of Fish and Game(CDFG) provided comments regarding this section, pointing out several minor errors, inconsistencies between current regulations that were not proposed to be revised, and inconsistencies with the Council recommendations.

In this final rule NMFS is correcting the latitudinal coordinate for Point Arena in § 660.384 (c)(3)(i)(A)(2) and (3) from 38°57′ N. lat. to 38°57.50′ N. lat. so that it is consistent with the definition of “Point Arena, CA” as defined in the list of commonly used geographic coordinates listed at § 660.302.

In § 660.384 (c)(3)(i)(A)(2), an editing error introduced language that referred to the closed areas around the Farallon Islands and Cordell Banks. These groundfish conservation areas, as defined in § 660.390, are not in the North-Central North of Point Arena Region. Therefore, the references to the Farallon Islands and Cordell Banks were removed from this paragraph.

In § 660.384 (c)(3)(ii)(B), NMFS proposed recreational management measures in the California recreational rockfish, cabezon, and greenling (RCG complex) fishery. These proposed regulations included a description of measures for the area between 42° and 40°10′ N. lat. and the area south of 40°10′ N. lat. CDFG commented that since the measures described were identical, both north and south, that NMFS should revise the paragraph to have those measures apply for the entire state. Therefore, NMFS is removing language from § 660.384 (c)(3)(ii)(B) regarding fish per day limits in the area north and south of 40°10′ N. lat. because the limits are the same north and south.

CDFG also noted that the “other flatfish” regulations at § 660.384 (c)(3)(iv) in the proposed rule listed a gear restriction of “2 hooks and 1 line when fishing for other flatfish”. CDFG noted that no gear restrictions for other flatfish were recommended by the Council. Therefore, NMFS removed the gear restriction language of 2 hooks and 1 line for “other flatfish” in § 660.384 (3)(iv).

The states of Oregon and California both had comments pertaining to the ABC/OY tables, Tables 1a, 1b, 1c, 2a, 2b, and 2c to part 660 subpart G. Some of the suggested corrections were typographic errors and errors in table formatting that occurred upon publication in the Federal Register. The following typographic and non-substantive corrections were made: the titles of tables 2B and 2C are corrected to read 2010 instead of 2008; in Table 1a, the portion of the lingcod ABC for the Vancouver Columbia areas (Columns 1 and 2) of 4,473 mt was listed one row too low, and is moved up one row in order to be listed in the correct area of the coast; in Table 1a, the coastwide ABC and OY values for lingcod were re-formatted, in order to visually represent their coastwide nature; and footnote hh/ to Tables 1 and 2 are revised to correct grammatical errors and to correct transposed numbers. Some of the comments from the two states are intended to correct some of the specifications that were incorrect in the proposed rule, as they were inconsistent with the specifications recommended by the Council. Additional corrections, therefore, are made to the ABC/OY tables in this final rule to make them consistent with the Council recommendations and the final preferred alternative analyzed in the FEIS: in Table 2a, the sablefish OY is changed in the area north of 36° N. lat. from 5,824 mt to 6,471 mt; in Table 2a, the ABC in both columns for the Monterey Conception area for minor rockfish north of 36° N. lat. is changed from 3,384 mt to 3,382 mt; in Table 2c, the commercial HG for sablefish north of 36° N. lat. is changed from 5,824 mt to 6,471 mt; in Table 2c, the sablefish limited entry HG north of 36° N. lat. is changed from 5,276 mt to 5,863 mt; in Table 2c, the sablefish limited entry HG north of 36° N. lat. is changed from 548 mt to 608 mt; and corrections to the footnotes of Table 2, for lingcod, sablefish, cabezon, Dover sole, pacific ocean perch (POP), and yelloweye are also made to be consistent with the Council recommendations and the final preferred alternative analyzed in the FEIS.

As part of the proposed rule, NMFS proposed management measures that would expand the non-trawl RCA off part of the coast of Oregon to close fishing in an area where relatively high bycatch of yelloweye rockfish occurred. This management measure was developed using West Coast Groundfish Observer Program (WCGOP) data, stratified north and south of the Columbia-Eureka management line at 43° N. lat., as defined in § 660.302. The Oregon Department of Fish and Wildlife (ODFW) commented that the non-trawl Rockfish Conservation Area (RCA) boundaries described in Tables 4 (North) and 5 (South) in the proposed rule were inconsistent with the Council recommendation to divide the RCA boundary, in a consistent manner with the WCGOP data analysis, at 43° N. lat. Therefore, the RCA boundaries off the Oregon Coast are no longer divided at 42°50′ N. lat., but divided at 43° N. lat., or the Columbia-Eureka line (as defined in § 660.302).

At their June 2008 meeting, the Council recommended an incidental allowance of lingcod for the salmon troll fishery. WDFW commented that this allowance was not reflected in Table 5 (North). NMFS described the incidental lingcod allowance to salmon trollers at a ratio of “1 lingcod per 15 Chinook, plus 1 lingcod up to a trip limit of 10 lingcod, up to a maximum limit of 400 lbs (181.4 kg) per month” in the preamble to the proposed rule, however this regulation was not proposed in Table 5 (North). Therefore, incidental lingcod allowance in the salmon troll fishery is added to Table 5 (North).

During development of the 2009-2010 fishery management measures, the Council and NMFS considered the most recently available scientific information on bronzespotted rockfish (Sebastes gilli). This analysis showed that concern for the health of the stock was warranted. Analysis of age and length information indicate that bronzespotted rockfish are very slow growing with high longevity; a life history pattern similar to cowcod. Species with these traits are commonly associated with high vulnerability to overfishing. Recent analysis of historical and current catch information indicated that landings of bronzespotted rockfish dropped rapidly in the 1980s and has remained at very low levels from 1990 to the present. Bronzespotted rockfish primarily occur in Southern California waters and are caught in commercial and recreational fisheries. Additional details on these analyses can be found in the FEIS in section 4.3.4.1. The Council recommended non-retention of bronzespotted rockfish as a new management measure to respond to concerns about the health of the stock. A non-retention policy should encourage vessels that encounter this species to move to a different area. Since this species is known to occupy similar depths and habitats as cowcod, this measure could potentially reduce harvest of both bronzespotted rockfish and cowcod. In addition, the Cowcod Conservation Areas that have been in place since 2001 likely provide existing protections to co-occurring bronzespotted rockfish. In the proposed rule, regulatory language at § 660.384 (c)(3)(iii)(B) mistakenly neglected to add bronzespotted rockfish to the list of species that may not be retained in the California recreational fishery. In addition, Tables 3 (South), 4 (South), and 5 (South) mistakenly neglected to include indication that bronzespotted rockfish could not be retained in 2009-2010 (i.e. listed as “closed”) in the commercial trawl and commercial non-trawl fisheries south of 40°10′ N. lat. This non-retention policy, which “closes” or sets the trip limit to zero for bronzespotted rockfish, is an important conservation measure to protect this species, and may reduce fishery impacts to cowcod as well. In addition, some of the public comments on the Draft EIS and the proposed rule stated their support of this non-retention policy. Therefore, in response to these comments, and because it was part of the Council recommended management measures for 2009-2010 and analyzed in the EIS, regulatory language at § 660.384 (c)(3)(iii)(B) is revised to add bronzespotted rockfish to the list of species that may not be retained in the California recreational fishery. Also, NMFS adds species specific trip limits for bronzespotted rockfish, to designate it as “closed”, in Tables 3 (South), 4 (South), and 5 (South).

In addition to the above mentioned changes that were made in response to public comments, NMFS is also correcting the limited entry sablefish tier limits for 2009-2010. As part of the biennial specifications and management measures process, NMFS determines annual sablefish tier limits for the limited entry fixed gear sablefish-endorsed fleet. This was done as part of the 2009-2010 specifications and management measures, and 2009 and 2010 annual sablefish tier limits were proposed as described in the preamble to the proposed rule that published on December 31, 2008 (73 FR 80516). The preamble describes the 2009-2010 tier limits as being higher than in 2007-2008, reflecting the higher sablefish OY established by the 2009-2010 harvest specifications, and lists three sablefish annual tier limits for 2009 and 2010, respectively. Sablefish primary season tier limits are also published in the codified regulations, at 50 CFR 660.372 (b)(3)(i). NMFS mistakenly omitted these changes to the tier limits, as described in the preamble, when proposing changes to regulatory language in the December 31, 2008 proposed rule. Therefore, NMFS has corrected the proposed changes to regulatory text in § 660.372 by revising paragraph (b)(3)(i) to include the new 2009 and 2010 sablefish annual tier limits, as described in the preamble to the proposed rule.

The proposed rule included revisions to the latitude and longitude coordinates that define the lines approximating the depth contours at §§ 660.391 through 660.394 that were proposed by the states, and recommended by the Council. In addition to the changes included in the proposed rule, NMFS is adding latitude and longitude coordinates to the existing lines that approximate the depth contours in this final rule. Using a mathematical formula, NMFS is adding coordinate points that lie along existing lines, so that they have a defining point at some specific latitudes, described as “commonly used geographic coordinates” at § 660.302. These additional coordinates do not change the applicability, meaning, or location of the lines that approximate the depth contours, but are intended to provide a breaking point for instances when an RCA boundary is shifted seaward or shoreward, broken at one of these commonly used geographic coordinates. For simplicity in the amendatory language in this final rule, and to prevent errors and increase clarity when these revisions are incorporated into the CFR, the final coordinates are published in their entirety.

The definition of “Processor” at § 660.302 is inserted in this final rule, because it had been inadvertently dropped in 2006 without any explanation. This definition is also in the Pacific Coast Groundfish FMP. In addition, two paragraphs under “Processing or to process” are being reprinted for clarity. Following the Council's June 2008 meeting, Sustainable Fisheries Division (SFD) of NMFS, Northwest Region, deliberated on how to complete the harvest specifications and management measures for 2009-2010. SFD staff reviewed the tasks relative to a final rule implementation date of January 1, 2009. Given the complexity of the task, along with the other work of the division, it was determined that there was not enough time to complete the draft EIS; prepare and publish proposed and final rules; and allow adequate time for the public to review the documents and provide comment, and for NMFS to consider and to respond to public comment before January 1, 2009. In this situation, the Pacific Coast groundfish FMP states that the current harvest specifications and management measures remain in place until replaced or modified. Specifically, the 2008 ABC and OYs would remain in place. In addition, the 2008 trip limit tables would also remain in place, but could be modified as necessary by inseason actions based on the most current fishery information in order to ensure harvests stayed within the 2008 OYs. During these deliberations, the SFD staff considered the conservation and management implications of delaying the effective date until March 1, 2009.

During these deliberations, SFD prepared a side-by-side comparison of the trip limits that had been in place in 2008 for January-February (period one) and the limits recommended by the Council in the management measures for period one in 2009 to better understand the implications of delaying the action. In addition to the side-by-side comparison, other factors informed the agency decision, including the OY levels proposed for 2009. NMFS goals were to ensure that no conservation problems would be caused by the delay, and to understand other potential effects on the fishery.

The most significant differences in trip limits proposed for period one were increased trawl limits for Dover sole, arrowtooth flounder, and some other flatfish due to a proposed increase in the canary rockfish OY for 2009. There was also a recommended reduction in the petrale sole limits in period one. The petrale OYs for 2008 and 2009 were very similar, so the trip limit reduction was to allow opportunity later in the year because prior year harvests revealed petrale catch was too high in period one. Finally, fixed-gear and open access RCAs were proposed to be expanded in 2009. The 2008 yelloweye OY was 20 mt. Under the status-quo rebuilding plan, the 2009 OY for yelloweye is to be 17 mt, as described in the proposed rule. Yelloweye is taken primarily in the recreational fisheries and the line fisheries. There is almost no recreational fishing in period one, and very little line fishing in yelloweye areas in period one, so this potential change did not seem to be a problem. All of these factors together led SFD staff to conclude that delaying the effective date of the action by two months would not pose any conservation concerns. In addition, there is a low level of fishing that occurs during the first period of the year and thus the likelihood of significant economic impacts to fishermen not able to access higher trip limits would be low and any economic losses to fishermen could be offset by greater opportunity to the fleet later in 2009.

NOAA Fisheries notified the Council that the 2009-2010 harvest specifications would not be effective on January 1, 2009 and thus the Council would have to manage the 2009 period one fishery based on the 2008 OYs and management measures. However, the management measures could be adjusted based on inseason information. Based on the best available fishery information at the November 2008 meeting, the Council recommended inseason adjustments to management measures to ensure that the fishery stayed within the 2008 harvest specifications (most of which were more conservative than those being proposed for 2009). The Council recommended increases to some limits for sablefish and longspine thornyheads because the fisheries had come in below the OYs in 2008. The Council also recommended lowering the trip limits for petrale sole because of the excessive petrale sole harvest in period one in 2008. The Council did not recommend other increases to fisheries, particularly flatfish fishing, because those increases that had been proposed for 2009 depended on the higher canary OY proposed for 2009. Finally, even though there is very little line fishing in period one, the Council recommended the expanded RCA that had been proposed in order to ensure the 2009 mortality stayed within the Amendment 16-4 rebuilding plan. The Council specifically did not recommend higher trip limits for other species for which the 2008 OYs of either the target or incidental catch species would not accommodate the higher trip limits that had been included in the proposed rule. See Agenda Item F.1.b, Supplemental GMT Report, November 2008.

NOAA Fisheries approved the council recommendation for January-February 2009 measures on December 24, 2008 (73 FR 79008). Fishing Mortality that occurs during January and February will be taken into account in the total mortality estimates for 2009, and will count towards the ABCs and OYs ultimately implemented for 2009.

Classification

The Administrator, Northwest Region, NMFS, has determined that the 2009-2010 groundfish harvest specifications and management measures, which this final rule implements, are consistent with the national standards of the Magnuson-Stevens Act and other applicable laws.

An FEIS was prepared for the 2009-2010 groundfish harvest specifications and management measures. The FEIS was filed with the Environmental Protection Agency on January 16, 2009. The FEIS includes an RIR and an IRFA. The Environmental Protection Agency published a notice of availability for the FEIS on January 23, 2009 (74 FR 4195.) A copy of the FEIS is available online at http://www.pcouncil.org/. In approving the 2009-2010 groundfish harvest specifications and management measures, NMFS issued a Record of Decision (ROD) identifying the selected alternatives. A copy of the ROD is available from NMFS (see ADDRESSES).

As discussed above in Changes From the Proposed Rule, there was not adequate time, given the complexity of the rulemaking and associated documentation and other work, to have this final rule effective by January 1, 2009. Therefore the 2008 specifications and management measures remained in place for the January-February cumulative limit period, except that routine adjustments to fishery management measures, within the scope of the 2007-2008 regulations, were made. At the time NMFS anticipated that this final rule would implement the 2009-2010 biennial specifications and management measures beginning on March 1, 2009. If this final rule is not effective by March 1, 2009, specifications and management measures that were in effect March 1, 2008, will remain in place. The fishery specifications and management measures from March 2008 were based on the best scientific information at the time, and in some cases do not accurately reflect the current information. The 2009-2010 groundfish harvest specifications and management measures are intended to rebuild overfished stocks as quickly as possible, taking into account the appropriate factors. NMFS utilizes the most recently available fishery information, scientific information, and stock assessments, to implement specifications and management measures biennially. Generally these management measures are implemented on January 1 of odd numbered years. The 2009-2010 specifications and management measures were developed using the most recently available scientific information, stock assessments, and fishery information and therefore reflect the current status of the stock being managed. NMFS finds good cause to waive the 30-day delay in effectiveness pursuant to 5 U.S.C. 553(d)(3), so that this final rule may become effective March 1, 2009. Leaving the 2008 harvest specifications and management measures in place could: cause harm to some stocks because those management measures are not based on the most current scientific information; or cause drastic management changes later in the year to prevent exceeding some lower 2009 OYs once they are implemented. For example, the yelloweye rockfish OY is lower in 2009-2010 than it was in 2008 and constrains commercial and recreational hook-and-line fisheries north of Cape Mendocino, California. Therefore, management measures tailored to higher 2008 specifications could allow increased harvest of yelloweye rockfish, and increase the risk of exceeding the lower 2009 OY or causing more severe closures later in the year. A non-retention policy for bronzespotted rockfish must be implemented in a timely manner to reduce fishery impacts on this stock, for which there are concerns regarding the health of the stock. The commercial fishery is managed with two-month cumulative limits, so even a short delay in effectiveness could allow the fleets to harvest the entire period 2 (March-April) two-month limit before the 2009-2010 measures are effective. Delaying the effectiveness of this rule would also be confusing to the public, since it would result in a change in trip limits in the midst of the two-month March-April cumulative trip limit period. Finally, a delay in the effectiveness of these measures could require unnecessarily restrictive measures later in the year, including possible fishery closures, to make up for excessive harvest that would be allowed under the 2007-2008 management measures and specifications. Thus, a delay in effectiveness could ultimately cause economic harm to the fishing industry and associated fishing communities. These reasons constitute good cause under authority contained in 5 U.S.C. 553(d)(3), to establish an effective date less than 30 days after date of publication.

This proposed rule has been determined to be not significant for purposes of Executive Order 12866.

This final rule has been determined to be not significant for purposes of Executive Order 12866. NMFS prepared a final Regulatory Flexibility Analysis (FRFA) as part of the regulatory impact review. Among other things, the FRFA incorporates the Initial Regulatory Flexibility Analysis (IRFA), the comments and responses to the proposed rule, and a summary of the analyses completed to support the action. A copy of the FRFA is available from NMFS (see ADDRESSES) and a summary of the FRFA, per the requirements of 5 U.S.C. 604(a) follows: It is estimated that implementation of the Council's preferred alternative will affect about 2,600 small entities. These small entities are those that are directly regulated by the proposed rule that will be promulgated to support implementation of the Council's preferred alternative. These entities are associated with those vessels that either target groundfish or harvest groundfish as bycatch. Consequently, these are the vessels, other than catcher-processors, that participate in the limited entry portion of the fishery, the open access fishery, the charterboat fleet, and the tribal fleets. Catcher-processors also operate in the Alaska Pollock fishery, and all are entities associated with larger companies such as Trident and American Seafoods. Therefore, it is assumed that all catcher-processors are “large” entities.

Best estimates of the limited entry groundfish fleet are taken from the NMFS Limited Entry Permits Office. As of July 2006, there are 403 limited entry permits including 179 endorsed for trawl (174 trawl only, 4 trawl and longline, and 1 trawl and trap-pot); 198 endorsed for longline (193 longline only, 4 longline and trap-pot, and 4 trawl and longline); 32 endorsed for trap-pot (27 trap-pot only, 4 longline and trap-pot, and 1 trawl and trap-pot). Of the longline and trap-pot permits, 164 are sablefish endorsed. Of these endorsements 126 are “stacked” on 50 vessels. Eight of these permits are used or owned by Catcher-processor companies associated with the whiting fishery. The remaining 395 entities are assumed to be small businesses based on a review of sector revenues and average revenues per entity. The open access or nearshore fleet, depending on the year and level of participation, is estimated to be about 1,300 to 1,600 vessels. Again these are assumed to be “small entities”. The tribal fleet includes about 53 vessels, and the charterboat fleet includes 525 vessels that are also assumed to be “small entities”.

The purposes of an IRFA and FRFA include documenting effects on small businesses and efforts to mitigate impacts upon small businesses/entities. The final Council-preferred alternative represents the Council's efforts to address the directions provided by the Ninth Circuit Court of Appeals which require a revised approach and emphasizes the need to rebuild stocks in as short a time as possible, taking into account: (1) The status and biology of the stocks, (2) the needs of fishing communities, and (3) interactions of depleted stocks within the marine ecosystem. When the Council was taking into account the “needs of fishing communities” it was also simultaneously taking into account the “needs of small businesses” as fishing communities rely on small businesses as a source of economic income and activity. For example, the Council's three-meeting process for selecting the preferred alternative, as well as the Council's consideration of a yelloweye rockfish “ramp down” strategy and creation of additional Yelloweye Rockfish Conservation Areas can be seen as means of trying to mitigate impacts of the proposed rule on small entities while addressing the directions of the Court and the requirements of the Magnuson Act. Comments 5 and 6 above are also reflective of the processes undertaken. Through these actions, the Council was able to consider the trade-off between rebuilding periods (need to rebuild as fast as possible) and the effects on communities (taking into account the needs of fishing communities) and small businesses. Additional management measures were adopted to assure the OYs are not exceeded (which in turn would affect the communities and small businesses). The suite of OYs and management measures allows fishing sectors to continue, and prevents major closures of fisheries and the associated harm to communities and their small businesses.

There are no new reporting, record-keeping, or other compliance requirements in the final rule. Within its recommendations for the 2009-2010 Specifications and Management measures, the Council recommended mandatory logbooks for the limited entry and open access fixed gear fishing fleets. However, development and implementation of a Federal logbook system would take more time than is available for this rulemaking and will be considered for implementation in the future. References to collections-of-information made in this action are intended to properly cite those collections in Federal regulations, and not to alter their effect in any way.

No Federal rules have been identified that duplicate, overlap, or conflict with this action.

NMFS issued Biological Opinions under the ESA on August 10, 1990, November 26, 1991, August 28, 1992, September 27, 1993, May 14, 1996, and December 15, 1999, pertaining to the effects of the Pacific Coast groundfish FMP fisheries on Chinook salmon (Puget Sound, Snake River spring/summer, Snake River fall, upper Columbia River spring, lower Columbia River, upper Willamette River, Sacramento River winter, Central Valley spring, California coastal), coho salmon (Central California coastal, southern Oregon/northern California coastal), chum salmon (Hood Canal summer, Columbia River), sockeye salmon (Snake River, Ozette Lake), and steelhead (upper, middle and lower Columbia River, Snake River Basin, upper Willamette River, central California coast, California Central Valley, south/central California, northern California, southern California). These biological opinions have concluded that implementation of the FMP for the Pacific Coast groundfish fishery was not expected to jeopardize the continued existence of any endangered or threatened species under the jurisdiction of NMFS, or result in the destruction or adverse modification of critical habitat.

NMFS reinitiated a formal ESA section 7 consultation in 2005 for both the Pacific whiting midwater trawl fishery and the groundfish bottom trawl fishery. The December 19, 1999 Biological Opinion had defined an 11,000 Chinook incidental take threshold for the Pacific whiting fishery. During the 2005 Pacific whiting season, the 11,000 Chinook incidental take threshold was exceeded, triggering reinitiation. Also in 2005, new WCGOP data became available, allowing NMFS to complete an analysis of salmon take in the bottom trawl fishery.

NMFS prepared a Supplemental Biological Opinion dated March 11, 2006, which addressed salmon take in both the Pacific whiting midwater trawl and groundfish bottom trawl fisheries. In its 2006 Supplemental Biological Opinion, NMFS concluded that catch rates of salmon in the 2005 whiting fishery were consistent with expectations considered during prior consultations. Chinook bycatch has averaged about 7,300 over the last 15 years and has only occasionally exceeded the reinitiation trigger of 11,000. Since 1999, annual Chinook bycatch has averaged about 8,450. The Chinook Evolutionarily Significant Units (ESUs) most likely affected by the whiting fishery have generally improved in status since the 1999 ESA section 7 consultation. Although these species remain at risk, as indicated by their ESA listing, NMFS concluded that the higher observed bycatch in 2005 does not require a reconsideration of its prior “no jeopardy” conclusion with respect to the fishery. For the groundfish bottom trawl fishery, NMFS concluded that incidental take in the groundfish fisheries is within the overall limits articulated in the Incidental Take Statement of the 1999 Biological Opinion. The groundfish bottom trawl limit from that opinion was 9,000 fish annually. NMFS will continue to monitor and collect data to analyze take levels. NMFS also reaffirmed its prior determination that implementation of the Groundfish FMP is not likely to jeopardize the continued existence of any of the affected ESUs.

Lower Columbia River coho (70 FR 37160, June 28, 2005) were recently listed and Oregon Coastal coho (73 FR 7816, February 11, 2008) were recently relisted as threatened under the ESA. The 1999 biological opinion concluded that the bycatch of salmonids in the Pacific whiting fishery were almost entirely Chinook salmon, with little or no bycatch of coho, chum, sockeye, and steelhead. The Southern Distinct Population Segment (DPS) of green sturgeon (71 FR 17757, April 7, 2006) were also recently listed as threatened under the ESA. As a consequence, NMFS has reinitiated its Section 7 consultation on the PFMC's Groundfish FMP.

Pursuant to Executive Order 13175, this final rule was developed after meaningful consultation and collaboration with tribal officials from the area covered by the FMP. Under the Magnuson-Stevens Act at 16 U.S.C. 1852(b)(5), one of the voting members of the Pacific Council must be a representative of an Indian tribe with federally recognized fishing rights from the area of the Council's jurisdiction. In addition, regulations implementing the FMP establish a procedure by which the tribes with treaty fishing rights in the area covered by the FMP request new allocations or regulations specific to the tribes, in writing, before the first of the two meetings at which the Council considers groundfish management measures. The regulations at 50 CFR 660.324(d) further state “the Secretary will develop tribal allocations and regulations under this paragraph in consultation with the affected tribe(s) and, insofar as possible, with tribal consensus.” The tribal management measures in this final rule have been developed following these procedures. The tribal representative on the Council made a motion to adopt the non-whiting tribal management measures, which was passed by the Council. Those management measures, which were developed and proposed by the tribes, are included in this final rule. The tribal whiting set aside was based on the requests from the affected tribes at the June meeting.

List of Subjects in 50 CFR Part 660

Fisheries, Fishing, and Indian Fisheries.

Dated: February 25, 2009.
James W. Balsiger,
Acting Assistant Administrator for Fisheries, National Marine Fisheries Service.

For the reasons set out in the preamble, 50 CFR part 660 is amended as follows:

PART 660—FISHERIES OFF WEST COAST STATES

1. The authority citation for part 660 continues to read as follows:

Authority: 16 U.S.C. 1801 et seq.

2. In § 660.302, paragraph (2)(x) of the definitions for “North-South management area”, the definition for “Processing or to process” and the definition for “Prohibited species” are revised, and the definition for “Processor” is added in alphabetical order to read as follows:

§ 660.302 Definitions.

* * * * *

North-South management area * * *

(2) * * *

(x) Cape Arago, OR—43°20.83′ N. lat.

* * * * *

Processing or to process means the preparation or packaging of groundfish to render it suitable for human consumption, retail sale, industrial uses or long-term storage, including, but not limited to, cooking, canning, smoking, salting, drying, filleting, freezing, or rendering into meal or oil, but does not mean heading and gutting unless additional preparation is done. (Also see an exception to certain requirements at § 660.373 (a)(iii) pertaining to Pacific whiting shoreside vessels 75-ft (23-m) or less LOA that, in addition to heading and gutting, remove the tails and freeze catch at sea.)

(1) At-sea processing means processing that takes place on a vessel or other platform that floats and is capable of being moved from one location to another, whether shore-based or on the water.

(2) Shore-based processing or processing in the shore-based sector means processing that takes place at a facility that is permanently fixed to land.

Processor means person, vessel, or facility that engages in processing; or receives live groundfish directly from a fishing vessel for retail sale without further processing.

Prohibited species means those species and species groups whose retention is prohibited unless authorized by provisions of this section or other applicable law. The following are prohibited species: Any species of salmonid, Pacific halibut, Dungeness crab caught seaward of Washington or Oregon, and groundfish species or species groups under the PCGFMP for which quotas have been achieved and/or the fishery closed.

* * * * *

3. In § 660.303, paragraph (c) is revised to read as follows:

§ 660.303 Reporting and recordkeeping.

* * * * *

(c) Any person landing groundfish must retain on board the vessel from which groundfish is landed, and provide to an authorized officer upon request, copies of any and all reports of groundfish landings containing all data, and in the exact manner, required by the applicable state law throughout the cumulative limit period during which a landing occurred and for 15 days thereafter. For participants in the primary sablefish season (detailed at § 660.372(b)), the cumulative limit period to which this requirement applies is April 1 through October 31 or, for an individual permit holder, when that permit holder's tier limit is attained, whichever is earlier.

* * * * *

4. In § 660.306, a new paragraph (f)(7) is added to read as follows:

§ 660.306 Prohibitions.

* * * * *

(f) * * *

(7) Sort or discard any portion of the catch taken by a catcher vessel in the mothership sector prior to the catch being received on a mothership, and prior to the observer being provided access to the unsorted catch, with the exception of minor amounts of catch that are lost when the codend is separated from the net and prepared for transfer.

* * * * *

5. In § 660.314, paragraphs (c)(1), (d)(3)(iii) introductory text, (d)(3)(iii)(B), and (e) introductory text are revised to read as follows:

§ 660.314 Groundfish observer program.

(c) * * *

(1) NMFS-certified observers.

(i) A catcher/processor or mothership 125-ft (38.1-m) LOA or longer must carry two NMFS-certified observers, and a catcher-processor or mothership shorter than 125-ft (38.1-m) LOA must carry one NMFS-certified observer, each day that the vessel is used to take, retain, receive, land, process, or transport groundfish.

(ii) A Pacific whiting shoreside vessel that sorts catch at sea must carry one NMFS-certified observer, from the time the vessel leaves port on a trip in which the catch is sorted at sea to the time that all catch from that trip has been offloaded.

* * * * *

(d) * * *

(3) * * *

(iii) Hardware and software. Pacific whiting vessels that are required to carry one or more NMFS-certified observers under provisions at paragraphs (c)(1)(i) and (ii) must provide hardware and software pursuant to regulations at 50 CFR 679.50(f)(1)(iii)(B)(1) and 50 CFR 679.50(f)(2), as follows:

* * * * *

(B) NMFS-supplied software. Ensuring that each vessel that is required to carry a NMFS-certified observer obtains the data entry software provided by the NMFS for use by the observer.

* * * * *

(e) Procurement of observer services by catcher/processors, motherships, and Pacific whiting shoreside vessels that sort at sea. Owners of vessels required to carry observers under provisions at paragraph (c)(1)(i) or (ii) of this section must arrange for observer services from an observer provider permitted by the North Pacific Groundfish Observer Program under 50 CFR 679.50(i), except that:

* * * * *

6. In § 660.365, paragraphs (b),(c),(d), and (g) are revised to read as follows:

§ 660.365 Overfished species rebuilding plans.

* * * * *

(b) Canary rockfish. The target year for rebuilding the canary rockfish stock to BMSY is 2021. The harvest control rule to be used to rebuild the canary rockfish stock is an annual SPR harvest rate of 88.7 percent.

(c) Cowcod. The target year for rebuilding the cowcod stock south of Point Conception to BMSY is 2072. The harvest control rule to be used to rebuild the cowcod stock is an annual SPR harvest rate of 82.1 percent.

(d) Darkblotched rockfish. The target year for rebuilding the darkblotched rockfish stock to BMSY is 2028. The harvest control rule to be used to rebuild the darkblotched rockfish stock is an annual SPR harvest rate of 62.1 percent.

* * * * *

(g) Yelloweye rockfish. The target year for rebuilding the yelloweye rockfish stock to BMSY is 2084. The harvest control rule to be used to rebuild the yelloweye rockfish stock is an annual SPR harvest rate of 66.3 percent in 2009 and in 2010. Yelloweye rockfish is subject to a ramp-down strategy where the harvest level has been reduced annually from 2007 through 2009. Yelloweye rockfish will remain at the 2009 level in 2010. Beginning in 2011, yelloweye rockfish will be subject to a constant harvest rate strategy with a constant SPR harvest rate of 71.9 percent.

7. In § 660.370 paragraphs (c)(1)(ii), (d), (h)(6)(i)(A) through (C), and (h)(6)(ii)(A) through (C) are revised to read as follows:

660.370 Specifications and management measures.

* * * * *

(c) * * *

(1) * * *

(ii) Differential trip landing limits and frequency limits based on gear type, closed seasons, and bycatch limits. Trip landing and frequency limits that differ by gear type and closed seasons may be imposed or adjusted on a biennial or more frequent basis for the purpose of rebuilding and protecting overfished or depleted stocks. To achieve the rebuilding of an overfished or depleted stock, bycatch limits may be established and adjusted to be used to close the primary season for any sector of the Pacific whiting fishery described at § 660.373(b), before the sector's Pacific whiting allocation is achieved if the applicable bycatch limit is reached. Bycatch limit amounts are specified at § 660.373(b)(4).

* * * * *

(d) Automatic actions. Automatic management actions may be initiated by the NMFS Regional Administrator without prior public notice, opportunity to comment, or a Council meeting. These actions are nondiscretionary, and the impacts must have been taken into account prior to the action. Unless otherwise stated, a single notice will be published in the Federal Register making the action effective if good cause exists under the APA to waive notice and comment.

(1) Automatic actions are used in the Pacific whiting fishery to:

(i) Close sectors of the fishery or to reinstate trip limits in the shore-based fishery when a whiting harvest guideline, commercial harvest guideline, or a sector's allocation is reached, or is projected to be reached;

(ii) Close all sectors or a single sector of the fishery when a bycatch limit is reached or projected to be reached;

(iii) Reapportion unused Pacific whiting allocation to other sectors of the fishery;

(iv) Reapportion unused bycatch limit species to other sectors of the Pacific whiting fishery.

(v) Implement the Ocean Salmon Conservation Zone, described at § 660.373(c)(3), when NMFS projects the Pacific whiting fishery may take in excess of 11,000 Chinook within a calendar year,

(vi) Implement Pacific Whiting Bycatch Reduction Areas, described at § 660.373(c)(3), when NMFS projects a sector-specific bycatch limit will be reached before the sector's whiting allocation.

(2) [Reserved]

* * * * *

(h) * * *

(6) * * *

(i) * * *

(A) Coastwide—widow rockfish, canary rockfish, darkblotched rockfish, yelloweye rockfish, shortbelly rockfish, black rockfish, blue rockfish, minor nearshore rockfish, minor shelf rockfish, minor slope rockfish, shortspine and longspine thornyhead, Dover sole, arrowtooth flounder, petrale sole, starry flounder, English sole, other flatfish, lingcod, sablefish, Pacific cod, spiny dogfish, other fish, longnose skate, and Pacific whiting;

(B) North of 40°10′ N. lat.—POP, yellowtail rockfish;

(C) South of 40°10′ N. lat.—minor shallow nearshore rockfish, minor deeper nearshore rockfish, California scorpionfish, chilipepper rockfish, bocaccio rockfish, splitnose rockfish, Pacific sanddabs, cowcod, bronzespotted rockfish and cabezon.

(ii) * * *

(A) Coastwide—widow rockfish, canary rockfish, darkblotched rockfish, yelloweye rockfish, shortbelly rockfish, black rockfish, blue rockfish, minor nearshore rockfish, minor shelf rockfish, minor slope rockfish, shortspine and longspine thornyhead, Dover sole, arrowtooth flounder, petrale sole, starry flounder, English sole, other flatfish, lingcod, sablefish, Pacific cod, spiny dogfish, longnose skate, other fish, Pacific whiting, and Pacific sanddabs;

(B) North of 40°10′ N. lat.—POP, yellowtail rockfish;

(C) South of 40°10′ N. lat.—minor shallow nearshore rockfish, minor deeper nearshore rockfish, chilipepper rockfish, bocaccio rockfish, splitnose rockfish, cowcod, bronzespotted rockfish and cabezon.

* * * * *

8. In § 660.372, paragraph (b)(1) and (b)(3)(i) are revised to read as follows:

§ 660.372 Fixed gear sablefish fishery management.

* * * * *

(b) * * *

(1) Season dates. North of 36° N. lat., the primary sablefish season for the limited entry, fixed gear, sablefish-endorsed vessels begins at 12 noon l.t. on April 1 and ends at 12 noon l.t. on October 31, or for an individual permit holder when that permit holder's tier limit has been reached, whichever is earlier, unless otherwise announced by the Regional Administrator through the routine management measures process described at § 660.370(c).

* * * * *

(3) * * *

(i) A vessel participating in the primary season will be constrained by the sablefish cumulative limit associated with each of the permits registered for use with that vessel. During the primary season, each vessel authorized to participate in that season under paragraph (a) of this section may take, retain, possess, and land sablefish, up to the cumulative limits for each of the permits registered for use with that vessel. If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under paragraph (c) of this section. In 2009, the following annual limits are in effect: Tier 1 at 61,296 lb (27,803 kg), Tier 2 at 27,862 lb (12,638 kg), and Tier 3 at 15,921 lb (7,221 kg). For 2010 and beyond, the following annual limits are in effect: Tier 1 at 56,081 lb (25,437 kg), Tier 2 at 25,492 lb (11,562 kg), and Tier 3 at 14,567 lb (6,648 kg).

* * * * *

9. In § 660.373, paragraphs (a), (b)(3)(ii), and (b)(4) are revised, and new paragraph (c)(4) is added to read as follows:

§ 660.373 Pacific whiting (whiting) fishery management.

(a) Sectors. (1) The catcher/processor sector is composed of catcher/processors, which are vessels that harvest and process whiting during a calendar year.

(2) The mothership sector is composed of motherships and catcher vessels that harvest whiting for delivery to motherships. Motherships are vessels that process, but do not harvest, whiting during a calendar year.

(3) The shore-based sector is composed of vessels that harvest whiting for delivery to Pacific whiting shoreside first receivers. Notwithstanding the other provisions of 50 CFR Part 660, Subpart G, a vessel that is 75 feet or less LOA that harvests whiting and, in addition to heading and gutting, cuts the tail off and freezes the whiting, is not considered to be a catcher/processor nor is it considered to be processing fish. Such a vessel is considered a participant in the shore-based whiting sector, and is subject to regulations and allocations for that sector.

(b) * * *

(3) * * *

(ii) If, during a primary whiting season, a whiting vessel harvests a groundfish species other than whiting for which there is a midwater trip limit, then that vessel may also harvest up to another footrope-specific limit for that species during any cumulative limit period that overlaps the start or end of the primary whiting season.

(4) Bycatch limits in the whiting fishery. The bycatch limits for the whiting fishery may be established, adjusted, and used inseason to close a sector or sectors of the whiting fishery to achieve the rebuilding of an overfished or depleted stock. These limits are routine management measures under § 660.370(c) and, as such, may be adjusted inseason or may have new species added to the list of those with bycatch limits. Closure of a sector or sectors when a bycatch limit is projected to be reached is an automatic action under § 660.370(d).

(i) The whiting fishery bycatch limit is apportioned among the sectors identified in paragraph (a) of this section based on the same percentages used to allocate whiting among the sectors, established in § 660.323 (a). The sector specific bycatch limits are: for catcher/processors 6.1 mt of canary rockfish, 153.0 mt of widow rockfish, and 8.5 mt of darkblotched rockfish; for motherships 4.3 mt of canary rockfish, 108.0 mt of widow rockfish, and 6.0 mt of darkblotched rockfish; and for shore-based 7.6 mt of canary rockfish, 189.0 mt of widow rockfish, and 10.5 mt of darkblotched rockfish.

(ii) The Regional Administrator may make available for harvest to the other sectors of the whiting fishery identified in § 660.323, the amounts of a sector's bycatch limit species remaining when a sector is closed because its whiting allocation or a bycatch limit has been reached or is projected to be reached. The remaining bycatch limit species shall be redistributed in proportion to each sector's initial whiting allocation. When considering redistribution of bycatch limits between the sectors of the whiting fishery, the Regional Administrator will take into consideration the best available data on total projected fishing impacts on the bycatch limit species, as well as impacts on other groundfish species.

(iii) If a bycatch limit is reached or is projected to be reached, the following action, applicable to the sector may be taken.

(A) Catcher/processor sector. Further taking and retaining, receiving, or at-sea processing of whiting by a catcher/processor is prohibited. No additional unprocessed whiting may be brought on board after at-sea processing is prohibited, but a catcher/processor may continue to process whiting that was on board before at-sea processing was prohibited.

(B) Mothership sector. Further receiving or at-sea processing of whiting by a mothership is prohibited. No additional unprocessed whiting may be brought on board after at-sea processing is prohibited, but a mothership may continue to process whiting that was on board before at-sea processing was prohibited. Whiting may not be taken and retained, possessed, or landed by a catcher vessel participating in the mothership sector.

(C) Shore-based sector. Whiting may not be taken and retained, possessed, or landed by a catcher vessel participating in the shore-based sector except as authorized under a trip limit specified under § 660.370(c).

(iv) The Regional Administrator will announce in the Federal Register when a bycatch limit is reached, or is projected to be reached, specifying the action being taken as specified under paragraph (b)(4) of this section. The Regional Administrator will announce in the Federal Register any reapportionment of bycatch limit species. In order to prevent exceeding the bycatch limits or to avoid underutilizing the Pacific whiting resource, prohibitions against further taking and retaining, receiving, or at-sea processing of whiting, or reapportionment of bycatch limits species may be made effective immediately by actual notice to fishers and processors, by e-mail, Internet (http://www.nwr.noaa.gov/Groundfish-Halibut/Groundfish-Fishery-Management/Whiting-Management/index.cfm), phone, fax, letter, press release, and/or USCG Notice to Mariners (monitor channel 16 VHF), followed by publication in the Federal Register.

(c) * * *

(4) Pacific Whiting Bycatch Reduction Areas. Vessels using limited entry midwater trawl gear during the primary whiting season may be prohibited from fishing shoreward of a boundary line approximating the 75-fm (137-m), 100-fm (183-m) or 150-fm (274-m) depth contours. Latitude and longitude coordinates for the boundary lines approximating the depth contours are provided at § 660.393(a). Closures may be implemented inseason for a sector(s) through automatic action, defined at § 660.370(d), when NMFS projects that a sector will exceed a bycatch limit specified for that sector before the sector's whiting allocation is projected to be reached.

* * * * *

10. In § 660.381, paragraphs (c) introductory text and (d) introductory text are revised to read as follows:

§ 660.381 Limited entry trawl fishery management measures.

* * * * *

(c) Cumulative trip limits and prohibitions by limited entry trawl gear type. Management measures may vary depending on the type of trawl gear (i.e., large footrope, small footrope, selective flatfish, or midwater trawl gear) used and/or on board a vessel during a fishing trip, cumulative limit period, and the area fished. Trawl nets may be used on and off the seabed. For some species or species groups, Table 3 (North) and Table 3 (South) provide cumulative and/or trip limits that are specific to different types of trawl gear: large footrope, small footrope (including selective flatfish), selective flatfish, midwater, and multiple types. If Table 3 (North) and Table 3 (South) provide gear specific limits for a particular species or species group, it is unlawful to take and retain, possess or land that species or species group with limited entry trawl gears other than those listed.

* * * * *

(d) Groundfish Conservation Areas (GCAs) applicable to trawl vessels. A GCA, a type of closed area, is a geographic area defined by coordinates expressed in degrees of latitude and longitude. The latitude and longitude coordinates of the GCA boundaries are specified at §§ 660.390 through 660.394. A vessel that is fishing within a GCA listed in this paragraph (d) with trawl gear authorized for use within a GCA may not have any other type of trawl gear on board the vessel. The following GCAs apply to vessels participating in the limited entry trawl fishery. Additional closed areas that specifically apply to the Pacific whiting fisheries are described at § 660.373(c).

* * * * *

11. In § 660.382 paragraphs (c)(4) through (8) are redesignated as (c)(10) through (14), and new paragraphs (c)(4) through (9) are added, to read as follows:

§ 660.382 Limited entry fixed gear fishery management measures.

* * * * *

(c) * * *

(4) Westport Offshore Recreational YRCA. The latitude and longitude coordinates that define the Westport Offshore Recreational YRCA boundaries are specified at § 660.390. The Westport Offshore Recreational YRCA is designated as an area to be avoided (a voluntary closure) by commercial fixed gear fishers.

(5) Point St. George YRCA. The latitude and longitude coordinates of the Point St. George YRCA boundaries are specified at § 660.390. Fishing with limited entry fixed gear is prohibited within the Point St. George YRCA, on dates when the closure is in effect. It is unlawful to take and retain, possess, or land groundfish taken with limited entry fixed gear within the Point St. George YRCA, on dates when the closure is in effect. The closure is not in effect at this time, and commercial fishing for groundfish is open within the Point St. George YRCA from January 1 through December 31. This closure may be imposed through inseason adjustment. Limited entry fixed gear vessels may transit through the Point St. George YRCA, at any time, with or without groundfish on board.

(6) South Reef YRCA. The latitude and longitude coordinates of the South Reef YRCA boundaries are specified at § 660.390. Fishing with limited entry fixed gear is prohibited within the South Reef YRCA, on dates when the closure is in effect. It is unlawful to take and retain, possess, or land groundfish taken with limited entry fixed gear within the South Reef YRCA, on dates when the closure is in effect. The closure is not in effect at this time, and commercial fishing for groundfish is open within the South Reef YRCA from January 1 through December 31. This closure may be imposed through inseason adjustment. Limited entry fixed gear vessels may transit through the South Reef YRCA, at any time, with or without groundfish on board.

(7) Reading Rock YRCA. The latitude and longitude coordinates of the Reading Rock YRCA boundaries are specified at § 660.390. Fishing with limited entry fixed gear is prohibited within the Reading Rock YRCA, on dates when the closure is in effect. It is unlawful to take and retain, possess, or land groundfish taken with limited entry fixed gear within the Reading Rock YRCA, on dates when the closure is in effect. The closure is not in effect at this time, and commercial fishing for groundfish is open within the Reading Rock YRCA from January 1 through December 31. This closure may be imposed through inseason adjustment. Limited entry fixed gear vessels may transit through the Reading Rock YRCA, at any time, with or without groundfish on board.

(8) Point Delgada (North) YRCA. The latitude and longitude coordinates of the Point Delgada (North) YRCA boundaries are specified at § 660.390. Fishing with limited entry fixed gear is prohibited within the Point Delgada (North) YRCA, on dates when the closure is in effect. It is unlawful to take and retain, possess, or land groundfish taken with limited entry fixed gear within the Point Delgada (North) YRCA, on dates when the closure is in effect. The closure is not in effect at this time, and commercial fishing for groundfish is open within the Point Delgada (North) YRCA from January 1 through December 31. This closure may be imposed through inseason adjustment. Limited entry fixed gear vessels may transit through the Point Delgada (North) YRCA, at any time, with or without groundfish on board.

(9) Point Delgada (South) YRCA. The latitude and longitude coordinates of the Point Delgada (South) YRCA boundaries are specified at § 660.390. Fishing with limited entry fixed gear is prohibited within the Point Delgada (South) YRCA, on dates when the closure is in effect. It is unlawful to take and retain, possess, or land groundfish taken with limited entry fixed gear within the Point Delgada (South) YRCA, on dates when the closure is in effect. The closure is not in effect at this time, and commercial fishing for groundfish is open within the Point Delgada (South) YRCA from January 1 through December 31. This closure may be imposed through inseason adjustment. Limited entry fixed gear vessels may transit through the Point Delgada (South) YRCA, at any time, with or without groundfish on board.

* * * * *

12. In § 660.383 paragraph (c)(4) through (10) are redesignated as (c)(10) through (16), and new paragraphs (c)(4) through (9) are added, to read as follows:

§ 660.383 Open access fishery management measures.

* * * * *

(c) * * *

(4) Westport Offshore Recreational YRCA. The latitude and longitude coordinates that define the Westport Offshore Recreational YRCA boundaries are specified at § 660.390. The Westport Offshore Recreational YRCA is designated as an area to be avoided (a voluntary closure) by commercial fixed gear fishers.

(5) Point St. George YRCA. The latitude and longitude coordinates of the Point St. George YRCA boundaries are specified at § 660.390. Fishing with open access gear is prohibited within the Point St. George YRCA, on dates when the closure is in effect. It is unlawful to take and retain, possess, or land groundfish taken with open access gear within the Point St. George YRCA, on dates when the closure is in effect. The closure is not in effect at this time, and commercial fishing for groundfish is open within the Point St. George YRCA from January 1 through December 31. This closure may be imposed through inseason adjustment. Open access vessels may transit through the Point St. George YRCA, at any time, with or without groundfish on board.

(6) South Reef YRCA. The latitude and longitude coordinates of the South Reef YRCA boundaries are specified at § 660.390. Fishing with open access gear is prohibited within the South Reef YRCA, on dates when the closure is in effect. It is unlawful to take and retain, possess, or land groundfish taken with open access gear within the South Reef YRCA, on dates when the closure is in effect. The closure is not in effect at this time, and commercial fishing for groundfish is open within the South Reef YRCA from January 1 through December 31. This closure may be imposed through inseason adjustment. Open access gear vessels may transit through the South Reef YRCA, at any time, with or without groundfish on board.

(7) Reading Rock YRCA. The latitude and longitude coordinates of the Reading Rock YRCA boundaries are specified at § 660.390. Fishing with open access gear is prohibited within the Reading Rock YRCA, on dates when the closure is in effect. It is unlawful to take and retain, possess, or land groundfish taken with open access gear within the Reading Rock YRCA, on dates when the closure is in effect. The closure is not in effect at this time, and commercial fishing for groundfish is open within the Reading Rock YRCA from January 1 through December 31. This closure may be imposed through inseason adjustment. Open access gear vessels may transit through the Reading Rock YRCA, at any time, with or without groundfish on board.

(8) Point Delgada (North) YRCA. The latitude and longitude coordinates of the Point Delgada (North) YRCA boundaries are specified at § 660.390. Fishing with open access gear is prohibited within the Point Delgada (North) YRCA, on dates when the closure is in effect. It is unlawful to take and retain, possess, or land groundfish taken with open access gear within the Point Delgada (North) YRCA, on dates when the closure is in effect. The closure is not in effect at this time, and commercial fishing for groundfish is open within the Point Delgada (North) YRCA from January 1 through December 31. This closure may be imposed through inseason adjustment. Open access gear vessels may transit through the Point Delgada (North) YRCA, at any time, with or without groundfish on board.

(9) Point Delgada (South) YRCA. The latitude and longitude coordinates of the Point Delgada (South) YRCA boundaries are specified at § 660.390. Fishing with open access gear is prohibited within the Point Delgada (South) YRCA, on dates when the closure is in effect. It is unlawful to take and retain, possess, or land groundfish taken with open access gear within the Point Delgada (South) YRCA, on dates when the closure is in effect. The closure is not in effect at this time, and commercial fishing for groundfish is open within the Point Delgada (South) YRCA from January 1 through December 31. This closure may be imposed through inseason adjustment. Open access gear vessels may transit through the Point Delgada (South) YRCA, at any time, with or without groundfish on board.

* * * * *

13. In § 660.384,

a. Redesignate paragraphs (c)(1)(i)(C) as (c)(1)(i)(D), and (c)(3)(i)(E) as (c)(3)(i)(J);

b. Revise newly redesignated paragraphs (c)(I)(i)(D)(1) and (2);

c. Revise paragraphs (c)(1)(iii)(A), (c)(1)(iii)(B), (c)(2)(iii), (c)(3)(i)(A)(1) through (4), (c)(3)(ii)(A)(1) through (4), (c)(3)(ii)(B), (c)(3)(iii)(A)(1) through (4), (c)(3(iv), (c)(3)(v)(A)(2) and (c)(3)(v)(A)(3);

d. Add paragraphs (c)(1)(i)(C), (c)(3)(i)(A)(5), (c)(3)(i)(A)(6), (c)(3)(i)(E) through (I), (c)(3)(ii)(A)(5), (c)(3)(ii)(A)(6), (c)(3)(iii)(A)(5), (c)(3)(iii)(A)(6) and (c)(3)(v)(A)(4); to read as follows:

§ 660.384 Recreational fishery management measures.

* * * * *

(c) * * *

(1) * * *

(i) * * *

(C) Westport Offshore Recreational Yelloweye Rockfish Conservation Area. Recreational fishing for groundfish and halibut is prohibited within the Westport Offshore Recreational YRCA. It is unlawful for recreational fishing vessels to take and retain, possess, or land groundfish taken with recreational gear within the Westport Offshore Recreational YRCA. A vessel fishing in the Westport Offshore Recreational YRCA may not be in possession of any groundfish. Recreational vessels may transit through the Westport Offshore Recreational YRCA with or without groundfish on board. The Westport Offshore Recreational YRCA is defined by latitude and longitude coordinates specified at § 660.390.

(D) * * *

(1) Between the U.S. border with Canada and the Queets River, recreational fishing for groundfish is prohibited seaward of a boundary line approximating the 20-fm (37-m) depth contour from May 21 through September 30, except on days when the Pacific halibut fishery is open in this area. Days open to Pacific halibut recreational fishing off Washington are announced on the NMFS hotline at (206) 526-6667 or (800) 662-9825. Coordinates for the boundary line approximating the 20-fm (37-m) depth contour are listed in § 660.391.

(2) Between the Queets River and Leadbetter Point, recreational fishing for groundfish is prohibited seaward of a boundary line approximating the 30-fm (55-m) depth contour from March 15 through June 15, except that recreational fishing for sablefish and Pacific cod is permitted within the recreational RCA from May 1 through June 15. Retention of lingcod seaward of the boundary line approximating the 30-fm (55-m) depth contour south of 46°58′ N. lat. is prohibited on Fridays and Saturdays from July 1 through August 31. For additional regulations regarding the Washington recreational lingcod fishery, see paragraph (c)(1)(iii) of this section. Coordinates for the boundary line approximating the 30-fm (55-m) depth contour are listed in § 660.391.

(iii) * * *

(A) Between the U.S./Canada border to 48°10′ N. lat. (Cape Alava) (Washington Marine Area 4), recreational fishing for lingcod is open, for 2009, from April 16 through October 15, and for 2010, from April 16 through October 15.

(B) Between 48°10′ N. lat. (Cape Alava) and 46°16′ N. lat. (Washington/Oregon border) (Washington Marine Areas 1-3), recreational fishing for lingcod is open for 2009, from March 14 through October 17, and for 2010, from March 13 through October 16.

(2) * * *

(iii) Bag limits, size limits. The bag limits for each person engaged in recreational fishing in the EEZ seaward of Oregon are three lingcod per day, which may be no smaller than 22 in (56 cm) total length; and 10 marine fish per day, which excludes Pacific halibut, salmonids, tuna, perch species, sturgeon, sanddabs, flatfish, lingcod, striped bass, hybrid bass, offshore pelagic species and baitfish (herring, smelt, anchovies and sardines), but which includes rockfish, greenling, cabezon and other groundfish species. The bag limit for all flatfish is 25 fish per day, which excludes Pacific halibut, but which includes all soles, flounders and Pacific sanddabs. In the Pacific halibut fisheries, retention of groundfish is governed in part by annual management measures for Pacific halibut fisheries, which are published in the Federal Register. Between the Oregon border with Washington and Cape Falcon, when Pacific halibut are onboard the vessel, groundfish may not be taken and retained, possessed or landed, except sablefish and Pacific cod. Between Cape Falcon and Humbug Mountain, during days open to the Oregon Central Coast “all-depth” sport halibut fishery, when Pacific halibut are onboard the vessel, no groundfish may be taken and retained, possessed or landed, except sablefish and Pacific cod. “All-depth” season days are established in the annual management measures for Pacific halibut fisheries, which are published in the Federal Register and are announced on the NMFS halibut hotline, 1-800-662-9825. The minimum size limit for cabezon retained in the recreational fishery is 16-in (41-cm), and for greenling is 10-in (26-cm). Taking and retaining canary rockfish and yelloweye rockfish is prohibited at all times and in all areas.

(3) * * *

(i) * * *

(A) * * *

(1) Between 42° N. lat. (California/Oregon border) and 40°10.00′ N. lat. (North Region), recreational fishing for all groundfish (except “other flatfish” as specified in paragraph (c)(3)(iv) of this section) is prohibited seaward of the 20-fm (37-m) depth contour along the mainland coast and along islands and offshore seamounts from May 15 through September 15; and is closed entirely from January 1 through May 14 and from September 16 through December 31 (i.e., prohibited seaward of the shoreline).

(2) Between 40°10′ N. lat. and 38°57.50′ N. lat. (North-Central North of Point Arena Region), recreational fishing for all groundfish (except “other flatfish” as specified in paragraph (c)(3)(iv) of this section) is prohibited seaward of the 20-fm (37-m) depth contour along the mainland coast and along islands and offshore seamounts from May 15 through August 15; and is closed entirely from January 1 through May 14 and from August 16 through December 31 (i.e. , prohibited seaward of the shoreline).

(3) Between 38°57.50′ N. lat. and 37°11′ N. lat. (North-Central South of Point Arena Region), recreational fishing for all groundfish (except “other flatfish” as specified in paragraph (c)(3)(iv) of this section) is prohibited seaward of the boundary line approximating the 30-fm (55-m) depth contour along the mainland coast and along islands and offshore seamounts from June 13 through October 31; and is closed entirely from January 1 through June 12 and from November 1 through December 31 (i.e., prohibited seaward of the shoreline). Closures around the Farallon Islands (see paragraph (c)(3)(i)(C) of this section) and Cordell Banks (see paragraph (c)(3)(i)(D) of this section) also apply in this area. Coordinates for the boundary line approximating the 30-fm (55-m) depth contour are listed in § 660.391.

(4) Between 37°11′ N. lat. and 36° N. lat. (Monterey South-Central Region), recreational fishing for all groundfish (except “other flatfish” as specified in paragraph (c)(3)(iv) of this section) is prohibited seaward of a boundary line approximating the 40-fm (73-m) depth contour along the mainland coast and along islands and offshore seamounts from May 1 through November 15; and is closed entirely from January 1 through April 30 and from November 16 through December 31 (i.e., prohibited seaward of the shoreline). Coordinates for the boundary line approximating the 40-fm (73-m) depth contour are specified in § 660.391.

(5) Between 36° N. lat. and 34°27′ N. lat. (Morro Bay South-Central Region), recreational fishing for all groundfish (except “other flatfish” as specified in paragraph (c)(3)(iv) of this section) is prohibited seaward of a boundary line approximating the 40-fm (73-m) depth contour along the mainland coast and along islands and offshore seamounts from May 1 through November 15; and is closed entirely from January 1 through April 30 and from November 16 through December 31 (i.e., prohibited seaward of the shoreline). Coordinates for the boundary line approximating the 40-fm (73-m) depth contour are specified in § 660.391.

(6) South of 34°27′ N. latitude (South Region), recreational fishing for all groundfish (except California scorpionfish as specified below in this paragraph and in paragraph (v) of this section and “other flatfish” as specified in paragraph (c)(3)(iv) of this section) is prohibited seaward of a boundary line approximating the 60-fm (110-m) depth contour from March 1 through December 31 along the mainland coast and along islands and offshore seamounts, except in the CCAs where fishing is prohibited seaward of the 20-fm (37-m) depth contour when the fishing season is open (see paragraph (c)(3)(i)(B) of this section). Recreational fishing for all groundfish (except California scorpionfish and “other flatfish”) is closed entirely from January 1 through February 28 (i.e., prohibited seaward of the shoreline). Recreational fishing for California scorpionfish south of 34°27′ N. lat. is prohibited seaward of a boundary line approximating the 40-fm (73-m) depth contour from January 1 through February 28, and seaward of the 60-fm (110-m) depth contour from March 1 through December 31, except in the CCAs where fishing is prohibited seaward of the 20-fm (37-m) depth contour when the fishing season is open. Coordinates for the boundary line approximating the 40-fm (73-m) and 60-fm (110-m) depth contours are specified in §§ 660.391 and 660.392.

* * * * *

(E) Point St. George Yelloweye Rockfish Conservation Area (YRCA). Recreational fishing for groundfish is prohibited within the Point St. George YRCA, as defined by latitude and longitude coordinates at § 660.390, on dates when the closure is in effect. The closure is not in effect at this time, and recreational fishing for groundfish is open within the Point St. George YRCA from January 1 through December 31. This closure may be imposed through inseason adjustment.

(F) South Reef YRCA. Recreational fishing for groundfish is prohibited within the South Reef YRCA, as defined by latitude and longitude coordinates at § 660.390, on dates when the closure is in effect. The closure is not in effect at this time, and recreational fishing for groundfish is open within the South Reef YRCA from January 1 through December 31. This closure may be imposed through inseason adjustment.

(G) Reading Rock YRCA. Recreational fishing for groundfish is prohibited within the Reading Rock YRCA, as defined by latitude and longitude coordinates at § 660.390, on dates when the closure is in effect. The closure is not in effect at this time, and recreational fishing for groundfish is open within the Reading Rock YRCA from January 1 through December 31. This closure may be imposed through inseason adjustment.

(H) Point Delgada (North) YRCA. Recreational fishing for groundfish is prohibited within the Point Delgada (North) YRCA, as defined by latitude and longitude coordinates at § 660.390, on dates when the closure is in effect. The closure is not in effect at this time, and recreational fishing for groundfish is open within the Point Delgada (North) YRCA from January 1 through December 31. This closure may be imposed through inseason adjustment.

(I) Point Delgada (South) YRCA. Recreational fishing for groundfish is prohibited within the Point Delgada (South) YRCA, as defined by latitude and longitude coordinates at § 660.390, on dates when the closure is in effect. The closure is not in effect at this time, and recreational fishing for groundfish is open within the Point Delgada (South) YRCA from January 1 through December 31. This closure may be imposed through inseason adjustment.

* * * * *

(ii) * * *

(A) * * *

(1) Between 42° N. lat. (California/Oregon border) and 40°10′ N. lat. (North Region), recreational fishing for the RCG complex is open from May 15 through September 15 (i.e. it's closed from January 1 through May 14 and from September 16 through December 31).

(2) Between 40°10′ N. lat. and 38°57.50′ N. lat. (North Central North of Point Arena Region), recreational fishing for the RCG Complex is open from May 15 through August 15 (i.e. it's closed from January 1 through May 14 and May 16 through December 31).

(3) Between 38°57.50′ N. lat. and 37°11′ N. lat. (North Central South of Point Arena Region), recreational fishing for the RCG Complex is open from June 13 through October 31 (i.e. it's closed from January 1 through June 12 and November 1 through December 31.

(4) Between 37°11′ N. lat. and 36° N. lat. (Monterey South-Central Region), recreational fishing for the RCG Complex is open from May 1 through November 15 (i.e. it's closed from January 1 through April 30 and from November 16 through December 31).

(5) Between 36′ N. lat. and 34°27′ N. lat. (Morro Bay South-Central Region), recreational fishing for the RCG Complex is open from May 1 through November 15 (i.e. it's closed from January 1 through April 30 and from November 16 through December 31).

(6) South of 34°27′ N. latitude (South Region), recreational fishing for the RCG Complex is open from March 1 through December 31 (i.e. it's closed from January 1 through February 28.

(B) Bag limits, hook limits. In times and areas when the recreational season for the RCG Complex is open, there is a limit of 2 hooks and 1 line when fishing for rockfish. The bag limit is 10 RCG Complex fish per day coastwide. Retention of canary rockfish, yelloweye rockfish, bronzespotted and cowcod is prohibited. Within the 10 RCG Complex fish per day limit, no more than 2 may be bocaccio, no more than 2 may be greenling (kelp and/or other greenlings) and no more than 2 may be cabezon. Multi-day limits are authorized by a valid permit issued by California and must not exceed the daily limit multiplied by the number of days in the fishing trip.

* * * * *

(iii) * * *

(A) * * *

(1) Between 42° N. lat. (California/Oregon border) and 40°10.00′ N. lat. (North Region), recreational fishing for lingcod is open from May 15 through September 15 (i.e. it's closed from January 1 through May 14 and from September 16 through December 31).

(2) Between 40°10′ N. lat. and 38°57.50′ N. lat. (North Central North of Point Arena Region), recreational fishing for lingcod is open from May 15 through August 15 (i.e. it's closed from January 1 through May 14 and May 16 through December 31).

(3) Between 38°57.50′ N. lat. and 37°11′ N. lat. (North Central South of Point Arena Region), recreational fishing for lingcod is open from June 13 through October 31 (i.e. it's closed from January 1 through June 12 and November 1 through December 31.

(4) Between 37°11′ N. lat. and 36° N. lat. (Monterey South-Central Region), recreational fishing for lingcod is open from May 1 through November 15 (i.e. it's closed from January 1 through April 30 and from November 16 through December 31).

(5) Between 36′ N. lat. and 34°27′ N. lat. (Morro Bay South-Central Region), recreational fishing for lingcod is open from May 1 through November 15 (i.e. it's closed from January 1 through April 30 and from November 16 through December 31).

(6) South of 34°27′ N. latitude (South Region), recreational fishing for lingcod is open from April 1 through November 30 (i.e. it's closed from January 1 through March 31 and from December 1 through 31).

* * * * *

(iv) “Other flatfish”. Coastwide off California, recreational fishing for “other flatfish” is permitted both shoreward of and within the closed areas described in paragraph (c)(3)(i) of this section. “Other flatfish” are defined at § 660.302 and include butter sole, curlfin sole, flathead sole, Pacific sanddab, rex sole, rock sole, and sand sole. Recreational fishing for “other flatfish” is permitted within the closed areas. “Other flatfish,” except Pacific sanddab, are subject to the overall 20-fish bag limit for all species of finfish, of which there may be no more than 10 fish of any one species. There is no season restriction or size limit for “other flatfish;” however, it is prohibited to filet “other flatfish” at sea.

(v) * * *

(A) * * *

(2) Between 37°11′ N. lat. and 36° N. lat. (Monterey South Central Region), recreational fishing for California scorpionfish is open from May 1 through November 30 (i.e., it's closed from January 1 through April 30 and from December 1 through December 31).

(3) Between 36° N. lat. and 34°27′ N. lat. (Morro Bay South Central Region), recreational fishing for California scorpionfish is open from May 1 through November 30 (i.e., it's closed from January 1 through April 30 and from December 1 through December 31).

(4) South of 34°27′ N. lat. (South Region), recreational fishing for California scorpionfish is open from January 1 through December 31.

* * * * *

14. In § 660.385, paragraphs (a), (b)(1), (b)(2)(i)(A)(1), (b)(2)(i)(B)(2), (b)(2)(i)(B)(3), and (e) are revised to read as follows:

§ 660.385 Washington coastal tribal fisheries management measures.

* * * * *

(a) Sablefish. The tribal allocation is 694 mt per year. This allocation is, for each year, 10 percent of the Monterey through Vancouver area (North of 36° N. lat.) OY, less 1.6 percent estimated discard mortality.

(b) * * *

(1) Black Rockfish. For the commercial harvest of black rockfish off Washington State, a harvest guideline of: 20,000 lb (9,072 kg) north of Cape Alava, WA (48°10′ N. lat.) and 10,000 lb (4,536 kg) between Destruction Island, WA (47°40′ N. lat.) and Leadbetter Point, WA (46°38.17′ N. lat.). There are no tribal harvest restrictions for black rockfish in the area between Cape Alava and Destruction Island.

(2) * * *

(i) * * *

(A) * * *

(1) Small and large footrope trawl gear-17,000 lb (7,711-kg) per 2 months.

* * * * *

(B) * * *

(2) Selective flatfish trawl gear-5,000-lb (2,268-kg) per 2 months.

(3) Multiple bottom trawl gear-5,000-lb (2,268-kg) per 2 months.

* * * * *

(e) Pacific whiting. The tribal set-aside for 2009 is 50,000 mt, with 42,000 to be managed by the Makah Tribe and 8,000 mt to be managed by the Quileute Tribe.

* * * * *

15. In § 660.390, paragraphs (f) through (j) are redesignated as paragraphs (l) through (p), paragraph (e) is redesignated as paragraph (f), and new paragraphs (e), and (g) through (k) are added to read as follows:

§ 660.390 Groundfish conservation areas.

* * * * *

(e) Westport Offshore Recreational YRCA. The Westport Offshore Recreational YRCA is an area off the southern Washington coast intended to protect yelloweye rockfish. The Westport Recreational YRCA is defined by straight lines connecting the following specific latitude and longitude coordinates in the order listed:

(1) 46°54.30′ N. lat., 124°53.40′ W. long.;

(2) 46°54.30′ N. lat., 124°51.00′ W. long.;

(3) 46°53.30′ N. lat., 124°51.00′ W. long.;

(4) 46°53.30′ N. lat., 124°53.40′ W. long.; and connecting back to 46°54.30′ N. lat., 124°53.40′ W. long.

* * * * *

(g) Point St. George YRCA. The Point St. George YRCA is an area off the northern California coast, northwest of Point St. George, intended to protect yelloweye rockfish. The Point St. George YRCA is defined by straight lines connecting the following specific latitude and longitude coordinates in the order listed:

(1) 41°51.00′ N. lat., 124°23.75′ W. long.;

(2) 41°51.00′ N. lat., 124°20.75′ W. long.;

(3) 41°48.00′ N. lat., 124°20.75′ W. long.;

(4) 41°48.00′ N. lat., 124°23.75′ W. long.; and connecting back to 41°51.00′ N. lat., 124°23.75′ W. long.

(h) South Reef YRCA. The South Reef YRCA is an area off the northern California coast, southwest of Crescent City, intended to protect yelloweye rockfish. The South Reef YRCA is defined by straight lines connecting the following specific latitude and longitude coordinates in the order listed:

(1) 41°42.20′ N. lat., 124°16.00′ W. long.;

(2) 41°42.20′ N. lat., 124°13.80′ W. long.;

(3) 41°40.50′ N. lat., 124°13.80′ W. long.;

(4) 41°40.50′ N. lat., 124°16.00′ W. long.; and connecting back to 41°42.20′ N. lat., 124°16.00′ W. long.

(i) Reading Rock YRCA. The Reading Rock YRCA is an area off the northern California coast, between Crescent City and Eureka, intended to protect yelloweye rockfish. The Reading Rock YRCA is defined by straight lines connecting the following specific latitude and longitude coordinates in the order listed:

(1) 41°21.50′ N. lat., 124°12.00′ W. long.;

(2) 41°21.50′ N. lat., 124°10.00′ W. long.;

(3) 41°20.00′ N. lat., 124°10.00′ W. long.;

(4) 41°20.00′ N. lat., 124°12.00′ W. long.; and connecting back to 41°21.50′ N. lat., 124°12.00′ W. long.

(j) Point Delgada YRCAs. The Point Delgada YRCAs are two areas off the northern California coast, south of Point Delgada and Shelter Cove, intended to protect yelloweye rockfish. The Northern Point Delgada YRCA is defined by straight lines connecting the following specific latitude and longitude coordinates in the order listed:

(1) 39°59.00′ N. lat., 124°05.00′ W. long.;

(2) 39°59.00′ N. lat., 124°03.00′ W. long.;

(3) 39°57.00′ N. lat., 124°03.00′ W. long.;

(4) 39°57.00′ N. lat., 124°05.00′ W. long.; and connecting back to 39°59.00′ N. lat., 124°05.00′ W. long.

(k) Southern Point Delgada YRCA. The Southern Point Delgada YRCA is defined by straight lines connecting the following specific latitude and longitude coordinates in the order listed:

(1) 39°57.00′ N. lat., 124°05.00′ W. long.;

(2) 39°57.00′ N. lat., 124°02.00′ W. long.;

(3) 39°54.00′ N. lat., 124°02.00′ W. long.;

(4) 39°54.00′ N. lat., 124°05.00′ W. long.; and connecting back to 39°57.00′ N. lat., 124°05.00′ W. long.

* * * * *

16. In § 660.391:

(a) Paragraphs (b)(25) through (b)(107) and (c)(15) through (c)(74) are revised.

(b) Paragraphs (d) through (m) are redesignated as paragraphs (e) through (n).

(c) New paragraphs (b)(108) through (b)(112), (c)(75) through (c)(79), and (d) are added.

(d) Revise newly redesignated paragraphs (e)(43) through (e)(331).

(e) Paragraphs (e)(332) through (e)(333) are added.

The additions and revisions read as follows:

§ 660.391 Latitude/longitude coordinates defining the 10-fm (18-m) through 40-fm (73-m) depth contours.

* * * * *

(b) * * *

(25) 45°45.00′ N. lat., 124°00.54′ W. long.;

(26) 45°46.00′ N. lat., 124°00.53′ W. long.;

(27) 45°44.75′ N. lat., 123°59.92′ W. long.;

(28) 45°44.57′ N. lat., 123°59.64′ W. long.;

(29) 45°41.86′ N. lat., 123°58.82′ W. long.;

(30) 45°36.40′ N. lat., 123°59.42′ W. long.;

(31) 45°34.10′ N. lat., 123°59.90′ W. long.;

(32) 45°32.81′ N. lat., 124°00.35′ W. long.;

(33) 45°29.87′ N. lat., 124°00.98′ W. long.;

(34) 45°27.49′ N. lat., 124°00.79′ W. long.;

(35) 45°25.37′ N. lat., 124°00.73′ W. long.;

(36) 45°22.06′ N. lat., 124°01.66′ W. long.;

(37) 45°17.27′ N. lat., 124°00.76′ W. long.;

(38) 45°14.09′ N. lat., 124°00.75′ W. long.;

(39) 45°12.50′ N. lat., 124°00.53′ W. long.;

(40) 45°11.92′ N. lat., 124°01.62′ W. long.;

(41) 45°11.02′ N. lat., 124°00.60′ W. long.;

(42) 45°10.08′ N. lat., 124°00.58′ W. long.;

(43) 45°05.51′ N. lat., 124°02.15′ W. long.;

(44) 45°03.83′ N. lat., 124°02.55′ W. long.;

(45) 45°01.03′ N. lat., 124°03.22′ W. long.;

(46) 44°57.98′ N. lat., 124°04.29′ W. long.;

(47) 44°55.37′ N. lat., 124°04.39′ W. long.;

(48) 44°51.56′ N. lat., 124°05.54′ W. long.;

(49) 44°45.24′ N. lat., 124°06.47′ W. long.;

(50) 44°42.69′ N. lat., 124°06.73′ W. long.;

(51) 44°33.86′ N. lat., 124°07.43′ W. long.;

(52) 44°29.78′ N. lat., 124°07.62′ W. long.;

(53) 44°28.53′ N. lat., 124°07.93′ W. long.;

(54) 44°23.71′ N. lat., 124°08.30′ W. long.;

(55) 44°21.75′ N. lat., 124°08.79′ W. long.;

(56) 44°20.99′ N. lat., 124°08.48′ W. long.;

(57) 44°17.29′ N. lat., 124°08.82′ W. long.;

(58) 44°11.90′ N. lat., 124°09.44′ W. long.;

(59) 44°03.25′ N. lat., 124°10.33′ W. long.;

(60) 43°52.69′ N. lat., 124°12.01′ W. long.;

(61) 43°42.94′ N. lat., 124°13.88′ W. long.;

(62) 43°41.44′ N. lat., 124°14.47′ W. long.;

(63) 43°36.60′ N. lat., 124°14.92′ W. long.;

(64) 43°29.85′ N. lat., 124°17.35′ W. long.;

(65) 43°25.00′ N. lat., 124°20.84′ W. long.;

(66) 43°21.61′ N. lat., 124°24.09′ W. long.;

(67) 43°20.83′ N. lat., 124°24.74′ W. long.;

(68) 43°20.51′ N. lat., 124°25.01′ W. long.;

(69) 43°19.33′ N. lat., 124°25.43′ W. long.;

(70) 43°16.18′ N. lat., 124°26.02′ W. long.;

(71) 43°14.39′ N. lat., 124°26.17′ W. long.;

(72) 43°13.94′ N. lat., 124°26.72′ W. long.;

(73) 43°13.39′ N. lat., 124°26.41′ W. long.;

(74) 43°11.39′ N. lat., 124°26.90′ W. long.;

(75) 43°10.06′ N. lat., 124°28.24′ W. long.;

(76) 43°07.48′ N. lat., 124°28.65′ W. long.;

(77) 43°06.67′ N. lat., 124°28.63′ W. long.;

(78) 43°06.43′ N. lat., 124°28.22′ W. long.;

(79) 43°03.09′ N. lat., 124°28.52′ W. long.;

(80) 42°57.55′ N. lat., 124°30.74′ W. long.;

(81) 42°52.91′ N. lat., 124°35.03′ W. long.;

(82) 42°51.58′ N. lat., 124°36.43′ W. long.;

(83) 42°50.00′ N. lat., 124°37.13′ W. long.;

(84) 42°49.85′ N. lat., 124°37.20′ W. long.;

(85) 42°46.07′ N. lat., 124°36.98′ W. long.;

(86) 42°46.03′ N. lat., 124°34.76′ W. long.;

(87) 42°45.37′ N. lat., 124°33.59′ W. long.;

(88) 42°43.91′ N. lat., 124°32.14′ W. long.;

(89) 42°41.73′ N. lat., 124°29.20′ W. long.;

(90) 42°40.50′ N. lat., 124°28.95′ W. long.;

(91) 42°40.49′ N. lat., 124°28.95′ W. long.;

(92) 42°40.06′ N. lat., 124°28.94′ W. long.;

(93) 42°39.74′ N. lat., 124°27.80′ W. long.;

(94) 42°37.53′ N. lat., 124°26.39′ W. long.;

(95) 42°34.33′ N. lat., 124°26.56′ W. long.;

(96) 42°32.81′ N. lat., 124°27.55′ W. long.;

(97) 42°31.66′ N. lat., 124°29.58′ W. long.;

(98) 42°30.70′ N. lat., 124°30.91′ W. long.;

(99) 42°29.20′ N. lat., 124°31.27′ W. long.;

(100) 42°27.52′ N. lat., 124°30.79′ W. long.;

(101) 42°24.70′ N. lat., 124°29.65′ W. long.;

(102) 42°23.93′ N. lat., 124°28.60′ W. long.;

(103) 42°19.35′ N. lat., 124°27.23′ W. long.;

(104) 42°14.87′ N. lat., 124°26.14′ W. long.;

(105) 42°11.85′ N. lat., 124°23.78′ W. long.;

(106) 42°08.08′ N. lat., 124°22.91′ W. long.;

(107) 42°07.04′ N. lat., 124°22.66′ W. long.;

(108) 42°05.17′ N. lat., 124°21.41′ W. long.;

(109) 42°04.16′ N. lat., 124°20.55′ W. long.;

(110) 42°02.12′ N. lat., 124°20.51′ W. long.;

(111) 42°01.42′ N. lat., 124°20.29′ W. long.; and

(112) 42°00.00′ N. lat., 124°19.61′ W. long.

(c) * * *

(15) 45°46.00′ N. lat., 124°00.94′ W. long.;

(16) 45°43.19′ N. lat., 124°00.32′ W. long.;

(17) 45°36.11′ N. lat., 124°00.38′ W. long.;

(18) 45°32.95′ N. lat., 124°01.38′ W. long.;

(19) 45°27.47′ N. lat., 124°01.46′ W. long.;

(20) 45°23.18′ N. lat., 124°01.94′ W. long.;

(21) 45°19.04′ N. lat., 124°01.29′ W. long.;

(22) 45°16.79′ N. lat., 124°01.90′ W. long.;

(23) 45°13.54′ N. lat., 124°01.64′ W. long.;

(24) 45°09.56′ N. lat., 124°01.94′ W. long.;

(25) 45°06.15′ N. lat., 124°02.38′ W. long.;

(26) 45°03.83′ N. lat., 124°02.96′ W. long.;

(27) 45°00.77′ N. lat., 124°03.72′ W. long.;

(28) 44°49.08′ N. lat., 124°06.49′ W. long.;

(29) 44°40.06′ N. lat., 124°08.14′ W. long.;

(30) 44°36.64′ N. lat., 124°08.51′ W. long.;

(31) 44°29.41′ N. lat., 124°09.24′ W. long.;

(32) 44°25.18′ N. lat., 124°09.37′ W. long.;

(33) 44°16.34′ N. lat., 124°10.30′ W. long.;

(34) 44°12.16′ N. lat., 124°10.82′ W. long.;

(35) 44°06.59′ N. lat., 124°11.00′ W. long.;

(36) 44°02.09′ N. lat., 124°11.24′ W. long.;

(37) 43°57.82′ N. lat., 124°11.60′ W. long.;

(38) 43°53.44′ N. lat., 124°12.34′ W. long.;

(39) 43°49.19′ N. lat., 124°13.08′ W. long.;

(40) 43°45.19′ N. lat., 124°13.73′ W. long.;

(41) 43°41.22′ N. lat., 124°14.59′ W. long.;

(42) 43°37.52′ N. lat., 124°15.05′ W. long.;

(43) 43°33.97′ N. lat., 124°16.00′ W. long.;

(44) 43°29.72′ N. lat., 124°17.78′ W. long.;

(45) 43°27.63′ N. lat., 124°19.11′ W. long.;

(46) 43°20.83′ N. lat., 124°25.24′ W. long.;

(47) 43°20.66′ N. lat., 124°25.39′ W. long.;

(48) 43°15.57′ N. lat., 124°26.86′ W. long.;

(49) 43°06.88′ N. lat., 124°29.30′ W. long.;

(50) 43°03.37′ N. lat., 124°29.06′ W. long.;

(51) 43°01.03′ N. lat., 124°29.41′ W. long.;

(52) 42°56.59′ N. lat., 124°31.93′ W. long.;

(53) 42°54.08′ N. lat., 124°34.55′ W. long.;

(54) 42°51.16′ N. lat., 124°37.02′ W. long.;

(55) 42°50.00′ N. lat., 124°36.41′ W. long.;

(56) 42°49.27′ N. lat., 124°37.73′ W. long.;

(57) 42°46.02′ N. lat., 124°37.54′ W. long.;

(58) 42°45.76′ N. lat., 124°35.68′ W. long.;

(59) 42°42.25′ N. lat., 124°30.47′ W. long.;

(60) 42°40.51′ N. lat., 124°29.00′ W. long.;

(61) 42°40.00′ N. lat., 124°29.01′ W. long.;

(62) 42°39.64′ N. lat., 124°28.28′ W. long.;

(63) 42°38.80′ N. lat., 124°27.57′ W. long.;

(64) 42°35.42′ N. lat., 124°26.77′ W. long.;

(65) 42°33.13′ N. lat., 124°29.06′ W. long.;

(66) 42°31.44′ N. lat., 124°30.71′ W. long.;

(67) 42°29.03′ N. lat., 124°31.71′ W. long.;

(68) 42°24.98′ N. lat., 124°29.95′ W. long.;

(69) 42°20.05′ N. lat., 124°28.16′ W. long.;

(70) 42°14.24′ N. lat., 124°26.03′ W. long.;

(71) 42°10.23′ N. lat., 124°23.93′ W. long.;

(72) 42°06.20′ N. lat., 124°22.70′ W. long.;

(73) 42°04.66′ N. lat., 124°21.49′ W. long.;

(74) 42°00.00′ N. lat., 124°20.80′ W. long.;

(d) The 25-fm (46-m) depth contour between the Queets River, WA, and 42° N. lat., modified to reduce impacts on canary and yelloweye rockfish by shifting the line shoreward in the area between 47°31.70′ N. lat. and 46°44.18′ N. lat., is defined by straight lines connecting all of the following points in the order stated:

(1) 47°31.70′ N. lat., 124°34.66′ W. long.;

(2) 47°25.67′ N. lat., 124°32.78′ W. long.;

(3) 47°12.82′ N. lat., 124°26.00′ W. long.;

(4) 46°52.94′ N. lat., 124°18.94′ W. long.;

(5) 46°44.18′ N. lat., 124°14.89′ W. long.;

(6) 46°38.17′ N. lat., 124°13.70′ W. long.;

(7) 46°16.00′ N. lat., 124°12.50′ W. long.;

(8) 46°15.99′ N. lat., 124°12.04′ W. long.;

(9) 46°13.72′ N. lat., 124°11.04′ W. long.;

(10) 46°09.50′ N. lat., 124°07.62′ W. long.;

(11) 46°04.00′ N. lat., 124°03.20′ W. long.;

(12) 45°57.61′ N. lat., 124°01.85′ W. long.;

(13) 45°51.73′ N. lat., 124°01.06′ W. long.;

(14) 45°47.27′ N. lat., 124°01.22′ W. long.;

(15) 45°46.00′ N. lat., 124°00.94′ W. long.;

(16) 45°43.19′ N. lat., 124°00.32′ W. long.;

(17) 45°36.11′ N. lat., 124°00.38′ W. long.;

(18) 45°32.95′ N. lat., 124°01.38′ W. long.;

(19) 45°27.47′ N. lat., 124°01.46′ W. long.;

(20) 45°23.18′ N. lat., 124°01.94′ W. long.;

(21) 45°19.04′ N. lat., 124°01.29′ W. long.;

(22) 45°16.79′ N. lat., 124°01.90′ W. long.;

(23) 45°13.54′ N. lat., 124°01.64′ W. long.;

(24) 45°09.56′ N. lat., 124°01.94′ W. long.;

(25) 45°06.15′ N. lat., 124°02.38′ W. long.;

(26) 45°03.83′ N. lat., 124°02.96′ W. long.;

(27) 45°00.77′ N. lat., 124°03.72′ W. long.;

(28) 44°49.08′ N. lat., 124°06.49′ W. long.;

(29) 44°40.06′ N. lat., 124°08.14′ W. long.;

(30) 44°36.64′ N. lat., 124°08.51′ W. long.;

(31) 44°29.41′ N. lat., 124°09.24′ W. long.;

(32) 44°25.18′ N. lat., 124°09.37′ W. long.;

(33) 44°16.34′ N. lat., 124°10.30′ W. long.;

(34) 44°12.16′ N. lat., 124°10.82′ W. long.;

(35) 44°06.59′ N. lat., 124°11.00′ W. long.;

(36) 44°02.09′ N. lat., 124°11.24′ W. long.;

(37) 43°57.82′ N. lat., 124°11.60′ W. long.;

(38) 43°53.44′ N. lat., 124°12.34′ W. long.;

(39) 43°49.19′ N. lat., 124°13.08′ W. long.;

(40) 43°45.19′ N. lat., 124°13.73′ W. long.;

(41) 43°41.22′ N. lat., 124°14.59′ W. long.;

(42) 43°37.52′ N. lat., 124°15.05′ W. long.;

(43) 43°33.97′ N. lat., 124°16.00′ W. long.;

(44) 43°29.72′ N. lat., 124°17.78′ W. long.;

(45) 43°27.63′ N. lat., 124°19.11′ W. long.;

(46) 43°20.83′ N. lat., 124°25.24′ W. long.;

(47) 43°20.66′ N. lat., 124°25.39′ W. long.;

(48) 43°15.57′ N. lat., 124°26.86′ W. long.;

(49) 43°06.88′ N. lat., 124°29.30′ W. long.;

(50) 43°03.37′ N. lat., 124°29.06′ W. long.;

(51) 43°01.03′ N. lat., 124°29.41′ W. long.;

(52) 42°56.59′ N. lat., 124°31.93′ W. long.;

(53) 42°54.08′ N. lat., 124°34.55′ W. long.;

(54) 42°51.16′ N. lat., 124°37.02′ W. long.;

(55) 42°50.00′ N. lat., 124°36.41′ W. long.;

(56) 42°49.27′ N. lat., 124°37.73′ W. long.;

(57) 42°46.02′ N. lat., 124°37.54′ W. long.;

(58) 42°45.76′ N. lat., 124°35.68′ W. long.;

(59) 42°42.25′ N. lat., 124°30.47′ W. long.;

(60) 42°40.51′ N. lat., 124°29.00′ W. long.;

(61) 42°40.00′ N. lat., 124°29.01′ W. long.;

(62) 42°39.64′ N. lat., 124°28.28′ W. long.;

(63) 42°38.80′ N. lat., 124°27.57′ W. long.;

(64) 42°35.42′ N. lat., 124°26.77′ W. long.;

(65) 42°33.13′ N. lat., 124°29.06′ W. long.;

(66) 42°31.44′ N. lat., 124°30.71′ W. long.;

(67) 42°29.03′ N. lat., 124°31.71′ W. long.;

(68) 42°24.98′ N. lat., 124°29.95′ W. long.;

(69) 42°20.05′ N. lat., 124°28.16′ W. long.;

(70) 42°14.24′ N. lat., 124°26.03′ W. long.;

(71) 42°10.23′ N. lat., 124°23.93′ W. long.;

(72) 42°06.20′ N. lat., 124°22.70′ W. long.;

(73) 42°04.66′ N. lat., 124°21.49′ W. long.; and

(74) 42°00.00′ N. lat., 124°20.80′ W. long.

(e) * * *

(43) 45°03.82′ N. lat., 124°04.43′ W. long.;

(44) 45°02.81′ N. lat., 124°04.64′ W. long.;

(45) 44°58.06′ N. lat., 124°05.03′ W. long.;

(46) 44°53.97′ N. lat., 124°06.92′ W. long.;

(47) 44°48.89′ N. lat., 124°07.04′ W. long.;

(48) 44°46.94′ N. lat., 124°08.25′ W. long.;

(49) 44°42.72′ N. lat., 124°08.98′ W. long.;

(50) 44°38.16′ N. lat., 124°11.48′ W. long.;

(51) 44°33.38′ N. lat., 124°11.54′ W. long.;

(52) 44°28.51′ N. lat., 124°12.04′ W. long.;

(53) 44°27.65′ N. lat., 124°12.56′ W. long.;

(54) 44°19.67′ N. lat., 124°12.37′ W. long.;

(55) 44°10.79′ N. lat., 124°12.22′ W. long.;

(56) 44°09.22′ N. lat., 124°12.28′ W. long.;

(57) 44°08.30′ N. lat., 124°12.30′ W. long.;

(58) 44°00.22′ N. lat., 124°12.80′ W. long.;

(59) 43°51.56′ N. lat., 124°13.18′ W. long.;

(60) 43°44.26′ N. lat., 124°14.50′ W. long.;

(61) 43°33.82′ N. lat., 124°16.28′ W. long.;

(62) 43°28.66′ N. lat., 124°18.72′ W. long.;

(63) 43°23.12′ N. lat., 124°24.04′ W. long.;

(64) 43°20.83′ N. lat., 124°25.67′ W. long.;

(65) 43°20.48′ N. lat., 124°25.90′ W. long.;

(66) 43°16.41′ N. lat., 124°27.52′ W. long.;

(67) 43°14.23′ N. lat., 124°29.28′ W. long.;

(68) 43°14.03′ N. lat., 124°28.31′ W. long.;

(69) 43°11.92′ N. lat., 124°28.26′ W. long.;

(70) 43°11.02′ N. lat., 124°29.11′ W. long.;

(71) 43°10.13′ N. lat., 124°29.15′ W. long.;

(72) 43°09.26′ N. lat., 124°31.03′ W. long.;

(73) 43°07.73′ N. lat., 124°30.92′ W. long.;

(74) 43°05.93′ N. lat., 124°29.64′ W. long.;

(75) 43°01.59′ N. lat., 124°30.64′ W. long.;

(76) 42°59.72′ N. lat., 124°31.16′ W. long.;

(77) 42°53.75′ N. lat., 124°36.09′ W. long.;

(78) 42°50.00′ N. lat., 124°36.41′ W. long.;

(79) 42°50.00′ N. lat., 124°38.39′ W. long.;

(80) 42°49.37′ N. lat., 124°38.81′ W. long.;

(81) 42°46.42′ N. lat., 124°37.69′ W. long.;

(82) 42°46.07′ N. lat., 124°38.56′ W. long.;

(83) 42°45.29′ N. lat., 124°37.95′ W. long.;

(84) 42°45.61′ N. lat., 124°36.87′ W. long.;

(85) 42°44.27′ N. lat., 124°33.64′ W. long.;

(86) 42°42.75′ N. lat., 124°31.84′ W. long.;

(87) 42°40.50′ N. lat., 124°29.67′ W. long.;

(88) 42°40.04′ N. lat., 124°29.20′ W. long.;

(89) 42°38.09′ N. lat., 124°28.39′ W. long.;

(90) 42°36.73′ N. lat., 124°27.54′ W. long.;

(91) 42°36.56′ N. lat., 124°28.40′ W. long.;

(92) 42°35.77′ N. lat., 124°28.79′ W. long.;

(93) 42°34.03′ N. lat., 124°29.98′ W. long.;

(94) 42°34.19′ N. lat., 124°30.58′ W. long.;

(95) 42°31.27′ N. lat., 124°32.24′ W. long.;

(96) 42°27.07′ N. lat., 124°32.53′ W. long.;

(97) 42°24.21′ N. lat., 124°31.23′ W. long.;

(98) 42°20.47′ N. lat., 124°28.87′ W. long.;

(99) 42°14.60′ N. lat., 124°26.80′ W. long.;

(100) 42°13.67′ N. lat., 124°26.25′ W. long.;

(101) 42°10.90′ N. lat., 124°24.56′ W. long.;

(102) 42°07.04′ N. lat., 124°23.35′ W. long.;

(103) 42°02.16′ N. lat., 124°22.59′ W. long.;

(104) 42°00.00′ N. lat., 124°21.81′ W. long.;

(105) 41°55.75′ N. lat., 124°20.72′ W. long.;

(106) 41°50.93′ N. lat., 124°23.76′ W. long.;

(107) 41°42.53′ N. lat., 124°16.47′ W. long.;

(108) 41°37.20′ N. lat., 124°17.05′ W. long.;

(109) 41°24.58′ N. lat., 124°10.51′ W. long.;

(110) 41°20.73′ N. lat., 124°11.73′ W. long.;

(111) 41°17.59′ N. lat., 124°10.66′ W. long.;

(112) 41°04.54′ N. lat., 124°14.47′ W. long.;

(113) 40°54.26′ N. lat., 124°13.90′ W. long.;

(114) 40°40.31′ N. lat., 124°26.24′ W. long.;

(115) 40°34.00′ N. lat., 124°27.39′ W. long.;

(116) 40°30.00′ N. lat., 124°31.32′ W. long.;

(117) 40°28.89′ N. lat., 124°32.43′ W. long.;

(118) 40°24.77′ N. lat., 124°29.51′ W. long.;

(119) 40°22.47′ N. lat., 124°24.12′ W. long.;

(120) 40°19.73′ N. lat., 124°23.59′ W. long.;

(121) 40°18.64′ N. lat., 124°21.89′ W. long.;

(122) 40°17.67′ N. lat., 124°23.07′ W. long.;

(123) 40°15.58′ N. lat., 124°23.61′ W. long.;

(124) 40°13.42′ N. lat., 124°22.94′ W. long.;

(125) 40°10.00′ N. lat., 124°16.65′ W. long.;

(126) 40°09.46′ N. lat., 124°15.28′ W. long.;

(127) 40°08.89′ N. lat., 124°15.24′ W. long.;

(128) 40°06.40′ N. lat., 124°10.97′ W. long.;

(129) 40°06.08′ N. lat., 124°09.34′ W. long.;

(130) 40°06.64′ N. lat., 124°08.00′ W. long.;

(131) 40°05.08′ N. lat., 124°07.57′ W. long.;

(132) 40°04.29′ N. lat., 124°08.12′ W. long.;

(133) 40°00.61′ N. lat., 124°07.35′ W. long.;

(134) 39°58.60′ N. lat., 124°05.51′ W. long.;

(135) 39°54.89′ N. lat., 124°04.67′ W. long.;

(136) 39°53.01′ N. lat., 124°02.33′ W. long.;

(137) 39°53.20′ N. lat., 123°58.18′ W. long.;

(138) 39°48.45′ N. lat., 123°53.21′ W. long.;

(139) 39°43.89′ N. lat., 123°51.75′ W. long.;

(140) 39°39.60′ N. lat., 123°49.14′ W. long.;

(141) 39°34.43′ N. lat., 123°48.48′ W. long.;

(142) 39°30.63′ N. lat., 123°49.71′ W. long.;

(143) 39°21.25′ N. lat., 123°50.54′ W. long.;

(144) 39°08.87′ N. lat., 123°46.24′ W. long.;

(145) 39°03.79′ N. lat., 123°43.91′ W. long.;

(146) 38°59.65′ N. lat., 123°45.94′ W. long.;

(147) 38°57.50′ N. lat., 123°46.28′ W. long.;

(148) 38°56.80′ N. lat., 123°46.48′ W. long.;

(149) 38°51.16′ N. lat., 123°41.48′ W. long.;

(150) 38°45.77′ N. lat., 123°35.14′ W. long.;

(151) 38°42.21′ N. lat., 123°28.17′ W. long.;

(152) 38°34.05′ N. lat., 123°20.96′ W. long.;

(153) 38°22.47′ N. lat., 123°07.48′ W. long.;

(154) 38°16.52′ N. lat., 123°05.62′ W. long.;

(155) 38°14.42′ N. lat., 123°01.91′ W. long.;

(156) 38°08.24′ N. lat., 122°59.79′ W. long.;

(157) 38°02.69′ N. lat., 123°01.96′ W. long.;

(158) 38°00.00′ N. lat., 123°04.75′ W. long.;

(159) 37°58.41′ N. lat., 123°02.93′ W. long.;

(160) 37°58.25′ N. lat., 122°56.49′ W. long.;

(161) 37°50.30′ N. lat., 122°52.23′ W. long.;

(162) 37°43.36′ N. lat., 123°04.18′ W. long.;

(163) 37°40.77′ N. lat., 123°01.62′ W. long.;

(164) 37°40.13′ N. lat., 122°57.30′ W. long.;

(165) 37°42.59′ N. lat., 122°53.64′ W. long.;

(166) 37°35.67′ N. lat., 122°44.20′ W. long.;

(167) 37°29.62′ N. lat., 122°36.00′ W. long.;

(168) 37°22.38′ N. lat., 122°31.66′ W. long.;

(169) 37°13.86′ N. lat., 122°28.27′ W. long.;

(170) 37°11.00′ N. lat., 122°26.50′ W. long.;

(171) 37°08.10′ N. lat., 122°24.75′ W. long.;

(172) 37°07.00′ N. lat., 122°23.60′ W. long.;

(173) 37°05.84′ N. lat., 122°22.47′ W. long.;

(174) 36°58.77′ N. lat., 122°13.03′ W. long.;

(175) 36°53.74′ N. lat., 122°03.39′ W. long.;

(176) 36°52.71′ N. lat., 122°00.14′ W. long.;

(177) 36°52.51′ N. lat., 121°56.77′ W. long.;

(178) 36°49.44′ N. lat., 121°49.63′ W. long.;

(179) 36°48.01′ N. lat., 121°49.92′ W. long.;

(180) 36°48.25′ N. lat., 121°47.66′ W. long.;

(181) 36°46.26′ N. lat., 121°51.27′ W. long.;

(182) 36°39.14′ N. lat., 121°52.05′ W. long.;

(183) 36°38.00′ N. lat., 121°53.57′ W. long.;

(184) 36°39.14′ N. lat., 121°55.45′ W. long.;

(185) 36°38.50′ N. lat., 121°57.90′ W. long.;

(186) 36°36.75′ N. lat., 121°59.44′ W. long.;

(187) 36°34.97′ N. lat., 121°59.37′ W. long.;

(188) 36°33.07′ N. lat., 121°58.32′ W. long.;

(189) 36°33.27′ N. lat., 121°57.07′ W. long.;

(190) 36°32.68′ N. lat., 121°57.03′ W. long.;

(191) 36°32.04′ N. lat., 121°55.98′ W. long.;

(192) 36°31.61′ N. lat., 121°55.72′ W. long.;

(193) 36°31.59′ N. lat., 121°57.12′ W. long.;

(194) 36°31.52′ N. lat., 121°57.57′ W. long.;

(195) 36°30.88′ N. lat., 121°57.90′ W. long.;

(196) 36°30.25′ N. lat., 121°57.37′ W. long.;

(197) 36°29.47′ N. lat., 121°57.55′ W. long.;

(198) 36°26.72′ N. lat., 121°56.40′ W. long.;

(199) 36°24.33′ N. lat., 121°56.00′ W. long.;

(200) 36°23.36′ N. lat., 121°55.45′ W. long.;

(201) 36°18.86′ N. lat., 121°56.15′ W. long.;

(202) 36°16.21′ N. lat., 121°54.81′ W. long.;

(203) 36°15.30′ N. lat., 121°53.79′ W. long.;

(204) 36°12.04′ N. lat., 121°45.38′ W. long.;

(205) 36°11.87′ N. lat., 121°44.45′ W. long.;

(206) 36°12.13′ N. lat., 121°44.25′ W. long.;

(207) 36°11.89′ N. lat., 121°43.65′ W. long.;

(208) 36°10.56′ N. lat., 121°42.62′ W. long.;

(209) 36°09.90′ N. lat., 121°41.57′ W. long.;

(210) 36°08.14′ N. lat., 121°40.44′ W. long.;

(211) 36°06.69′ N. lat., 121°38.79′ W. long.;

(212) 36°05.85′ N. lat., 121°38.47′ W. long.;

(213) 36°03.08′ N. lat., 121°36.25′ W. long.;

(214) 36°02.92′ N. lat., 121°35.89′ W. long.;

(215) 36°01.53′ N. lat., 121°36.13′ W. long.;

(216) 36°00.59′ N. lat., 121°35.40′ W. long.;

(217) 36°00.00′ N. lat., 121°34.10′ W. long.;

(218) 35°59.93′ N. lat., 121°33.81′ W. long.;

(219) 35°59.69′ N. lat., 121°31.84′ W. long.;

(220) 35°58.59′ N. lat., 121°30.30′ W. long.;

(221) 35°54.02′ N. lat., 121°29.71′ W. long.;

(222) 35°51.54′ N. lat., 121°27.67′ W. long.;

(223) 35°50.42′ N. lat., 121°25.79′ W. long.;

(224) 35°48.37′ N. lat., 121°24.29′ W. long.;

(225) 35°47.02′ N. lat., 121°22.46′ W. long.;

(226) 35°42.28′ N. lat., 121°21.20′ W. long.;

(227) 35°41.57′ N. lat., 121°21.82′ W. long.;

(228) 35°39.24′ N. lat., 121°18.84′ W. long.;

(229) 35°35.14′ N. lat., 121°10.45′ W. long.;

(230) 35°30.11′ N. lat., 121°05.59′ W. long.;

(231) 35°25.86′ N. lat., 121°00.07′ W. long.;

(232) 35°22.82′ N. lat., 120°54.68′ W. long.;

(233) 35°17.96′ N. lat., 120°55.54′ W. long.;

(234) 35°14.83′ N. lat., 120°55.42′ W. long.;

(235) 35°08.87′ N. lat., 120°50.22′ W. long.;

(236) 35°05.55′ N. lat., 120°44.89′ W. long.;

(237) 35°02.91′ N. lat., 120°43.94′ W. long.;

(238) 34°53.80′ N. lat., 120°43.94′ W. long.;

(239) 34°34.89′ N. lat., 120°41.92′ W. long.;

(240) 34°32.48′ N. lat., 120°40.05′ W. long.;

(241) 34°30.12′ N. lat., 120°32.81′ W. long.;

(242) 34°27.00′ N. lat., 120°30.46′ W. long.;

(243) 34°27.00′ N. lat., 120°30.31′ W. long.;

(244) 34°25.84′ N. lat., 120°27.40′ W. long.;

(245) 34°25.16′ N. lat., 120°20.18′ W. long.;

(246) 34°25.88′ N. lat., 120°18.24′ W. long.;

(247) 34°27.26′ N. lat., 120°12.47′ W. long.;

(248) 34°26.27′ N. lat., 120°02.22′ W. long.;

(249) 34°23.41′ N. lat., 119°53.40′ W. long.;

(250) 34°23.33′ N. lat., 119°48.74′ W. long.;

(251) 34°22.31′ N. lat., 119°41.36′ W. long.;

(252) 34°21.72′ N. lat., 119°40.14′ W. long.;

(253) 34°21.25′ N. lat., 119°41.18′ W. long.;

(254) 34°20.25′ N. lat., 119°39.03′ W. long.;

(255) 34°19.87′ N. lat., 119°33.65′ W. long.;

(256) 34°18.67′ N. lat., 119°30.16′ W. long.;

(257) 34°16.95′ N. lat., 119°27.90′ W. long.;

(258) 34°13.02′ N. lat., 119°26.99′ W. long.;

(259) 34°08.62′ N. lat., 119°20.89′ W. long.;

(260) 34°06.95′ N. lat., 119°17.68′ W. long.;

(261) 34°05.93′ N. lat., 119°15.17′ W. long.;

(262) 34°08.42′ N. lat., 119°13.11′ W. long.;

(263) 34°05.23′ N. lat., 119°13.34′ W. long.;

(264) 34°04.98′ N. lat., 119°11.39′ W. long.;

(265) 34°04.55′ N. lat., 119°11.09′ W. long.;

(266) 34°04.15′ N. lat., 119°09.35′ W. long.;

(267) 34°04.89′ N. lat., 119°07.86′ W. long.;

(268) 34°04.08′ N. lat., 119°07.33′ W. long.;

(269) 34°04.10′ N. lat., 119°06.89′ W. long.;

(270) 34°05.08′ N. lat., 119°07.02′ W. long.;

(271) 34°05.27′ N. lat., 119°04.95′ W. long.;

(272) 34°04.51′ N. lat., 119°04.70′ W. long.;

(273) 34°02.26′ N. lat., 118°59.88′ W. long.;

(274) 34°01.08′ N. lat., 118°59.77′ W. long.;

(275) 34°00.94′ N. lat., 118°51.65′ W. long.;

(276) 33°59.77′ N. lat., 118°49.26′ W. long.;

(277) 34°00.04′ N. lat., 118°48.92′ W. long.;

(278) 33°59.65′ N. lat., 118°48.43′ W. long.;

(279) 33°59.46′ N. lat., 118°47.25′ W. long.;

(280) 33°59.80′ N. lat., 118°45.89′ W. long.;

(281) 34°00.21′ N. lat., 118°37.64′ W. long.;

(282) 33°59.26′ N. lat., 118°34.58′ W. long.;

(283) 33°58.07′ N. lat., 118°33.36′ W. long.;

(284) 33°53.76′ N. lat., 118°30.14′ W. long.;

(285) 33°51.00′ N. lat., 118°25.19′ W. long.;

(286) 33°50.07′ N. lat., 118°24.70′ W. long.;

(287) 33°50.16′ N. lat., 118°23.77′ W. long.;

(288) 33°48.80′ N. lat., 118°25.31′ W. long.;

(289) 33°47.07′ N. lat., 118°27.07′ W. long.;

(290) 33°46.12′ N. lat., 118°26.87′ W. long.;

(291) 33°44.15′ N. lat., 118°25.15′ W. long.;

(292) 33°43.54′ N. lat., 118°23.02′ W. long.;

(293) 33°41.35′ N. lat., 118°18.86′ W. long.;

(294) 33°39.96′ N. lat., 118°17.37′ W. long.;

(295) 33°40.12′ N. lat., 118°16.33′ W. long.;

(296) 33°39.28′ N. lat., 118°16.21′ W. long.;

(297) 33°38.04′ N. lat., 118°14.86′ W. long.;

(298) 33°36.57′ N. lat., 118°14.67′ W. long.;

(299) 33°34.93′ N. lat., 118°10.94′ W. long.;

(300) 33°35.14′ N. lat., 118°08.61′ W. long.;

(301) 33°35.69′ N. lat., 118°07.68′ W. long.;

(302) 33°36.21′ N. lat., 118°07.53′ W. long.;

(303) 33°36.43′ N. lat., 118°06.73′ W. long.;

(304) 33°36.05′ N. lat., 118°06.15′ W. long.;

(305) 33°36.32′ N. lat., 118°03.91′ W. long.;

(306) 33°35.69′ N. lat., 118°03.64′ W. long.;

(307) 33°34.62′ N. lat., 118°00.04′ W. long.;

(308) 33°34.80′ N. lat., 117°57.73′ W. long.;

(309) 33°35.57′ N. lat., 117°56.62′ W. long.;

(310) 33°35.46′ N. lat., 117°55.99′ W. long.;

(311) 33°35.98′ N. lat., 117°55.99′ W. long.;

(312) 33°35.46′ N. lat., 117°55.38′ W. long.;

(313) 33°35.21′ N. lat., 117°53.46′ W. long.;

(314) 33°33.61′ N. lat., 117°50.45′ W. long.;

(315) 33°31.41′ N. lat., 117°47.28′ W. long.;

(316) 33°27.54′ N. lat., 117°44.36′ W. long.;

(317) 33°26.63′ N. lat., 117°43.17′ W. long.;

(318) 33°25.21′ N. lat., 117°40.90′ W. long.;

(319) 33°20.33′ N. lat., 117°35.99′ W. long.;

(320) 33°16.35′ N. lat., 117°31.51′ W. long.;

(321) 33°11.53′ N. lat., 117°26.81′ W. long.;

(322) 33°07.59′ N. lat., 117°21.13′ W. long.;

(323) 33°02.21′ N. lat., 117°19.05′ W. long.;

(324) 32°56.55′ N. lat., 117°17.70′ W. long.;

(325) 32°54.61′ N. lat., 117°16.60′ W. long.;

(326) 32°52.32′ N. lat., 117°15.97′ W. long.;

(327) 32°51.48′ N. lat., 117°16.15′ W. long.;

(328) 32°51.85′ N. lat., 117°17.26′ W. long.;

(329) 32°51.55′ N. lat., 117°19.01′ W. long.;

(330) 32°49.55′ N. lat., 117°19.63′ W. long.;

(331) 32°46.71′ N. lat., 117°18.32′ W. long.;

(332) 32°36.35′ N. lat., 117°15.68′ W. long.; and

(333) 32°32.85′ N. lat., 117°15.44′ W. long.

* * * * *

17. In § 660.392:

(a) Paragraphs (a)(7) through (192) are revised and (a)(193) through (195) are added.

(b) Paragraphs (f)(11) through (194) are revised and (f)(195) through (211) are added.

(c) Paragraphs (g)(1) through (28) are revised and (g)(29) is removed.

(d) Paragraphs (h)(1) through (14) are revised.

(e) Paragraphs (i)(1) through (16) are revised and (i)(17) is added.

(f) Paragraphs (j)(37) through (244) are revised and (j)(245) through (254) are added.

(g) Paragraphs (k)(1) through (31) are revised and (k)(32) through (38) are removed.

(h) Paragraphs (m)(1) through (18) are revised.

The revisions and additions read as follows:

§ 660.392 Latitude/longitude coordinates defining the 50-fm (91-m) through 75-fm (137-m) depth contours.

* * * * *

(a) * * *

(7) 48°10.00′ N. lat., 124°55.68′ W. long.;

(8) 48°03.14′ N. lat., 124°57.02′ W. long.;

(9) 47°56.05′ N. lat., 124°55.60′ W. long.;

(10) 47°52.58′ N. lat., 124°54.00′ W. long.;

(11) 47°50.18′ N. lat., 124°52.36′ W. long.;

(12) 47°45.34′ N. lat., 124°51.07′ W. long.;

(13) 47°40.96′ N. lat., 124°48.84′ W. long.;

(14) 47°34.59′ N. lat., 124°46.24′ W. long.;

(15) 47°27.86′ N. lat., 124°42.12′ W. long.;

(16) 47°22.34′ N. lat., 124°39.43′ W. long.;

(17) 47°17.66′ N. lat., 124°38.75′ W. long.;

(18) 47°06.25′ N. lat., 124°39.74′ W. long.;

(19) 47°00.43′ N. lat., 124°38.01′ W. long.;

(20) 46°52.00′ N. lat., 124°32.44′ W. long.;

(21) 46°38.17′ N. lat., 124°26.66′ W. long.;

(22) 46°35.41′ N. lat., 124°25.51′ W. long.;

(23) 46°25.43′ N. lat., 124°23.46′ W. long.;

(24) 46°16.00′ N. lat., 124°17.32′ W. long.;

(25) 45°50.88′ N. lat., 124°09.68′ W. long.;

(26) 45°46.00′ N. lat., 124°09.39′ W. long.;

(27) 45°20.25′ N. lat., 124°07.34′ W. long.;

(28) 45°12.99′ N. lat., 124°06.71′ W. long.;

(29) 45°03.83′ N. lat., 124°09.17′ W. long.;

(30) 44°52.48′ N. lat., 124°11.22′ W. long.;

(31) 44°42.41′ N. lat., 124°19.70′ W. long.;

(32) 44°38.80′ N. lat., 124°26.58′ W. long.;

(33) 44°23.39′ N. lat., 124°31.70′ W. long.;

(34) 44°20.30′ N. lat., 124°38.72′ W. long.;

(35) 44°13.52′ N. lat., 124°40.45′ W. long.;

(36) 44°18.80′ N. lat., 124°35.48′ W. long.;

(37) 44°19.62′ N. lat., 124°27.18′ W. long.;

(38) 44°08.30′ N. lat., 124°22.17′ W. long.;

(39) 43°56.65′ N. lat., 124°16.86′ W. long.;

(40) 43°34.95′ N. lat., 124°17.47′ W. long.;

(41) 43°20.83′ N. lat., 124°29.11′ W. long.;

(42) 43°12.60′ N. lat., 124°35.80′ W. long.;

(43) 43°08.96′ N. lat., 124°33.77′ W. long.;

(44) 42°59.66′ N. lat., 124°34.79′ W. long.;

(45) 42°54.29′ N. lat., 124°39.46′ W. long.;

(46) 42°50.00′ N. lat., 124°39.84′ W. long.;

(47) 42°46.50′ N. lat., 124°39.99′ W. long.;

(48) 42°41.00′ N. lat., 124°34.92′ W. long.;

(49) 42°40.50′ N. lat., 124°34.98′ W. long.;

(50) 42°36.29′ N. lat., 124°34.70′ W. long.;

(51) 42°28.36′ N. lat., 124°37.90′ W. long.;

(52) 42°25.53′ N. lat., 124°37.68′ W. long.;

(53) 42°18.64′ N. lat., 124°29.47′ W. long.;

(54) 42°13.67′ N. lat., 124°27.67′ W. long.;

(55) 42°03.04′ N. lat., 124°25.81′ W. long.;

(56) 42°00.00′ N. lat., 124°26.21′ W. long.;

(57) 41°57.60′ N. lat., 124°27.35′ W. long.;

(58) 41°52.53′ N. lat., 124°26.51′ W. long.;

(59) 41°50.17′ N. lat., 124°25.63′ W. long.;

(60) 41°46.01′ N. lat., 124°22.16′ W. long.;

(61) 41°26.50′ N. lat., 124°21.78′ W. long.;

(62) 41°15.66′ N. lat., 124°16.42′ W. long.;

(63) 41°05.45′ N. lat., 124°16.89′ W. long.;

(64) 40°54.55′ N. lat., 124°19.53′ W. long.;

(65) 40°42.22′ N. lat., 124°28.29′ W. long.;

(66) 40°39.68′ N. lat., 124°28.37′ W. long.;

(67) 40°36.76′ N. lat., 124°27.39′ W. long.;

(68) 40°34.44′ N. lat., 124°28.89′ W. long.;

(69) 40°32.57′ N. lat., 124°32.43′ W. long.;

(70) 40°30.95′ N. lat., 124°33.87′ W. long.;

(71) 40°30.00′ N. lat., 124°34.18′ W. long.;

(72) 40°28.90′ N. lat., 124°34.59′ W. long.;

(73) 40°24.36′ N. lat., 124°31.42′ W. long.;

(74) 40°23.66′ N. lat., 124°28.35′ W. long.;

(75) 40°22.54′ N. lat., 124°24.71′ W. long.;

(76) 40°21.52′ N. lat., 124°24.86′ W. long.;

(77) 40°21.25′ N. lat., 124°25.59′ W. long.;

(78) 40°20.63′ N. lat., 124°26.47′ W. long.;

(79) 40°19.18′ N. lat., 124°25.98′ W. long.;

(80) 40°18.42′ N. lat., 124°24.77′ W. long.;

(81) 40°18.64′ N. lat., 124°22.81′ W. long.;

(82) 40°15.31′ N. lat., 124°25.28′ W. long.;

(83) 40°15.37′ N. lat., 124°26.82′ W. long.;

(84) 40°11.91′ N. lat., 124°22.68′ W. long.;

(85) 40°10.00′ N. lat., 124°19.97′ W. long.;

(86) 40°09.20′ N. lat., 124°15.81′ W. long.;

(87) 40°07.51′ N. lat., 124°15.29′ W. long.;

(88) 40°05.22′ N. lat., 124°10.06′ W. long.;

(89) 40°06.51′ N. lat., 124°08.01′ W. long.;

(90) 40°00.72′ N. lat., 124°08.45′ W. long.;

(91) 39°56.60′ N. lat., 124°07.12′ W. long.;

(92) 39°52.58′ N. lat., 124°03.57′ W. long.;

(93) 39°50.65′ N. lat., 123°57.98′ W. long.;

(94) 39°40.16′ N. lat., 123°52.41′ W. long.;

(95) 39°30.12′ N. lat., 123°52.92′ W. long.;

(96) 39°24.53′ N. lat., 123°55.16′ W. long.;

(97) 39°11.58′ N. lat., 123°50.93′ W. long.;

(98) 38°57.50′ N. lat., 123°51.10′ W. long.;

(99) 38°55.13′ N. lat., 123°51.14′ W. long.;

(100) 38°28.58′ N. lat., 123°22.84′ W. long.;

(101) 38°14.60′ N. lat., 123°09.92′ W. long.;

(102) 38°01.84′ N. lat., 123°09.75′ W. long.;

(103) 38°00.00′ N. lat., 123°09.25′ W. long.;

(104) 37°55.24′ N. lat., 123°08.30′ W. long.;

(105) 37°52.06′ N. lat., 123°09.19′ W. long.;

(106) 37°50.21′ N. lat., 123°14.90′ W. long.;

(107) 37°35.67′ N. lat., 122°55.43′ W. long.;

(108) 37°11.00′ N. lat., 122°31.67′ W. long.;

(109) 37°07.00′ N. lat., 122°28.00′ W. long.;

(110) 37°03.06′ N. lat., 122°24.22′ W. long.;

(111) 36°50.20′ N. lat., 122°03.58′ W. long.;

(112) 36°51.46′ N. lat., 121°57.54′ W. long.;

(113) 36°48.53′ N. lat., 121°57.84′ W. long.;

(114) 36°48.91′ N. lat., 121°49.92′ W. long.;

(115) 36°36.82′ N. lat., 122°00.66′ W. long.;

(116) 36°32.89′ N. lat., 121°58.85′ W. long.;

(117) 36°33.10′ N. lat., 121°57.56′ W. long.;

(118) 36°31.82′ N. lat., 121°55.96′ W. long.;

(119) 36°31.57′ N. lat., 121°58.15′ W. long.;

(120) 36°23.15′ N. lat., 121°57.12′ W. long.;

(121) 36°17.10′ N. lat., 122°00.53′ W. long.;

(122) 36°10.41′ N. lat., 121°42.88′ W. long.;

(123) 36°02.56′ N. lat., 121°36.37′ W. long.;

(124) 36°01.11′ N. lat., 121°36.39′ W. long.;

(125) 36°00.00′ N. lat., 121°35.15′ W. long.;

(126) 35°58.26′ N. lat., 121°32.88′ W. long.;

(127) 35°40.38′ N. lat., 121°22.59′ W. long.;

(128) 35°27.74′ N. lat., 121°04.69′ W. long.;

(129) 35°01.43′ N. lat., 120°48.01′ W. long.;

(130) 34°37.98′ N. lat., 120°46.48′ W. long.;

(131) 34°32.98′ N. lat., 120°43.34′ W. long.;

(132) 34°27.00′ N. lat., 120°33.31′ W. long.;

(133) 34°23.47′ N. lat., 120°24.76′ W. long.;

(134) 34°25.78′ N. lat., 120°16.82′ W. long.;

(135) 34°24.65′ N. lat., 120°04.83′ W. long.;

(136) 34°23.18′ N. lat., 119°56.18′ W. long.;

(137) 34°19.20′ N. lat., 119°41.64′ W. long.;

(138) 34°16.82′ N. lat., 119°35.32′ W. long.;

(139) 34°13.43′ N. lat., 119°32.29′ W. long.;

(140) 34°05.39′ N. lat., 119°15.13′ W. long.;

(141) 34°07.98′ N. lat., 119°13.43′ W. long.;

(142) 34°07.64′ N. lat., 119°13.10′ W. long.;

(143) 34°04.56′ N. lat., 119°13.73′ W. long.;

(144) 34°03.90′ N. lat., 119°12.66′ W. long.;

(145) 34°03.66′ N. lat., 119°06.82′ W. long.;

(146) 34°04.58′ N. lat., 119°04.91′ W. long.;

(147) 34°01.28′ N. lat., 119°00.21′ W. long.;

(148) 34°00.19′ N. lat., 119°03.14′ W. long.;

(149) 33°59.66′ N. lat., 119°03.10′ W. long.;

(150) 33°59.54′ N. lat., 119°00.88′ W. long.;

(151) 34°00.82′ N. lat., 118°59.03′ W. long.;

(152) 33°59.11′ N. lat., 118°47.52′ W. long.;

(153) 33°59.07′ N. lat., 118°36.33′ W. long.;

(154) 33°55.06′ N. lat., 118°32.86′ W. long.;

(155) 33°53.56′ N. lat., 118°37.75′ W. long.;

(156) 33°51.22′ N. lat., 118°36.14′ W. long.;

(157) 33°50.48′ N. lat., 118°32.16′ W. long.;

(158) 33°51.86′ N. lat., 118°28.71′ W. long.;

(159) 33°50.09′ N. lat., 118°27.88′ W. long.;

(160) 33°49.95′ N. lat., 118°26.38′ W. long.;

(161) 33°50.73′ N. lat., 118°26.17′ W. long.;

(162) 33°49.86′ N. lat., 118°24.25′ W. long.;

(163) 33°48.10′ N. lat., 118°26.87′ W. long.;

(164) 33°47.54′ N. lat., 118°29.66′ W. long.;

(165) 33°44.10′ N. lat., 118°25.25′ W. long.;

(166) 33°41.78′ N. lat., 118°20.28′ W. long.;

(167) 33°38.18′ N. lat., 118°15.69′ W. long.;

(168) 33°37.50′ N. lat., 118°16.71′ W. long.;

(169) 33°35.98′ N. lat., 118°16.54′ W. long.;

(170) 33°34.15′ N. lat., 118°11.22′ W. long.;

(171) 33°34.29′ N. lat., 118°08.35′ W. long.;

(172) 33°35.53′ N. lat., 118°06.66′ W. long.;

(173) 33°35.93′ N. lat., 118°04.78′ W. long.;

(174) 33°34.97′ N. lat., 118°02.91′ W. long.;

(175) 33°33.84′ N. lat., 117°59.77′ W. long.;

(176) 33°35.33′ N. lat., 117°55.89′ W. long.;

(177) 33°35.05′ N. lat., 117°53.72′ W. long.;

(178) 33°31.32′ N. lat., 117°48.01′ W. long.;

(179) 33°27.99′ N. lat., 117°45.19′ W. long.;

(180) 33°26.93′ N. lat., 117°44.24′ W. long.;

(181) 33°25.46′ N. lat., 117°42.06′ W. long.;

(182) 33°18.45′ N. lat., 117°35.73′ W. long.;

(183) 33°10.29′ N. lat., 117°25.68′ W. long.;

(184) 33°07.47′ N. lat., 117°21.62′ W. long.;

(185) 33°04.47′ N. lat., 117°21.24′ W. long.;

(186) 32°59.89′ N. lat., 117°19.11′ W. long.;

(187) 32°57.41′ N. lat., 117°18.64′ W. long.;

(188) 32°55.71′ N. lat., 117°18.99′ W. long.;

(189) 32°54.43′ N. lat., 117°16.93′ W. long.;

(190) 32°52.34′ N. lat., 117°16.73′ W. long.;

(191) 32°52.64′ N. lat., 117°17.76′ W. long.;

(192) 32°52.24′ N. lat., 117°19.36′ W. long.;

(193) 32°47.06′ N. lat., 117°21.92′ W. long.;

(194) 32°41.93′ N. lat., 117°19.68′ W. long.; and

(195) 32°33.59′ N. lat., 117°17.89′ W. long.

* * * * *

(f) * * *

(11) 48°10.00′ N. lat., 124°56.72′ W. long.;

(12) 48°06.90′ N. lat., 124°57.72′ W. long.;

(13) 48°02.23′ N. lat., 125°00.20′ W. long.;

(14) 48°00.87′ N. lat., 125°00.37′ W. long.;

(15) 47°56.30′ N. lat., 124°59.51′ W. long.;

(16) 47°46.84′ N. lat., 124°57.34′ W. long.;

(17) 47°36.49′ N. lat., 124°50.93′ W. long.;

(18) 47°32.01′ N. lat., 124°48.45′ W. long.;

(19) 47°27.19′ N. lat., 124°46.47′ W. long.;

(20) 47°21.76′ N. lat., 124°43.29′ W. long.;

(21) 47°17.82′ N. lat., 124°42.12′ W. long.;

(22) 47°08.87′ N. lat., 124°43.10′ W. long.;

(23) 47°03.16′ N. lat., 124°42.61′ W. long.;

(24) 46°49.70′ N. lat., 124°36.80′ W. long.;

(25) 46°42.91′ N. lat., 124°33.20′ W. long.;

(26) 46°39.67′ N. lat., 124°30.59′ W. long.;

(27) 46°38.17′ N. lat., 124°29.70′ W. long.;

(28) 46°32.47′ N. lat., 124°26.34′ W. long.;

(29) 46°23.69′ N. lat., 124°25.41′ W. long.;

(30) 46°20.84′ N. lat., 124°24.24′ W. long.;

(31) 46°16.00′ N. lat., 124°19.10′ W. long.;

(32) 46°15.97′ N. lat., 124°18.80′ W. long.;

(33) 46°11.23′ N. lat., 124°19.96′ W. long.;

(34) 46°02.51′ N. lat., 124°19.84′ W. long.;

(35) 45°59.05′ N. lat., 124°16.52′ W. long.;

(36) 45°50.99′ N. lat., 124°12.83′ W. long.;

(37) 45°46.00′ N. lat., 124°11.58′ W. long.;

(38) 45°45.85′ N. lat., 124°11.54′ W. long.;

(39) 45°38.53′ N. lat., 124°11.92′ W. long.;

(40) 45°30.90′ N. lat., 124°10.94′ W. long.;

(41) 45°21.20′ N. lat., 124°09.12′ W. long.;

(42) 45°12.43′ N. lat., 124°08.74′ W. long.;

(43) 45°03.83′ N. lat., 124°10.94′ W. long.;

(44) 44°59.89′ N. lat., 124°11.95′ W. long.;

(45) 44°51.96′ N. lat., 124°15.15′ W. long.;

(46) 44°44.63′ N. lat., 124°20.07′ W. long.;

(47) 44°39.23′ N. lat., 124°28.09′ W. long.;

(48) 44°30.61′ N. lat., 124°31.66′ W. long.;

(49) 44°26.20′ N. lat., 124°35.87′ W. long.;

(50) 44°23.65′ N. lat., 124°39.07′ W. long.;

(51) 44°20.30′ N. lat., 124°38.72′ W. long.;

(52) 44°13.52′ N. lat., 124°40.45′ W. long.;

(53) 44°10.97′ N. lat., 124°38.78′ W. long.;

(54) 44°08.71′ N. lat., 124°33.54′ W. long.;

(55) 44°04.91′ N. lat., 124°24.55′ W. long.;

(56) 43°57.49′ N. lat., 124°20.05′ W. long.;

(57) 43°50.26′ N. lat., 124°21.85′ W. long.;

(58) 43°41.69′ N. lat., 124°21.94′ W. long.;

(59) 43°35.51′ N. lat., 124°21.51′ W. long.;

(60) 43°25.77′ N. lat., 124°28.47′ W. long.;

(61) 43°20.83′ N. lat., 124°31.26′ W. long.;

(62) 43°20.25′ N. lat., 124°31.59′ W. long.;

(63) 43°12.73′ N. lat., 124°36.68′ W. long.;

(64) 43°08.08′ N. lat., 124°36.10′ W. long.;

(65) 43°00.33′ N. lat., 124°37.57′ W. long.;

(66) 42°53.99′ N. lat., 124°41.03′ W. long.;

(67) 42°50.00′ N. lat., 124°41.09′ W. long.;

(68) 42°46.66′ N. lat., 124°41.13′ W. long.;

(69) 42°41.74′ N. lat., 124°37.46′ W. long.;

(70) 42°40.50′ N. lat., 124°37.39′ W. long.;

(71) 42°37.42′ N. lat., 124°37.22′ W. long.;

(72) 42°27.35′ N. lat., 124°39.91′ W. long.;

(73) 42°23.94′ N. lat., 124°38.29′ W. long.;

(74) 42°17.72′ N. lat., 124°31.10′ W. long.;

(75) 42°10.36′ N. lat., 124°29.11′ W. long.;

(76) 42°00.00′ N. lat., 124°28.00′ W. long.;

(77) 41°54.87′ N. lat., 124°28.50′ W. long.;

(78) 41°45.80′ N. lat., 124°23.89′ W. long.;

(79) 41°34.40′ N. lat., 124°24.03′ W. long.;

(80) 41°28.33′ N. lat., 124°25.46′ W. long.;

(81) 41°15.80′ N. lat., 124°18.90′ W. long.;

(82) 41°09.77′ N. lat., 124°17.99′ W. long.;

(83) 41°02.26′ N. lat., 124°18.71′ W. long.;

(84) 40°53.54′ N. lat., 124°21.18′ W. long.;

(85) 40°49.93′ N. lat., 124°23.02′ W. long.;

(86) 40°43.15′ N. lat., 124°28.74′ W. long.;

(87) 40°40.19′ N. lat., 124°29.07′ W. long.;

(88) 40°36.77′ N. lat., 124°27.61′ W. long.;

(89) 40°34.13′ N. lat., 124°29.39′ W. long.;

(90) 40°33.15′ N. lat., 124°33.46′ W. long.;

(91) 40°30.00′ N. lat., 124°35.84′ W. long.;

(92) 40°24.72′ N. lat., 124°33.06′ W. long.;

(93) 40°23.91′ N. lat., 124°31.28′ W. long.;

(94) 40°23.67′ N. lat., 124°28.35′ W. long.;

(95) 40°22.53′ N. lat., 124°24.72′ W. long.;

(96) 40°21.51′ N. lat., 124°24.86′ W. long.;

(97) 40°21.02′ N. lat., 124°27.70′ W. long.;

(98) 40°19.75′ N. lat., 124°27.06′ W. long.;

(99) 40°18.23′ N. lat., 124°25.30′ W. long.;

(100) 40°18.60′ N. lat., 124°22.86′ W. long.;

(101) 40°15.43′ N. lat., 124°25.37′ W. long.;

(102) 40°15.55′ N. lat., 124°28.16′ W. long.;

(103) 40°11.27′ N. lat., 124°22.56′ W. long.;

(104) 40°10.00′ N. lat., 124°19.97′ W. long.;

(105) 40°09.20′ N. lat., 124°15.81′ W. long.;

(106) 40°07.51′ N. lat., 124°15.29′ W. long.;

(107) 40°05.22′ N. lat., 124°10.06′ W. long.;

(108) 40°06.51′ N. lat., 124°08.01′ W. long.;

(109) 40°00.72′ N. lat., 124°08.45′ W. long.;

(110) 39°56.60′ N. lat., 124°07.12′ W. long.;

(111) 39°52.58′ N. lat., 124°03.57′ W. long.;

(112) 39°50.65′ N. lat., 123°57.98′ W. long.;

(113) 39°40.16′ N. lat., 123°52.41′ W. long.;

(114) 39°30.12′ N. lat., 123°52.92′ W. long.;

(115) 39°24.53′ N. lat., 123°55.16′ W. long.;

(116) 39°11.58′ N. lat., 123°50.93′ W. long.;

(117) 38°57.50′ N. lat., 123°51.14′ W. long.;

(118) 38°55.13′ N. lat., 123°51.14′ W. long.;

(119) 38°28.58′ N. lat., 123°22.84′ W. long.;

(120) 38°08.57′ N. lat., 123°14.74′ W. long.;

(121) 38°00.00′ N. lat., 123°15.61′ W. long.;

(122) 37°56.98′ N. lat., 123°21.82′ W. long.;

(123) 37°49.65′ N. lat., 123°17.48′ W. long.;

(124) 37°36.41′ N. lat., 122°58.09′ W. long.;

(125) 37°11.00′ N. lat., 122°40.22′ W. long.;

(126) 37°07.00′ N. lat., 122°37.64′ W. long.;

(127) 37°02.08′ N. lat., 122°25.49′ W. long.;

(128) 36°48.20′ N. lat., 122°03.32′ W. long.;

(129) 36°51.46′ N. lat., 121°57.54′ W. long.;

(130) 36°48.13′ N. lat., 121°58.16′ W. long.;

(131) 36°48.84′ N. lat., 121°50.06′ W. long.;

(132) 36°45.38′ N. lat., 121°53.56′ W. long.;

(133) 36°45.13′ N. lat., 121°57.06′ W. long.;

(134) 36°36.86′ N. lat., 122°00.81′ W. long.;

(135) 36°32.77′ N. lat., 121°58.90′ W. long.;

(136) 36°33.03′ N. lat., 121°57.63′ W. long.;

(137) 36°31.87′ N. lat., 121°56.10′ W. long.;

(138) 36°31.59′ N. lat., 121°58.27′ W. long.;

(139) 36°23.26′ N. lat., 121°57.70′ W. long.;

(140) 36°17.30′ N. lat., 122°01.55′ W. long.;

(141) 36°10.42′ N. lat., 121°42.90′ W. long.;

(142) 36°02.55′ N. lat., 121°36.35′ W. long.;

(143) 36°01.09′ N. lat., 121°36.41′ W. long.;

(144) 36°00.00′ N. lat., 121°35.34′ W. long.;

(145) 35°58.25′ N. lat., 121°32.88′ W. long.;

(146) 35°40.38′ N. lat., 121°22.59′ W. long.;

(147) 35°26.31′ N. lat., 121°03.73′ W. long.;

(148) 35°01.36′ N. lat., 120°49.02′ W. long.;

(149) 34°39.52′ N. lat., 120°48.72′ W. long.;

(150) 34°31.26′ N. lat., 120°44.12′ W. long.;

(151) 34°27.00′ N. lat., 120°36.00′ W. long.;

(152) 34°23.00′ N. lat., 120°25.32′ W. long.;

(153) 34°25.65′ N. lat., 120°17.20′ W. long.;

(154) 34°23.18′ N. lat., 119°56.17′ W. long.;

(155) 34°18.73′ N. lat., 119°41.89′ W. long.;

(156) 34°11.18′ N. lat., 119°31.21′ W. long.;

(157) 34°10.01′ N. lat., 119°25.84′ W. long.;

(158) 34°03.88′ N. lat., 119°12.46′ W. long.;

(159) 34°03.58′ N. lat., 119°06.71′ W. long.;

(160) 34°04.52′ N. lat., 119°04.89′ W. long.;

(161) 34°01.28′ N. lat., 119°00.27′ W. long.;

(162) 34°00.20′ N. lat., 119°03.18′ W. long.;

(163) 33°59.60′ N. lat., 119°03.14′ W. long.;

(164) 33°59.45′ N. lat., 119°00.87′ W. long.;

(165) 34°00.71′ N. lat., 118°59.07′ W. long.;

(166) 33°59.05′ N. lat., 118°47.34′ W. long.;

(167) 33°58.86′ N. lat., 118°36.24′ W. long.;

(168) 33°55.05′ N. lat., 118°32.85′ W. long.;

(169) 33°53.63′ N. lat., 118°37.88′ W. long.;

(170) 33°51.22′ N. lat., 118°36.13′ W. long.;

(171) 33°50.19′ N. lat., 118°32.19′ W. long.;

(172) 33°51.28′ N. lat., 118°29.12′ W. long.;

(173) 33°49.89′ N. lat., 118°28.04′ W. long.;

(174) 33°49.95′ N. lat., 118°26.38′ W. long.;

(175) 33°50.73′ N. lat., 118°26.16′ W. long.;

(176) 33°50.06′ N. lat., 118°24.79′ W. long.;

(177) 33°48.48′ N. lat., 118°26.86′ W. long.;

(178) 33°47.75′ N. lat., 118°30.21′ W. long.;

(179) 33°44.10′ N. lat., 118°25.25′ W. long.;

(180) 33°41.77′ N. lat., 118°20.32′ W. long.;

(181) 33°38.17′ N. lat., 118°15.69′ W. long.;

(182) 33°37.48′ N. lat., 118°16.72′ W. long.;

(183) 33°35.80′ N. lat., 118°16.65′ W. long.;

(184) 33°33.92′ N. lat., 118°11.36′ W. long.;

(185) 33°34.09′ N. lat., 118°08.15′ W. long.;

(186) 33°35.73′ N. lat., 118°05.01′ W. long.;

(187) 33°33.75′ N. lat., 117°59.82′ W. long.;

(188) 33°35.25′ N. lat., 117°55.89′ W. long.;

(189) 33°35.03′ N. lat., 117°53.80′ W. long.;

(190) 33°31.37′ N. lat., 117°48.15′ W. long.;

(191) 33°27.49′ N. lat., 117°44.85′ W. long.;

(192) 33°16.63′ N. lat., 117°34.01′ W. long.;

(193) 33°07.21′ N. lat., 117°21.96′ W. long.;

(194) 33°03.35′ N. lat., 117°21.22′ W. long.;

(195) 33°02.14′ N. lat., 117°20.26′ W. long.;

(196) 32°59.87′ N. lat., 117°19.16′ W. long.;

(197) 32°57.39′ N. lat., 117°18.72′ W. long.;

(198) 32°56.11′ N. lat., 117°18.41′ W. long.;

(199) 32°55.31′ N. lat., 117°18.80′ W. long.;

(200) 32°54.38′ N. lat., 117°17.09′ W. long.;

(201) 32°52.81′ N. lat., 117°16.94′ W. long.;

(202) 32°52.56′ N. lat., 117°19.30′ W. long.;

(203) 32°50.86′ N. lat., 117°20.98′ W. long.;

(204) 32°46.96′ N. lat., 117°22.69′ W. long.;

(205) 32°45.58′ N. lat., 117°22.38′ W. long.;

(206) 32°44.98′ N. lat., 117°21.87′ W. long.;

(207) 32°43.52′ N. lat., 117°19.32′ W. long.;

(208) 32°41.52′ N. lat., 117°20.12′ W. long.;

(209) 32°37.00′ N. lat., 117°20.10′ W. long.;

(210) 32°34.76′ N. lat., 117°18.77′ W. long.; and

(211) 32°33.70′ N. lat., 117°18.46′ W. long.

(g) * * *

(1) 34°09.83′ N. lat., 120°25.61′ W. long.;

(2) 34°07.03′ N. lat., 120°16.43′ W. long.;

(3) 34°06.38′ N. lat., 120°04.00′ W. long.;

(4) 34°07.90′ N. lat., 119°55.12′ W. long.;

(5) 34°05.07′ N. lat., 119°37.33′ W. long.;

(6) 34°05.04′ N. lat., 119°32.80′ W. long.;

(7) 34°04.00′ N. lat., 119°26.70′ W. long.;

(8) 34°02.27′ N. lat., 119°18.73′ W. long.;

(9) 34°00.98′ N. lat., 119°19.10′ W. long.;

(10) 33°59.44′ N. lat., 119°21.89′ W. long.;

(11) 33°58.70′ N. lat., 119°32.22′ W. long.;

(12) 33°57.81′ N. lat., 119°33.72′ W. long.;

(13) 33°57.65′ N. lat., 119°35.94′ W. long.;

(14) 33°56.14′ N. lat., 119°41.09′ W. long.;

(15) 33°55.84′ N. lat., 119°48.00′ W. long.;

(16) 33°57.22′ N. lat., 119°52.09′ W. long.;

(17) 33°59.32′ N. lat., 119°55.65′ W. long.;

(18) 33°57.73′ N. lat., 119°55.06′ W. long.;

(19) 33°56.48′ N. lat., 119°53.80′ W. long.;

(20) 33°49.29′ N. lat., 119°55.76′ W. long.;

(21) 33°48.11′ N. lat., 119°59.72′ W. long.;

(22) 33°49.14′ N. lat., 120°03.58′ W. long.;

(23) 33°52.95′ N. lat., 120°10.00′ W. long.;

(24) 33°56.00′ N. lat., 120°17.00′ W. long.;

(25) 34°00.12′ N. lat., 120°28.12′ W. long.;

(26) 34°08.23′ N. lat., 120°36.25′ W. long.;

(27) 34°08.80′ N. lat., 120°34.58′ W. long.; and

(28) 34°09.83′ N. lat., 120°25.61′ W. long.

(h) * * *

(1) 33°04.44′ N. lat., 118°37.61′ W. long.;

(2) 33°02.56′ N. lat., 118°34.12′ W. long.;

(3) 32°55.54′ N. lat., 118°28.87′ W. long.;

(4) 32°55.02′ N. lat., 118°27.69′ W. long.;

(5) 32°49.78′ N. lat., 118°20.88′ W. long.;

(6) 32°48.32′ N. lat., 118°19.89′ W. long.;

(7) 32°47.60′ N. lat., 118°22.00′ W. long.;

(8) 32°44.59′ N. lat., 118°24.52′ W. long.;

(9) 32°49.97′ N. lat., 118°31.52′ W. long.;

(10) 32°53.62′ N. lat., 118°32.94′ W. long.;

(11) 32°55.63′ N. lat., 118°34.82′ W. long.;

(12) 33°00.71′ N. lat., 118°38.42′ W. long.;

(13) 33°03.49′ N. lat., 118°38.81′ W. long.; and

(14) 33°04.44′ N. lat., 118°37.61′ W. long.

(i) * * *

(1) 33°28.15′ N. lat., 118°38.17′ W. long.;

(2) 33°29.23′ N. lat., 118°36.27′ W. long.;

(3) 33°28.85′ N. lat., 118°30.85′ W. long.;

(4) 33°26.69′ N. lat., 118°27.37′ W. long.;

(5) 33°26.30′ N. lat., 118°25.38′ W. long.;

(6) 33°25.35′ N. lat., 118°22.83′ W. long.;

(7) 33°22.60′ N. lat., 118°18.82′ W. long.;

(8) 33°19.49′ N. lat., 118°16.91′ W. long.;

(9) 33°17.13′ N. lat., 118°16.58′ W. long.;

(10) 33°16.65′ N. lat., 118°17.71′ W. long.;

(11) 33°18.35′ N. lat., 118°27.86′ W. long.;

(12) 33°20.07′ N. lat., 118°32.34′ W. long.;

(13) 33°21.82′ N. lat., 118°32.08′ W. long.;

(14) 33°23.15′ N. lat., 118°29.89′ W. long.;

(15) 33°24.99′ N. lat., 118°32.25′ W. long.;

(16) 33°25.73′ N. lat., 118°34.88′ W. long.; and

(17) 33°28.15′ N. lat., 118°38.17′ W. long.

(j) * * *

(37) 46°38.17′ N. lat., 124°33.20′ W. long.;

(38) 46°34.09′ N. lat., 124°27.03′ W. long.;

(39) 46°24.64′ N. lat., 124°30.33′ W. long.;

(40) 46°19.98′ N. lat., 124°36.00′ W. long.;

(41) 46°18.14′ N. lat., 124°34.26′ W. long.;

(42) 46°18.72′ N. lat., 124°22.68′ W. long.;

(43) 46°16.00′ N. lat., 124°19.49′ W. long.;

(44) 46°14.63′ N. lat., 124°22.54′ W. long.;

(45) 46°11.08′ N. lat., 124°30.74′ W. long.;

(46) 46°04.28′ N. lat., 124°31.49′ W. long.;

(47) 45°55.97′ N. lat., 124°19.95′ W. long.;

(48) 45°46.00′ N. lat., 124°16.41′ W. long.;

(49) 45°44.97′ N. lat., 124°15.95′ W. long.;

(50) 45°43.14′ N. lat., 124°21.86′ W. long.;

(51) 45°34.45′ N. lat., 124°14.44′ W. long.;

(52) 45°20.25′ N. lat., 124°12.23′ W. long.;

(53) 45°15.49′ N. lat., 124°11.49′ W. long.;

(54) 45°03.83′ N. lat., 124°13.75′ W. long.;

(55) 44°57.31′ N. lat., 124°15.03′ W. long.;

(56) 44°43.90′ N. lat., 124°28.88′ W. long.;

(57) 44°28.64′ N. lat., 124°35.67′ W. long.;

(58) 44°25.31′ N. lat., 124°43.08′ W. long.;

(59) 44°16.28′ N. lat., 124°47.86′ W. long.;

(60) 44°13.47′ N. lat., 124°54.08′ W. long.;

(61) 44°02.88′ N. lat., 124°53.96′ W. long.;

(62) 44°00.14′ N. lat., 124°55.25′ W. long.;

(63) 43°57.68′ N. lat., 124°55.48′ W. long.;

(64) 43°56.66′ N. lat., 124°55.45′ W. long.;

(65) 43°57.50′ N. lat., 124°41.23′ W. long.;

(66) 44°01.79′ N. lat., 124°38.00′ W. long.;

(67) 44°02.17′ N. lat., 124°32.62′ W. long.;

(68) 43°58.15′ N. lat., 124°30.39′ W. long.;

(69) 43°53.25′ N. lat., 124°31.39′ W. long.;

(70) 43°35.56′ N. lat., 124°28.17′ W. long.;

(71) 43°21.84′ N. lat., 124°36.07′ W. long.;

(72) 43°20.83′ N. lat., 124°35.49′ W. long.;

(73) 43°19.73′ N. lat., 124°34.87′ W. long.;

(74) 43°09.38′ N. lat., 124°39.29′ W. long.;

(75) 43°07.11′ N. lat., 124°37.66′ W. long.;

(76) 42°56.27′ N. lat., 124°43.28′ W. long.;

(77) 42°50.00′ N. lat., 124°42.30′ W. long.;

(78) 42°45.01′ N. lat., 124°41.50′ W. long.;

(79) 42°40.50′ N. lat., 124°39.46′ W. long.;

(80) 42°39.71′ N. lat., 124°39.11′ W. long.;

(81) 42°32.87′ N. lat., 124°40.13′ W. long.;

(82) 42°32.30′ N. lat., 124°39.04′ W. long.;

(83) 42°26.96′ N. lat., 124°44.30′ W. long.;

(84) 42°24.11′ N. lat., 124°42.16′ W. long.;

(85) 42°21.10′ N. lat., 124°35.46′ W. long.;

(86) 42°14.72′ N. lat., 124°32.30′ W. long.;

(87) 42°13.67′ N. lat., 124°32.29′ W. long.;

(88) 42°09.25′ N. lat., 124°32.04′ W. long.;

(89) 42°01.88′ N. lat., 124°32.71′ W. long.;

(90) 42°00.00′ N. lat., 124°32.02′ W. long.;

(91) 41°46.18′ N. lat., 124°26.60′ W. long.;

(92) 41°29.22′ N. lat., 124°28.04′ W. long.;

(93) 41°09.62′ N. lat., 124°19.75′ W. long.;

(94) 40°50.71′ N. lat., 124°23.80′ W. long.;

(95) 40°43.35′ N. lat., 124°29.30′ W. long.;

(96) 40°40.24′ N. lat., 124°29.86′ W. long.;

(97) 40°37.50′ N. lat., 124°28.68′ W. long.;

(98) 40°34.42′ N. lat., 124°29.65′ W. long.;

(99) 40°34.74′ N. lat., 124°34.61′ W. long.;

(100) 40°31.70′ N. lat., 124°37.13′ W. long.;

(101) 40°30.00′ N. lat., 124°36.50′ W. long.;

(102) 40°25.03′ N. lat., 124°34.77′ W. long.;

(103) 40°23.58′ N. lat., 124°31.49′ W. long.;

(104) 40°23.64′ N. lat., 124°28.35′ W. long.;

(105) 40°22.53′ N. lat., 124°24.76′ W. long.;

(106) 40°21.46′ N. lat., 124°24.86′ W. long.;

(107) 40°21.74′ N. lat., 124°27.63′ W. long.;

(108) 40°19.76′ N. lat., 124°28.15′ W. long.;

(109) 40°18.00′ N. lat., 124°25.38′ W. long.;

(110) 40°18.54′ N. lat., 124°22.94′ W. long.;

(111) 40°15.55′ N. lat., 124°25.75′ W. long.;

(112) 40°16.06′ N. lat., 124°30.48′ W. long.;

(113) 40°15.75′ N. lat., 124°31.69′ W. long.;

(114) 40°10.00′ N. lat., 124°21.28′ W. long.;

(115) 40°08.37′ N. lat., 124°17.99′ W. long.;

(116) 40°09.00′ N. lat., 124°15.77′ W. long.;

(117) 40°06.93′ N. lat., 124°16.49′ W. long.;

(118) 40°03.60′ N. lat., 124°11.60′ W. long.;

(119) 40°06.20′ N. lat., 124°08.23′ W. long.;

(120) 40°00.94′ N. lat., 124°08.57′ W. long.;

(121) 40°00.01′ N. lat., 124°09.84′ W. long.;

(122) 39°57.75′ N. lat., 124°09.53′ W. long.;

(123) 39°55.56′ N. lat., 124°07.67′ W. long.;

(124) 39°52.21′ N. lat., 124°05.54′ W. long.;

(125) 39°48.07′ N. lat., 123°57.48′ W. long.;

(126) 39°41.60′ N. lat., 123°55.12′ W. long.;

(127) 39°30.39′ N. lat., 123°55.03′ W. long.;

(128) 39°29.48′ N. lat., 123°56.12′ W. long.;

(129) 39°13.76′ N. lat., 123°54.65′ W. long.;

(130) 39°05.21′ N. lat., 123°55.38′ W. long.;

(131) 38°57.50′ N. lat., 123°54.50′ W. long.;

(132) 38°55.90′ N. lat., 123°54.35′ W. long.;

(133) 38°48.59′ N. lat., 123°49.61′ W. long.;

(134) 38°28.82′ N. lat., 123°27.44′ W. long.;

(135) 38°09.70′ N. lat., 123°18.66′ W. long.;

(136) 38°01.81′ N. lat., 123°19.22′ W. long.;

(137) 38°00.00′ N. lat., 123°22.19′ W. long.;

(138) 37°57.70′ N. lat., 123°25.98′ W. long.;

(139) 37°56.73′ N. lat., 123°25.22′ W. long.;

(140) 37°55.59′ N. lat., 123°25.62′ W. long.;

(141) 37°52.79′ N. lat., 123°23.85′ W. long.;

(142) 37°49.13′ N. lat., 123°18.83′ W. long.;

(143) 37°46.01′ N. lat., 123°12.28′ W. long.;

(144) 37°35.67′ N. lat., 123°00.33′ W. long.;

(145) 37°28.20′ N. lat., 122°54.92′ W. long.;

(146) 37°27.34′ N. lat., 122°52.91′ W. long.;

(147) 37°26.45′ N. lat., 122°52.95′ W. long.;

(148) 37°26.06′ N. lat., 122°51.17′ W. long.;

(149) 37°23.07′ N. lat., 122°51.34′ W. long.;

(150) 37°11.00′ N. lat., 122°43.89′ W. long.;

(151) 37°07.00′ N. lat., 122°41.06′ W. long.;

(152) 37°04.12′ N. lat., 122°38.94′ W. long.;

(153) 37°00.64′ N. lat., 122°33.26′ W. long.;

(154) 36°59.15′ N. lat., 122°27.84′ W. long.;

(155) 37°1.41′ N. lat., 122°24.41′ W. long.;

(156) 36°58.75′ N. lat., 122°23.81′ W. long.;

(157) 36°59.17′ N. lat., 122°21.44′ W. long.;

(158) 36°57.51′ N. lat., 122°20.69′ W. long.;

(159) 36°51.46′ N. lat., 122°10.01′ W. long.;

(160) 36°48.43′ N. lat., 122°06.47′ W. long.;

(161) 36°48.66′ N. lat., 122°04.99′ W. long.;

(162) 36°47.75′ N. lat., 122°03.33′ W. long.;

(163) 36°51.23′ N. lat., 121°57.79′ W. long.;

(164) 36°49.72′ N. lat., 121°57.87′ W. long.;

(165) 36°48.84′ N. lat., 121°58.68′ W. long.;

(166) 36°47.89′ N. lat., 121°58.53′ W. long.;

(167) 36°48.66′ N. lat., 121°50.49′ W. long.;

(168) 36°45.56′ N. lat., 121°54.11′ W. long.;

(169) 36°45.30′ N. lat., 121°57.62′ W. long.;

(170) 36°38.54′ N. lat., 122°01.13′ W. long.;

(171) 36°35.76′ N. lat., 122°00.87′ W. long.;

(172) 36°32.58′ N. lat., 121°59.12′ W. long.;

(173) 36°32.95′ N. lat., 121°57.62′ W. long.;

(174) 36°31.96′ N. lat., 121°56.27′ W. long.;

(175) 36°31.74′ N. lat., 121°58.24′ W. long.;

(176) 36°30.57′ N. lat., 121°59.66′ W. long.;

(177) 36°27.80′ N. lat., 121°59.30′ W. long.;

(178) 36°26.52′ N. lat., 121°58.09′ W. long.;

(179) 36°23.65′ N. lat., 121°58.94′ W. long.;

(180) 36°20.93′ N. lat., 122°00.28′ W. long.;

(181) 36°18.23′ N. lat., 122°03.10′ W. long.;

(182) 36°14.21′ N. lat., 121°57.73′ W. long.;

(183) 36°14.68′ N. lat., 121°55.43′ W. long.;

(184) 36°10.42′ N. lat., 121°42.90′ W. long.;

(185) 36°02.55′ N. lat., 121°36.35′ W. long.;

(186) 36°01.04′ N. lat., 121°36.47′ W. long.;

(187) 36°00.00′ N. lat., 121°35.40′ W. long.;

(188) 35°58.25′ N. lat., 121°32.88′ W. long.;

(189) 35°39.35′ N. lat., 121°22.63′ W. long.;

(190) 35°25.09′ N. lat., 121°03.02′ W. long.;

(191) 35°10.84′ N. lat., 120°55.90′ W. long.;

(192) 35°04.35′ N. lat., 120°51.62′ W. long.;

(193) 34°55.25′ N. lat., 120°49.36′ W. long.;

(194) 34°47.95′ N. lat., 120°50.76′ W. long.;

(195) 34°39.27′ N. lat., 120°49.16′ W. long.;

(196) 34°31.05′ N. lat., 120°44.71′ W. long.;

(197) 34°27.00′ N. lat., 120°36.54′ W. long.;

(198) 34°22.60′ N. lat., 120°25.41′ W. long.;

(199) 34°25.45′ N. lat., 120°17.41′ W. long.;

(200) 34°22.94′ N. lat., 119°56.40′ W. long.;

(201) 34°18.37′ N. lat., 119°42.01′ W. long.;

(202) 34°11.22′ N. lat., 119°32.47′ W. long.;

(203) 34°09.58′ N. lat., 119°25.94′ W. long.;

(204) 34°03.89′ N. lat., 119°12.47′ W. long.;

(205) 34°03.57′ N. lat., 119°06.72′ W. long.;

(206) 34°04.53′ N. lat., 119°04.90′ W. long.;

(207) 34°02.84′ N. lat., 119°02.37′ W. long.;

(208) 34°01.30′ N. lat., 119°00.26′ W. long.;

(209) 34°00.22′ N. lat., 119°03.20′ W. long.;

(210) 33°59.56′ N. lat., 119°03.36′ W. long.;

(211) 33°59.35′ N. lat., 119°00.92′ W. long.;

(212) 34°00.49′ N. lat., 118°59.08′ W. long.;

(213) 33°59.07′ N. lat., 118°47.34′ W. long.;

(214) 33°58.73′ N. lat., 118°36.45′ W. long.;

(215) 33°55.24′ N. lat., 118°33.42′ W. long.;

(216) 33°53.71′ N. lat., 118°38.01′ W. long.;

(217) 33°51.19′ N. lat., 118°36.50′ W. long.;

(218) 33°49.85′ N. lat., 118°32.31′ W. long.;

(219) 33°49.61′ N. lat., 118°28.07′ W. long.;

(220) 33°49.77′ N. lat., 118°26.34′ W. long.;

(221) 33°50.36′ N. lat., 118°25.84′ W. long.;

(222) 33°49.92′ N. lat., 118°25.05′ W. long.;

(223) 33°48.70′ N. lat., 118°26.70′ W. long.;

(224) 33°47.72′ N. lat., 118°30.48′ W. long.;

(225) 33°44.11′ N. lat., 118°25.25′ W. long.;

(226) 33°41.62′ N. lat., 118°20.31′ W. long.;

(227) 33°38.15′ N. lat., 118°15.85′ W. long.;

(228) 33°37.53′ N. lat., 118°16.82′ W. long.;

(229) 33°35.76′ N. lat., 118°16.75′ W. long.;

(230) 33°33.76′ N. lat., 118°11.37′ W. long.;

(231) 33°33.76′ N. lat., 118°07.94′ W. long.;

(232) 33°35.59′ N. lat., 118°05.05′ W. long.;

(233) 33°33.67′ N. lat., 117°59.98′ W. long.;

(234) 33°34.98′ N. lat., 117°55.66′ W. long.;

(235) 33°34.84′ N. lat., 117°53.83′ W. long.;

(236) 33°31.43′ N. lat., 117°48.76′ W. long.;

(237) 33°16.61′ N. lat., 117°34.49′ W. long.;

(238) 33°07.43′ N. lat., 117°22.40′ W. long.;

(239) 33°02.93′ N. lat., 117°21.12′ W. long.;

(240) 33°02.09′ N. lat., 117°20.28′ W. long.;

(241) 32°59.91′ N. lat., 117°19.28′ W. long.;

(242) 32°57.27′ N. lat., 117°18.82′ W. long.;

(243) 32°56.17′ N. lat., 117°19.43′ W. long.;

(244) 32°55.22′ N. lat., 117°19.09′ W. long.;

(245) 32°54.30′ N. lat., 117°17.13′ W. long.;

(246) 32°52.89′ N. lat., 117°17.03′ W. long.;

(247) 32°52.61′ N. lat., 117°19.50′ W. long.;

(248) 32°50.85′ N. lat., 117°21.14′ W. long.;

(249) 32°47.11′ N. lat., 117°22.95′ W. long.;

(250) 32°45.66′ N. lat., 117°22.60′ W. long.;

(251) 32°42.99′ N. lat., 117°20.70′ W. long.;

(252) 32°40.72′ N. lat., 117°20.23′ W. long.;

(253) 32°38.11′ N. lat., 117°20.59′ W. long.; and

(254) 32°33.83′ N. lat., 117°19.18′ W. long.

(k) * * *

(1) 34°10.82′ N. lat., 120°33.26′ W. long.;

(2) 34°11.78′ N. lat., 120°28.12′ W. long.;

(3) 34°08.65′ N. lat., 120°18.46′ W. long.;

(4) 34°07.01′ N. lat., 120°10.46′ W. long.;

(5) 34°06.56′ N. lat., 120°04.00′ W. long.;

(6) 34°08.11′ N. lat., 119°55.01′ W. long.;

(7) 34°05.18′ N. lat., 119°37.94′ W. long.;

(8) 34°05.22′ N. lat., 119°35.52′ W. long.;

(9) 34°05.12′ N. lat., 119°32.74′ W. long.;

(10) 34°04.32′ N. lat., 119°27.32′ W. long.;

(11) 34°02.32′ N. lat., 119°18.46′ W. long.;

(12) 34°00.95′ N. lat., 119°18.95′ W. long.;

(13) 33°59.40′ N. lat., 119°21.74′ W. long.;

(14) 33°58.70′ N. lat., 119°32.21′ W. long.;

(15) 33°56.12′ N. lat., 119°41.10′ W. long.;

(16) 33°55.74′ N. lat., 119°48.00′ W. long.;

(17) 33°56.91′ N. lat., 119°52.04′ W. long.;

(18) 33°59.06′ N. lat., 119°55.38′ W. long.;

(19) 33°57.82′ N. lat., 119°54.99′ W. long.;

(20) 33°56.58′ N. lat., 119°53.75′ W. long.;

(21) 33°54.43′ N. lat., 119°54.07′ W. long.;

(22) 33°52.67′ N. lat., 119°54.78′ W. long.;

(23) 33°48.33′ N. lat., 119°55.09′ W. long.;

(24) 33°47.28′ N. lat., 119°57.30′ W. long.;

(25) 33°47.36′ N. lat., 120°00.39′ W. long.;

(26) 33°49.16′ N. lat., 120°05.06′ W. long.;

(27) 33°52.00′ N. lat., 120°08.15′ W. long.;

(28) 33°58.11′ N. lat., 120°25.59′ W. long.;

(29) 34°02.15′ N. lat., 120°32.70′ W. long.;

(30) 34°08.86′ N. lat., 120°37.12′ W. long.; and

(31) 34°10.82′ N. lat., 120°33.26′ W. long.

* * * * *

(m) * * *

(1) 33°28.17′ N. lat., 118°38.16′ W. long.;

(2) 33°29.35′ N. lat., 118°36.23′ W. long.;

(3) 33°28.85′ N. lat., 118°30.85′ W. long.;

(4) 33°26.69′ N. lat., 118°27.37′ W. long.;

(5) 33°26.33′ N. lat., 118°25.37′ W. long.;

(6) 33°25.35′ N. lat., 118°22.83′ W. long.;

(7) 33°22.47′ N. lat., 118°18.53′ W. long.;

(8) 33°19.51′ N. lat., 118°16.82′ W. long.;

(9) 33°17.07′ N. lat., 118°16.38′ W. long.;

(10) 33°16.58′ N. lat., 118°17.61′ W. long.;

(11) 33°18.35′ N. lat., 118°27.86′ W. long.;

(12) 33°20.07′ N. lat., 118°32.35′ W. long.;

(13) 33°21.82′ N. lat., 118°32.09′ W. long.;

(14) 33°23.15′ N. lat., 118°29.99′ W. long.;

(15) 33°24.96′ N. lat., 118°32.21′ W. long.;

(16) 33°25.67′ N. lat., 118°34.88′ W. long.;

(17) 33°27.57′ N. lat., 118°37.90′ W. long.; and

(18) 33°28.17′ N. lat., 118°38.16′ W. long.

18. In § 660.393:

(a) Paragraphs (a)(34) through (297) are revised, and new paragraphs (a)(298) through (307) are added.

(b) Paragraphs (h)(1) through (291) are revised, and new paragraphs (h)(292) through (302) are added.

The revisions and additions read as follows:

§ 660.393 Latitude/longitude coordinates defining the 100 fm (183 m) through 150 fm (274 m) depth contours.

(a) * * *

(34) 48°03.45′ N. lat., 125°16.66′ W. long.;

(35) 48°02.35′ N. lat., 125°17.30′ W. long.;

(36) 48°02.35′ N. lat., 125°18.07′ W. long.;

(37) 48°00.00′ N. lat., 125°19.30′ W. long.;

(38) 47°59.50′ N. lat., 125°18.88′ W. long.;

(39) 47°58.68′ N. lat., 125°16.19′ W. long.;

(40) 47°56.62′ N. lat., 125°13.50′ W. long.;

(41) 47°53.71′ N. lat., 125°11.96′ W. long.;

(42) 47°51.70′ N. lat., 125°09.38′ W. long.;

(43) 47°49.95′ N. lat., 125°06.07′ W. long.;

(44) 47°49.00′ N. lat., 125°03.00′ W. long.;

(45) 47°46.95′ N. lat., 125°04.00′ W. long.;

(46) 47°46.58′ N. lat., 125°03.15′ W. long.;

(47) 47°44.07′ N. lat., 125°04.28′ W. long.;

(48) 47°43.32′ N. lat., 125°04.41′ W. long.;

(49) 47°40.95′ N. lat., 125°04.14′ W. long.;

(50) 47°39.58′ N. lat., 125°04.97′ W. long.;

(51) 47°36.23′ N. lat., 125°02.77′ W. long.;

(52) 47°34.28′ N. lat., 124°58.66′ W. long.;

(53) 47°32.17′ N. lat., 124°57.77′ W. long.;

(54) 47°30.27′ N. lat., 124°56.16′ W. long.;

(55) 47°30.60′ N. lat., 124°54.80′ W. long.;

(56) 47°29.26′ N. lat., 124°52.21′ W. long.;

(57) 47°28.21′ N. lat., 124°50.65′ W. long.;

(58) 47°27.38′ N. lat., 124°49.34′ W. long.;

(59) 47°25.61′ N. lat., 124°48.26′ W. long.;

(60) 47°23.54′ N. lat., 124°46.42′ W. long.;

(61) 47°20.64′ N. lat., 124°45.91′ W. long.;

(62) 47°17.99′ N. lat., 124°45.59′ W. long.;

(63) 47°18.20′ N. lat., 124°49.12′ W. long.;

(64) 47°15.01′ N. lat., 124°51.09′ W. long.;

(65) 47°12.61′ N. lat., 124°54.89′ W. long.;

(66) 47°08.22′ N. lat., 124°56.53′ W. long.;

(67) 47°08.50′ N. lat., 124°57.74′ W. long.;

(68) 47°01.92′ N. lat., 124°54.95′ W. long.;

(69) 47°01.08′ N. lat., 124°59.22′ W. long.;

(70) 46°58.48′ N. lat., 124°57.81′ W. long.;

(71) 46°56.79′ N. lat., 124°56.03′ W. long.;

(72) 46°58.01′ N. lat., 124°55.09′ W. long.;

(73) 46°55.07′ N. lat., 124°54.14′ W. long.;

(74) 46°59.60′ N. lat., 124°49.79′ W. long.;

(75) 46°58.72′ N. lat., 124°48.78′ W. long.;

(76) 46°54.45′ N. lat., 124°48.36′ W. long.;

(77) 46°53.99′ N. lat., 124°49.95′ W. long.;

(78) 46°54.38′ N. lat., 124°52.73′ W. long.;

(79) 46°52.38′ N. lat., 124°52.02′ W. long.;

(80) 46°48.93′ N. lat., 124°49.17′ W. long.;

(81) 46°41.50′ N. lat., 124°43.00′ W. long.;

(82) 46°34.50′ N. lat., 124°28.50′ W. long.;

(83) 46°29.00′ N. lat., 124°30.00′ W. long.;

(84) 46°20.00′ N. lat., 124°36.50′ W. long.;

(85) 46°18.40′ N. lat., 124°37.70′ W. long.;

(86) 46°18.03′ N. lat., 124°35.46′ W. long.;

(87) 46°17.00′ N. lat., 124°22.50′ W. long.;

(88) 46°16.00′ N. lat., 124°20.62′ W. long.;

(89) 46°13.52′ N. lat., 124°25.49′ W. long.;

(90) 46°12.17′ N. lat., 124°30.74′ W. long.;

(91) 46°10.63′ N. lat., 124°37.96′ W. long.;

(92) 46°09.29′ N. lat., 124°39.01′ W. long.;

(93) 46°02.40′ N. lat., 124°40.37′ W. long.;

(94) 45°56.45′ N. lat., 124°38.00′ W. long.;

(95) 45°51.92′ N. lat., 124°38.50′ W. long.;

(96) 45°47.20′ N. lat., 124°35.58′ W. long.;

(97) 45°46.40′ N. lat., 124°32.36′ W. long.;

(98) 45°46.00′ N. lat., 124°32.10′ W. long.;

(99) 45°41.75′ N. lat., 124°28.12′ W. long.;

(100) 45°36.95′ N. lat., 124°24.47′ W. long.;

(101) 45°31.84′ N. lat., 124°22.04′ W. long.;

(102) 45°27.10′ N. lat., 124°21.74′ W. long.;

(103) 45°20.25′ N. lat., 124°18.54′ W. long.;

(104) 45°18.14′ N. lat., 124°17.59′ W. long.;

(105) 45°11.08′ N. lat., 124°16.97′ W. long.;

(106) 45°04.39′ N. lat., 124°18.35′ W. long.;

(107) 45°03.83′ N. lat., 124°18.60′ W. long.;

(108) 44°58.05′ N. lat., 124°21.58′ W. long.;

(109) 44°47.67′ N. lat., 124°31.41′ W. long.;

(110) 44°44.54′ N. lat., 124°33.58′ W. long.;

(111) 44°39.88′ N. lat., 124°35.00′ W. long.;

(112) 44°32.90′ N. lat., 124°36.81′ W. long.;

(113) 44°30.34′ N. lat., 124°38.56′ W. long.;

(114) 44°30.04′ N. lat., 124°42.31′ W. long.;

(115) 44°26.84′ N. lat., 124°44.91′ W. long.;

(116) 44°17.99′ N. lat., 124°51.04′ W. long.;

(117) 44°12.92′ N. lat., 124°56.28′ W. long.;

(118) 44°00.14′ N. lat., 124°55.25′ W. long.;

(119) 43°57.68′ N. lat., 124°55.48′ W. long.;

(120) 43°56.66′ N. lat., 124°55.45′ W. long.;

(121) 43°56.47′ N. lat., 124°34.61′ W. long.;

(122) 43°42.73′ N. lat., 124°32.41′ W. long.;

(123) 43°30.92′ N. lat., 124°34.43′ W. long.;

(124) 43°20.83′ N. lat., 124°39.39′ W. long.;

(125) 43°17.45′ N. lat., 124°41.16′ W. long.;

(126) 43°07.04′ N. lat., 124°41.25′ W. long.;

(127) 43°03.45′ N. lat., 124°44.36′ W. long.;

(128) 43°03.91′ N. lat., 124°50.81′ W. long.;

(129) 42°55.70′ N. lat., 124°52.79′ W. long.;

(130) 42°54.12′ N. lat., 124°47.36′ W. long.;

(131) 42°50.00′ N. lat., 124°45.33′ W. long.;

(132) 42°44.00′ N. lat., 124°42.38′ W. long.;

(133) 42°40.50′ N. lat., 124°41.71′ W. long.;

(134) 42°38.23′ N. lat., 124°41.25′ W. long.;

(135) 42°33.02′ N. lat., 124°42.38′ W. long.;

(136) 42°31.90′ N. lat., 124°42.04′ W. long.;

(137) 42°30.08′ N. lat., 124°42.67′ W. long.;

(138) 42°28.28′ N. lat., 124°47.08′ W. long.;

(139) 42°25.22′ N. lat., 124°43.51′ W. long.;

(140) 42°19.23′ N. lat., 124°37.91′ W. long.;

(141) 42°16.29′ N. lat., 124°36.11′ W. long.;

(142) 42°13.67′ N. lat., 124°35.81′ W. long.;

(143) 42°05.66′ N. lat., 124°34.92′ W. long.;

(144) 42°00.00′ N. lat., 124°35.27′ W. long.;

(145) 41°47.04′ N. lat., 124°27.64′ W. long.;

(146) 41°32.92′ N. lat., 124°28.79′ W. long.;

(147) 41°24.17′ N. lat., 124°28.46′ W. long.;

(148) 41°10.12′ N. lat., 124°20.50′ W. long.;

(149) 40°51.41′ N. lat., 124°24.38′ W. long.;

(150) 40°43.71′ N. lat., 124°29.89′ W. long.;

(151) 40°40.14′ N. lat., 124°30.90′ W. long.;

(152) 40°37.35′ N. lat., 124°29.05′ W. long.;

(153) 40°34.76′ N. lat., 124°29.82′ W. long.;

(154) 40°36.78′ N. lat., 124°37.06′ W. long.;

(155) 40°32.44′ N. lat., 124°39.58′ W. long.;

(156) 40°30.00′ N. lat., 124°38.13′ W. long.;

(157) 40°24.82′ N. lat., 124°35.12′ W. long.;

(158) 40°23.30′ N. lat., 124°31.60′ W. long.;

(159) 40°23.52′ N. lat., 124°28.78′ W. long.;

(160) 40°22.43′ N. lat., 124°25.00′ W. long.;

(161) 40°21.72′ N. lat., 124°24.94′ W. long.;

(162) 40°21.87′ N. lat., 124°27.96′ W. long.;

(163) 40°21.40′ N. lat., 124°28.74′ W. long.;

(164) 40°19.68′ N. lat., 124°28.49′ W. long.;

(165) 40°17.73′ N. lat., 124°25.43′ W. long.;

(166) 40°18.37′ N. lat., 124°23.35′ W. long.;

(167) 40°15.75′ N. lat., 124°26.05′ W. long.;

(168) 40°16.75′ N. lat., 124°33.71′ W. long.;

(169) 40°16.29′ N. lat., 124°34.36′ W. long.;

(170) 40°10.00′ N. lat., 124°21.12′ W. long.;

(171) 40°07.70′ N. lat., 124°18.44′ W. long.;

(172) 40°08.84′ N. lat., 124°15.86′ W. long.;

(173) 40°06.53′ N. lat., 124°17.39′ W. long.;

(174) 40°03.15′ N. lat., 124°14.43′ W. long.;

(175) 40°02.19′ N. lat., 124°12.85′ W. long.;

(176) 40°02.89′ N. lat., 124°11.78′ W. long.;

(177) 40°02.78′ N. lat., 124°10.70′ W. long.;

(178) 40°04.57′ N. lat., 124°10.08′ W. long.;

(179) 40°06.06′ N. lat., 124°08.30′ W. long.;

(180) 40°04.05′ N. lat., 124°08.93′ W. long.;

(181) 40°01.17′ N. lat., 124°08.80′ W. long.;

(182) 40°01.03′ N. lat., 124°10.06′ W. long.;

(183) 39°58.07′ N. lat., 124°11.89′ W. long.;

(184) 39°56.39′ N. lat., 124°08.71′ W. long.;

(185) 39°54.64′ N. lat., 124°07.30′ W. long.;

(186) 39°53.86′ N. lat., 124°07.95′ W. long.;

(187) 39°51.95′ N. lat., 124°07.63′ W. long.;

(188) 39°48.78′ N. lat., 124°03.29′ W. long.;

(189) 39°47.36′ N. lat., 124°03.31′ W. long.;

(190) 39°40.08′ N. lat., 123°58.37′ W. long.;

(191) 39°36.16′ N. lat., 123°56.90′ W. long.;

(192) 39°30.75′ N. lat., 123°55.86′ W. long.;

(193) 39°31.62′ N. lat., 123°57.33′ W. long.;

(194) 39°30.91′ N. lat., 123°57.88′ W. long.;

(195) 39°01.79′ N. lat., 123°56.59′ W. long.;

(196) 38°59.42′ N. lat., 123°55.67′ W. long.;

(197) 38°58.89′ N. lat., 123°56.28′ W. long.;

(198) 38°57.50′ N. lat., 123°56.28′ W. long.;

(199) 38°54.72′ N. lat., 123°55.68′ W. long.;

(200) 38°48.95′ N. lat., 123°51.85′ W. long.;

(201) 38°36.67′ N. lat., 123°40.20′ W. long.;

(202) 38°33.82′ N. lat., 123°39.23′ W. long.;

(203) 38°29.02′ N. lat., 123°33.52′ W. long.;

(204) 38°18.88′ N. lat., 123°25.93′ W. long.;

(205) 38°14.12′ N. lat., 123°23.26′ W. long.;

(206) 38°11.07′ N. lat., 123°22.07′ W. long.;

(207) 38°03.18′ N. lat., 123°20.77′ W. long.;

(208) 38°00.00′ N. lat., 123°23.08′ W. long.;

(209) 37°55.07′ N. lat., 123°26.81′ W. long.;

(210) 37°50.66′ N. lat., 123°23.06′ W. long.;

(211) 37°45.18′ N. lat., 123°11.88′ W. long.;

(212) 37°35.67′ N. lat., 123°01.20′ W. long.;

(213) 37°26.81′ N. lat., 122°55.57′ W. long.;

(214) 37°26.78′ N. lat., 122°53.91′ W. long.;

(215) 37°25.74′ N. lat., 122°54.13′ W. long.;

(216) 37°25.33′ N. lat., 122°53.59′ W. long.;

(217) 37°25.29′ N. lat., 122°52.57′ W. long.;

(218) 37°24.50′ N. lat., 122°52.09′ W. long.;

(219) 37°23.25′ N. lat., 122°53.12′ W. long.;

(220) 37°15.58′ N. lat., 122°48.36′ W. long.;

(221) 37°11.00′ N. lat., 122°44.50′ W. long.;

(222) 37°07.00′ N. lat., 122°41.25′ W. long.;

(223) 37°03.18′ N. lat., 122°38.15′ W. long.;

(224) 37°00.48′ N. lat., 122°33.93′ W. long.;

(225) 36°58.70′ N. lat., 122°27.22′ W. long.;

(226) 37°00.85′ N. lat., 122°24.70′ W. long.;

(227) 36°58.00′ N. lat., 122°24.14′ W. long.;

(228) 36°58.74′ N. lat., 122°21.51′ W. long.;

(229) 36°56.97′ N. lat., 122°21.32′ W. long.;

(230) 36°51.52′ N. lat., 122°10.68′ W. long.;

(231) 36°48.39′ N. lat., 122°07.60′ W. long.;

(232) 36°47.43′ N. lat., 122°03.22′ W. long.;

(233) 36°50.95′ N. lat., 121°58.03′ W. long.;

(234) 36°49.92′ N. lat., 121°58.01′ W. long.;

(235) 36°48.88′ N. lat., 121°58.90′ W. long.;

(236) 36°47.70′ N. lat., 121°58.75′ W. long.;

(237) 36°48.37′ N. lat., 121°51.14′ W. long.;

(238) 36°45.74′ N. lat., 121°54.17′ W. long.;

(239) 36°45.51′ N. lat., 121°57.72′ W. long.;

(240) 36°38.84′ N. lat., 122°01.32′ W. long.;

(241) 36°35.62′ N. lat., 122°00.98′ W. long.;

(242) 36°32.46′ N. lat., 121°59.15′ W. long.;

(243) 36°32.79′ N. lat., 121°57.67′ W. long.;

(244) 36°31.98′ N. lat., 121°56.55′ W. long.;

(245) 36°31.79′ N. lat., 121°58.40′ W. long.;

(246) 36°30.73′ N. lat., 121°59.70′ W. long.;

(247) 36°30.31′ N. lat., 122°00.22′ W. long.;

(248) 36°29.35′ N. lat., 122°00.36′ W. long.;

(249) 36°27.66′ N. lat., 121°59.80′ W. long.;

(250) 36°26.22′ N. lat., 121°58.35′ W. long.;

(251) 36°21.20′ N. lat., 122°00.72′ W. long.;

(252) 36°20.47′ N. lat., 122°02.92′ W. long.;

(253) 36°18.46′ N. lat., 122°04.51′ W. long.;

(254) 36°15.92′ N. lat., 122°01.33′ W. long.;

(255) 36°13.76′ N. lat., 121°57.27′ W. long.;

(256) 36°14.43′ N. lat., 121°55.43′ W. long.;

(257) 36°10.24′ N. lat., 121°43.08′ W. long.;

(258) 36°07.66′ N. lat., 121°40.91′ W. long.;

(259) 36°02.49′ N. lat., 121°36.51′ W. long.;

(260) 36°01.08′ N. lat., 121°36.63′ W. long.;

(261) 36°00.00′ N. lat., 121°35.41′ W. long.;

(262) 35°57.84′ N. lat., 121°32.81′ W. long.;

(263) 35°50.36′ N. lat., 121°29.32′ W. long.;

(264) 35°39.03′ N. lat., 121°22.86′ W. long.;

(265) 35°24.30′ N. lat., 121°02.56′ W. long.;

(266) 35°16.53′ N. lat., 121°00.39′ W. long.;

(267) 35°04.82′ N. lat., 120°53.96′ W. long.;

(268) 34°52.51′ N. lat., 120°51.62′ W. long.;

(269) 34°43.36′ N. lat., 120°52.12′ W. long.;

(270) 34°37.64′ N. lat., 120°49.99′ W. long.;

(271) 34°30.80′ N. lat., 120°45.02′ W. long.;

(272) 34°27.00′ N. lat., 120°39.00′ W. long.;

(273) 34°21.90′ N. lat., 120°25.25′ W. long.;

(274) 34°24.86′ N. lat., 120°16.81′ W. long.;

(275) 34°22.80′ N. lat., 119°57.06′ W. long.;

(276) 34°18.59′ N. lat., 119°44.84′ W. long.;

(277) 34°15.04′ N. lat., 119°40.34′ W. long.;

(278) 34°14.40′ N. lat., 119°45.39′ W. long.;

(279) 34°12.32′ N. lat., 119°42.41′ W. long.;

(280) 34°09.71′ N. lat., 119°28.85′ W. long.;

(281) 34°04.70′ N. lat., 119°15.38′ W. long.;

(282) 34°03.33′ N. lat., 119°12.93′ W. long.;

(283) 34°02.72′ N. lat., 119°07.01′ W. long.;

(284) 34°03.90′ N. lat., 119°04.64′ W. long.;

(285) 34°01.80′ N. lat., 119°03.23′ W. long.;

(286) 33°59.32′ N. lat., 119°03.50′ W. long.;

(287) 33°59.00′ N. lat., 118°59.55′ W. long.;

(288) 33°59.51′ N. lat., 118°57.25′ W. long.;

(289) 33°58.82′ N. lat., 118°52.47′ W. long.;

(290) 33°58.54′ N. lat., 118°41.86′ W. long.;

(291) 33°55.07′ N. lat., 118°34.25′ W. long.;

(292) 33°54.28′ N. lat., 118°38.68′ W. long.;

(293) 33°51.00′ N. lat., 118°36.66′ W. long.;

(294) 33°39.77′ N. lat., 118°18.41′ W. long.;

(295) 33°35.50′ N. lat., 118°16.85′ W. long.;

(296) 33°32.68′ N. lat., 118°09.82′ W. long.;

(297) 33°34.09′ N. lat., 117°54.06′ W. long.;

(298) 33°31.60′ N. lat., 117°49.28′ W. long.;

(299) 33°16.07′ N. lat., 117°34.74′ W. long.;

(300) 33°07.06′ N. lat., 117°22.71′ W. long.;

(301) 32°59.28′ N. lat., 117°19.69′ W. long.;

(302) 32°55.36′ N. lat., 117°19.54′ W. long.;

(303) 32°53.35′ N. lat., 117°17.05′ W. long.;

(304) 32°53.36′ N. lat., 117°19.97′ W. long.;

(305) 32°46.39′ N. lat., 117°23.45′ W. long.;

(306) 32°42.79′ N. lat., 117°21.16′ W. long.; and

(307) 32°34.22′ N. lat., 117°21.20′ W. long.

* * * * *

(h) * * *

(1) 48°14.96′ N. lat., 125°41.24′ W. long.;

(2) 48°12.89′ N. lat., 125°37.83′ W. long.;

(3) 48°11.49′ N. lat., 125°39.27′ W. long.;

(4) 48°10.00′ N. lat., 125°40.65′ W. long.;

(5) 48°08.72′ N. lat., 125°41.84′ W. long.;

(6) 48°07.00′ N. lat., 125°45.00′ W. long.;

(7) 48°06.13′ N. lat., 125°41.57′ W. long.;

(8) 48°05.00′ N. lat., 125°39.00′ W. long.;

(9) 48°04.15′ N. lat., 125°36.71′ W. long.;

(10) 48°03.00′ N. lat., 125°36.00′ W. long.;

(11) 48°01.65′ N. lat., 125°36.96′ W. long.;

(12) 48°01.00′ N. lat., 125°38.50′ W. long.;

(13) 47°57.50′ N. lat., 125°36.50′ W. long.;

(14) 47°56.53′ N. lat., 125°30.33′ W. long.;

(15) 47°57.28′ N. lat., 125°27.89′ W. long.;

(16) 47°59.00′ N. lat., 125°25.50′ W. long.;

(17) 48°01.77′ N. lat., 125°24.05′ W. long.;

(18) 48°02.08′ N. lat., 125°22.98′ W. long.;

(19) 48°03.00′ N. lat., 125°22.50′ W. long.;

(20) 48°03.46′ N. lat., 125°22.10′ W. long.;

(21) 48°04.29′ N. lat., 125°20.37′ W. long.;

(22) 48°02.00′ N. lat., 125°18.50′ W. long.;

(23) 48°00.01′ N. lat., 125°19.90′ W. long.;

(24) 47°58.75′ N. lat., 125°17.54′ W. long.;

(25) 47°53.50′ N. lat., 125°13.50′ W. long.;

(26) 47°48.88′ N. lat., 125°05.91′ W. long.;

(27) 47°48.50′ N. lat., 125°05.00′ W. long.;

(28) 47°45.98′ N. lat., 125°04.26′ W. long.;

(29) 47°45.00′ N. lat., 125°05.50′ W. long.;

(30) 47°42.11′ N. lat., 125°04.74′ W. long.;

(31) 47°39.00′ N. lat., 125°06.00′ W. long.;

(32) 47°35.53′ N. lat., 125°04.55′ W. long.;

(33) 47°30.90′ N. lat., 124°57.31′ W. long.;

(34) 47°29.54′ N. lat., 124°56.50′ W. long.;

(35) 47°29.50′ N. lat., 124°54.50′ W. long.;

(36) 47°28.57′ N. lat., 124°51.50′ W. long.;

(37) 47°25.00′ N. lat., 124°48.00′ W. long.;

(38) 47°23.95′ N. lat., 124°47.24′ W. long.;

(39) 47°23.00′ N. lat., 124°47.00′ W. long.;

(40) 47°21.00′ N. lat., 124°46.50′ W. long.;

(41) 47°18.20′ N. lat., 124°45.84′ W. long.;

(42) 47°18.50′ N. lat., 124°49.00′ W. long.;

(43) 47°19.17′ N. lat., 124°50.86′ W. long.;

(44) 47°18.07′ N. lat., 124°53.29′ W. long.;

(45) 47°17.78′ N. lat., 124°51.39′ W. long.;

(46) 47°16.81′ N. lat., 124°50.85′ W. long.;

(47) 47°15.96′ N. lat., 124°53.15′ W. long.;

(48) 47°14.31′ N. lat., 124°52.62′ W. long.;

(49) 47°11.87′ N. lat., 124°56.90′ W. long.;

(50) 47°12.39′ N. lat., 124°58.09′ W. long.;

(51) 47°09.50′ N. lat., 124°57.50′ W. long.;

(52) 47°09.00′ N. lat., 124°59.00′ W. long.;

(53) 47°06.06′ N. lat., 124°58.80′ W. long.;

(54) 47°03.62′ N. lat., 124°55.96′ W. long.;

(55) 47°02.89′ N. lat., 124°56.89′ W. long.;

(56) 47°01.04′ N. lat., 124°59.54′ W. long.;

(57) 46°58.47′ N. lat., 124°59.08′ W. long.;

(58) 46°58.29′ N. lat., 125°00.28′ W. long.;

(59) 46°56.30′ N. lat., 125°00.75′ W. long.;

(60) 46°57.09′ N. lat., 124°58.86′ W. long.;

(61) 46°55.95′ N. lat., 124°54.88′ W. long.;

(62) 46°54.79′ N. lat., 124°54.14′ W. long.;

(63) 46°58.00′ N. lat., 124°50.00′ W. long.;

(64) 46°54.50′ N. lat., 124°49.00′ W. long.;

(65) 46°54.53′ N. lat., 124°52.94′ W. long.;

(66) 46°49.52′ N. lat., 124°53.41′ W. long.;

(67) 46°42.24′ N. lat., 124°47.86′ W. long.;

(68) 46°39.50′ N. lat., 124°42.50′ W. long.;

(69) 46°38.17′ N. lat., 124°41.50′ W. long.;

(70) 46°37.50′ N. lat., 124°41.00′ W. long.;

(71) 46°36.50′ N. lat., 124°38.00′ W. long.;

(72) 46°33.85′ N. lat., 124°36.99′ W. long.;

(73) 46°33.50′ N. lat., 124°29.50′ W. long.;

(74) 46°32.00′ N. lat., 124°31.00′ W. long.;

(75) 46°30.53′ N. lat., 124°30.55′ W. long.;

(76) 46°25.50′ N. lat., 124°33.00′ W. long.;

(77) 46°23.00′ N. lat., 124°35.00′ W. long.;

(78) 46°21.05′ N. lat., 124°37.00′ W. long.;

(79) 46°20.64′ N. lat., 124°36.21′ W. long.;

(80) 46°20.36′ N. lat., 124°37.85′ W. long.;

(81) 46°19.48′ N. lat., 124°38.35′ W. long.;

(82) 46°17.87′ N. lat., 124°38.54′ W. long.;

(83) 46°16.15′ N. lat., 124°25.20′ W. long.;

(84) 46°16.00′ N. lat., 124°23.00′ W. long.;

(85) 46°14.87′ N. lat., 124°26.15′ W. long.;

(86) 46°13.37′ N. lat., 124°31.36′ W. long.;

(87) 46°12.08′ N. lat., 124°38.39′ W. long.;

(88) 46°09.46′ N. lat., 124°40.64′ W. long.;

(89) 46°07.29′ N. lat., 124°40.89′ W. long.;

(90) 46°02.76′ N. lat., 124°44.01′ W. long.;

(91) 46°01.22′ N. lat., 124°43.47′ W. long.;

(92) 45°51.82′ N. lat., 124°42.89′ W. long.;

(93) 45°46.00′ N. lat., 124°40.88′ W. long.;

(94) 45°45.95′ N. lat., 124°40.72′ W. long.;

(95) 45°44.11′ N. lat., 124°43.09′ W. long.;

(96) 45°34.50′ N. lat., 124°30.28′ W. long.;

(97) 45°21.10′ N. lat., 124°23.11′ W. long.;

(98) 45°20.25′ N. lat., 124°22.92′ W. long.;

(99) 45°09.69′ N. lat., 124°20.45′ W. long.;

(100) 45°03.83′ N. lat., 124°23.30′ W. long.;

(101) 44°56.41′ N. lat., 124°27.65′ W. long.;

(102) 44°44.47′ N. lat., 124°37.85′ W. long.;

(103) 44°37.17′ N. lat., 124°38.60′ W. long.;

(104) 44°35.55′ N. lat., 124°39.27′ W. long.;

(105) 44°31.81′ N. lat., 124°39.60′ W. long.;

(106) 44°31.48′ N. lat., 124°43.30′ W. long.;

(107) 44°12.67′ N. lat., 124°57.87′ W. long.;

(108) 44°08.30′ N. lat., 124°57.84′ W. long.;

(109) 44°07.38′ N. lat., 124°57.87′ W. long.;

(110) 43°57.42′ N. lat., 124°57.20′ W. long.;

(111) 43°52.52′ N. lat., 124°49.00′ W. long.;

(112) 43°51.55′ N. lat., 124°37.49′ W. long.;

(113) 43°47.83′ N. lat., 124°36.43′ W. long.;

(114) 43°31.79′ N. lat., 124°36.80′ W. long.;

(115) 43°29.34′ N. lat., 124°36.77′ W. long.;

(116) 43°26.37′ N. lat., 124°39.53′ W. long.;

(117) 43°20.83′ N. lat., 124°42.39′ W. long.;

(118) 43°16.15′ N. lat., 124°44.36′ W. long.;

(119) 43°09.33′ N. lat., 124°45.35′ W. long.;

(120) 43°08.77′ N. lat., 124°49.82′ W. long.;

(121) 43°08.83′ N. lat., 124°50.93′ W. long.;

(122) 43°05.89′ N. lat., 124°51.60′ W. long.;

(123) 43°04.60′ N. lat., 124°53.02′ W. long.;

(124) 43°02.64′ N. lat., 124°52.01′ W. long.;

(125) 43°00.39′ N. lat., 124°51.77′ W. long.;

(126) 42°58.00′ N. lat., 124°52.99′ W. long.;

(127) 42°57.56′ N. lat., 124°54.10′ W. long.;

(128) 42°53.82′ N. lat., 124°55.76′ W. long.;

(129) 42°52.31′ N. lat., 124°50.76′ W. long.;

(130) 42°50.00′ N. lat., 124°48.97′ W. long.;

(131) 42°47.78′ N. lat., 124°47.27′ W. long.;

(132) 42°46.31′ N. lat., 124°43.60′ W. long.;

(133) 42°41.63′ N. lat., 124°44.07′ W. long.;

(134) 42°40.50′ N. lat., 124°43.52′ W. long.;

(135) 42°38.83′ N. lat., 124°42.77′ W. long.;

(136) 42°35.36′ N. lat., 124°43.22′ W. long.;

(137) 42°32.78′ N. lat., 124°44.68′ W. long.;

(138) 42°32.02′ N. lat., 124°43.00′ W. long.;

(139) 42°30.54′ N. lat., 124°43.50′ W. long.;

(140) 42°28.16′ N. lat., 124°48.38′ W. long.;

(141) 42°18.26′ N. lat., 124°39.01′ W. long.;

(142) 42°13.66′ N. lat., 124°36.82′ W. long.;

(143) 42°00.00′ N. lat., 124°35.99′ W. long.;

(144) 41°47.80′ N. lat., 124°29.41′ W. long.;

(145) 41°23.51′ N. lat., 124°29.50′ W. long.;

(146) 41°13.29′ N. lat., 124°23.31′ W. long.;

(147) 41°06.23′ N. lat., 124°22.62′ W. long.;

(148) 40°55.60′ N. lat., 124°26.04′ W. long.;

(149) 40°49.62′ N. lat., 124°26.57′ W. long.;

(150) 40°45.72′ N. lat., 124°30.00′ W. long.;

(151) 40°40.56′ N. lat., 124°32.11′ W. long.;

(152) 40°37.33′ N. lat., 124°29.27′ W. long.;

(153) 40°35.60′ N. lat., 124°30.49′ W. long.;

(154) 40°37.38′ N. lat., 124°37.14′ W. long.;

(155) 40°36.03′ N. lat., 124°39.97′ W. long.;

(156) 40°31.58′ N. lat., 124°40.74′ W. long.;

(157) 40°30.00′ N. lat., 124°38.50′ W. long.;

(158) 40°29.76′ N. lat., 124°38.13′ W. long.;

(159) 40°28.22′ N. lat., 124°37.23′ W. long.;

(160) 40°24.86′ N. lat., 124°35.71′ W. long.;

(161) 40°23.01′ N. lat., 124°31.94′ W. long.;

(162) 40°23.39′ N. lat., 124°28.64′ W. long.;

(163) 40°22.29′ N. lat., 124°25.25′ W. long.;

(164) 40°21.90′ N. lat., 124°25.18′ W. long.;

(165) 40°22.02′ N. lat., 124°28.00′ W. long.;

(166) 40°21.34′ N. lat., 124°29.53′ W. long.;

(167) 40°19.74′ N. lat., 124°28.95′ W. long.;

(168) 40°18.13′ N. lat., 124°27.08′ W. long.;

(169) 40°17.45′ N. lat., 124°25.53′ W. long.;

(170) 40°17.97′ N. lat., 124°24.12′ W. long.;

(171) 40°15.96′ N. lat., 124°26.05′ W. long.;

(172) 40°17.00′ N. lat., 124°35.01′ W. long.;

(173) 40°15.97′ N. lat., 124°35.90′ W. long.;

(174) 40°10.00′ N. lat., 124°22.96′ W. long.;

(175) 40°07.00′ N. lat., 124°19.00′ W. long.;

(176) 40°08.10′ N. lat., 124°16.70′ W. long.;

(177) 40°05.90′ N. lat., 124°17.77′ W. long.;

(178) 40°02.99′ N. lat., 124°15.55′ W. long.;

(179) 40°02.00′ N. lat., 124°12.97′ W. long.;

(180) 40°02.60′ N. lat., 124°10.61′ W. long.;

(181) 40°03.63′ N. lat., 124°09.12′ W. long.;

(182) 40°02.18′ N. lat., 124°09.07′ W. long.;

(183) 39°58.25′ N. lat., 124°12.56′ W. long.;

(184) 39°57.03′ N. lat., 124°11.34′ W. long.;

(185) 39°56.30′ N. lat., 124°08.96′ W. long.;

(186) 39°54.82′ N. lat., 124°07.66′ W. long.;

(187) 39°52.57′ N. lat., 124°08.55′ W. long.;

(188) 39°45.34′ N. lat., 124°03.30′ W. long.;

(189) 39°39.82′ N. lat., 123°59.98′ W. long.;

(190) 39°34.59′ N. lat., 123°58.08′ W. long.;

(191) 39°34.22′ N. lat., 123°56.82′ W. long.;

(192) 39°32.98′ N. lat., 123°56.43′ W. long.;

(193) 39°31.47′ N. lat., 123°58.73′ W. long.;

(194) 39°05.68′ N. lat., 123°57.81′ W. long.;

(195) 39°00.24′ N. lat., 123°56.74′ W. long.;

(196) 38°57.50′ N. lat., 123°56.74′ W. long.;

(197) 38°54.31′ N. lat., 123°56.73′ W. long.;

(198) 38°41.42′ N. lat., 123°46.75′ W. long.;

(199) 38°39.61′ N. lat., 123°46.48′ W. long.;

(200) 38°37.52′ N. lat., 123°43.78′ W. long.;

(201) 38°35.25′ N. lat., 123°42.00′ W. long.;

(202) 38°28.79′ N. lat., 123°37.07′ W. long.;

(203) 38°18.75′ N. lat., 123°31.21′ W. long.;

(204) 38°14.43′ N. lat., 123°25.56′ W. long.;

(205) 38°08.75′ N. lat., 123°24.48′ W. long.;

(206) 38°10.10′ N. lat., 123°27.20′ W. long.;

(207) 38°07.16′ N. lat., 123°28.18′ W. long.;

(208) 38°06.15′ N. lat., 123°30.00′ W. long.;

(209) 38°04.28′ N. lat., 123°31.70′ W. long.;

(210) 38°01.88′ N. lat., 123°30.98′ W. long.;

(211) 38°00.75′ N. lat., 123°29.72′ W. long.;

(212) 38°00.00′ N. lat., 123°28.60′ W. long.;

(213) 37°58.23′ N. lat., 123°26.90′ W. long.;

(214) 37°55.32′ N. lat., 123°27.19′ W. long.;

(215) 37°51.47′ N. lat., 123°24.92′ W. long.;

(216) 37°44.47′ N. lat., 123°11.57′ W. long.;

(217) 37°35.67′ N. lat., 123°01.76′ W. long.;

(218) 37°26.10′ N. lat., 122°57.07′ W. long.;

(219) 37°26.51′ N. lat., 122°54.23′ W. long.;

(220) 37°25.05′ N. lat., 122°55.64′ W. long.;

(221) 37°24.42′ N. lat., 122°54.94′ W. long.;

(222) 37°25.16′ N. lat., 122°52.73′ W. long.;

(223) 37°24.55′ N. lat., 122°52.48′ W. long.;

(224) 37°22.81′ N. lat., 122°54.36′ W. long.;

(225) 37°19.87′ N. lat., 122°53.98′ W. long.;

(226) 37°15.16′ N. lat., 122°51.64′ W. long.;

(227) 37°11.00′ N. lat., 122°47.20′ W. long.;

(228) 37°07.00′ N. lat., 122°42.90′ W. long.;

(229) 37°01.68′ N. lat., 122°37.28′ W. long.;

(230) 36°59.70′ N. lat., 122°33.71′ W. long.;

(231) 36°58.00′ N. lat., 122°27.80′ W. long.;

(232) 37°00.25′ N. lat., 122°24.85′ W. long.;

(233) 36°57.50′ N. lat., 122°24.98′ W. long.;

(234) 36°58.38′ N. lat., 122°21.85′ W. long.;

(235) 36°55.85′ N. lat., 122°21.95′ W. long.;

(236) 36°52.02′ N. lat., 122°12.10′ W. long.;

(237) 36°47.63′ N. lat., 122°07.37′ W. long.;

(238) 36°47.26′ N. lat., 122°03.22′ W. long.;

(239) 36°50.34′ N. lat., 121°58.40′ W. long.;

(240) 36°48.83′ N. lat., 121°59.14′ W. long.;

(241) 36°44.81′ N. lat., 121°58.28′ W. long.;

(242) 36°39.00′ N. lat., 122°01.71′ W. long.;

(243) 36°29.60′ N. lat., 122°00.49′ W. long.;

(244) 36°23.43′ N. lat., 121°59.76′ W. long.;

(245) 36°18.90′ N. lat., 122°05.32′ W. long.;

(246) 36°15.38′ N. lat., 122°01.40′ W. long.;

(247) 36°13.79′ N. lat., 121°58.12′ W. long.;

(248) 36°10.12′ N. lat., 121°43.33′ W. long.;

(249) 36°02.57′ N. lat., 121°37.02′ W. long.;

(250) 36°01.01′ N. lat., 121°36.69′ W. long.;

(251) 36°00.00′ N. lat., 121°35.45′ W. long.;

(252) 35°57.74′ N. lat., 121°33.45′ W. long.;

(253) 35°51.32′ N. lat., 121°30.08′ W. long.;

(254) 35°45.84′ N. lat., 121°28.84′ W. long.;

(255) 35°38.94′ N. lat., 121°23.16′ W. long.;

(256) 35°26.00′ N. lat., 121°08.00′ W. long.;

(257) 35°07.42′ N. lat., 120°57.08′ W. long.;

(258) 34°42.76′ N. lat., 120°55.09′ W. long.;

(259) 34°37.75′ N. lat., 120°51.96′ W. long.;

(260) 34°29.29′ N. lat., 120°44.19′ W. long.;

(261) 34°27.00′ N. lat., 120°40.42′ W. long.;

(262) 34°21.89′ N. lat., 120°31.36′ W. long.;

(263) 34°20.79′ N. lat., 120°21.58′ W. long.;

(264) 34°23.97′ N. lat., 120°15.25′ W. long.;

(265) 34°22.11′ N. lat., 119°56.63′ W. long.;

(266) 34°19.00′ N. lat., 119°48.00′ W. long.;

(267) 34°15.00′ N. lat., 119°48.00′ W. long.;

(268) 34°08.00′ N. lat., 119°37.00′ W. long.;

(269) 34°08.39′ N. lat., 119°54.78′ W. long.;

(270) 34°07.10′ N. lat., 120°10.37′ W. long.;

(271) 34°10.08′ N. lat., 120°22.98′ W. long.;

(272) 34°13.16′ N. lat., 120°29.40′ W. long.;

(273) 34°09.41′ N. lat., 120°37.75′ W. long.;

(274) 34°03.15′ N. lat., 120°34.71′ W. long.;

(275) 33°57.09′ N. lat., 120°27.76′ W. long.;

(276) 33°51.00′ N. lat., 120°09.00′ W. long.;

(277) 33°38.16′ N. lat., 119°59.23′ W. long.;

(278) 33°37.04′ N. lat., 119°50.17′ W. long.;

(279) 33°42.28′ N. lat., 119°48.85′ W. long.;

(280) 33°53.96′ N. lat., 119°53.77′ W. long.;

(281) 33°55.88′ N. lat., 119°41.05′ W. long.;

(282) 33°59.94′ N. lat., 119°19.57′ W. long.;

(283) 34°03.12′ N. lat., 119°15.51′ W. long.;

(284) 34°01.97′ N. lat., 119°07.28′ W. long.;

(285) 34°03.60′ N. lat., 119°04.71′ W. long.;

(286) 33°59.30′ N. lat., 119°03.73′ W. long.;

(287) 33°58.87′ N. lat., 118°59.37′ W. long.;

(288) 33°58.08′ N. lat., 118°41.14′ W. long.;

(289) 33°50.93′ N. lat., 118°37.65′ W. long.;

(290) 33°39.54′ N. lat., 118°18.70′ W. long.;

(291) 33°35.42′ N. lat., 118°17.14′ W. long.;

(292) 33°32.15′ N. lat., 118°10.84′ W. long.;

(293) 33°33.71′ N. lat., 117°53.72′ W. long.;

(294) 33°31.17′ N. lat., 117°49.11′ W. long.;

(295) 33°16.53′ N. lat., 117°36.13′ W. long.;

(296) 33°06.77′ N. lat., 117°22.92′ W. long.;

(297) 32°58.94′ N. lat., 117°20.05′ W. long.;

(298) 32°55.83′ N. lat., 117°20.15′ W. long.;

(299) 32°46.29′ N. lat., 117°23.89′ W. long.;

(300) 32°42.00′ N. lat., 117°22.16′ W. long.;

(301) 32°39.47′ N. lat., 117°27.78′ W. long.; and

(302) 32°34.83′ N. lat., 117°24.69′ W. long.

* * * * *

19. In § 660.394:

(a) Paragraphs (a)(1) through (281) are revised, and (a)(282) through (284) are added.

(b) Paragraphs (f)(90) through (128) are revised, and new paragraph (f)(129) is added.

(c) Paragraphs (g)(1) through (g)(254) are revised, and new paragraphs (g)(255) and (256) are added.

(d) Paragraphs (l)(1) through (241) are revised, and new paragraphs (l)(242) through (245) are added.

(e) Paragraphs (m)(1) through (199) are revised, and new paragraphs (m)(200) through (208) are added.

(f) Paragraphs (r)(1) through (223) are revised, and new paragraphs (r)(224) through (231) are added.

The revisions and additions read as follows:

§ 660.394 Latitude/longitude coordinates defining the 180-fm (329-m) through 250-fm (457-m) depth contours.

* * * * *

(a) * * *

(1) 48°14.82′ N. lat., 125°41.61′ W. long.;

(2) 48°12.86′ N. lat., 125°37.95′ W. long.;

(3) 48°11.28′ N. lat., 125°39.67′ W. long.;

(4) 48°10.13′ N. lat., 125°42.62′ W. long.;

(5) 48°10.00′ N. lat., 125°42.55′ W. long.;

(6) 48°08.86′ N. lat., 125°41.92′ W. long.;

(7) 48°08.15′ N. lat., 125°44.95′ W. long.;

(8) 48°07.18′ N. lat., 125°45.67′ W. long.;

(9) 48°05.79′ N. lat., 125°44.64′ W. long.;

(10) 48°06.04′ N. lat., 125°41.84′ W. long.;

(11) 48°04.26′ N. lat., 125°40.09′ W. long.;

(12) 48°04.18′ N. lat., 125°36.94′ W. long.;

(13) 48°03.02′ N. lat., 125°36.24′ W. long.;

(14) 48°01.75′ N. lat., 125°37.42′ W. long.;

(15) 48°01.39′ N. lat., 125°39.42′ W. long.;

(16) 47°57.08′ N. lat., 125°36.51′ W. long.;

(17) 47°55.20′ N. lat., 125°36.62′ W. long.;

(18) 47°54.33′ N. lat., 125°34.98′ W. long.;

(19) 47°54.73′ N. lat., 125°31.95′ W. long.;

(20) 47°56.39′ N. lat., 125°30.22′ W. long.;

(21) 47°55.86′ N. lat., 125°28.54′ W. long.;

(22) 47°58.07′ N. lat., 125°25.72′ W. long.;

(23) 48°00.81′ N. lat., 125°24.39′ W. long.;

(24) 48°01.81′ N. lat., 125°23.76′ W. long.;

(25) 48°02.16′ N. lat., 125°22.71′ W. long.;

(26) 48°03.46′ N. lat., 125°22.01′ W. long.;

(27) 48°04.21′ N. lat., 125°20.40′ W. long.;

(28) 48°03.15′ N. lat., 125°19.50′ W. long.;

(29) 48°01.92′ N. lat., 125°18.69′ W. long.;

(30) 48°00.85′ N. lat., 125°20.02′ W. long.;

(31) 48°00.12′ N. lat., 125°20.04′ W. long.;

(32) 47°58.18′ N. lat., 125°18.78′ W. long.;

(33) 47°58.24′ N. lat., 125°17.26′ W. long.;

(34) 47°52.47′ N. lat., 125°15.30′ W. long.;

(35) 47°52.13′ N. lat., 125°12.95′ W. long.;

(36) 47°50.60′ N. lat., 125°10.65′ W. long.;

(37) 47°49.39′ N. lat., 125°10.59′ W. long.;

(38) 47°48.74′ N. lat., 125°06.07′ W. long.;

(39) 47°47.03′ N. lat., 125°06.95′ W. long.;

(40) 47°47.46′ N. lat., 125°05.20′ W. long.;

(41) 47°45.88′ N. lat., 125°04.50′ W. long.;

(42) 47°44.51′ N. lat., 125°06.64′ W. long.;

(43) 47°42.22′ N. lat., 125°04.86′ W. long.;

(44) 47°38.49′ N. lat., 125°06.32′ W. long.;

(45) 47°34.93′ N. lat., 125°04.34′ W. long.;

(46) 47°30.85′ N. lat., 124°57.42′ W. long.;

(47) 47°28.80′ N. lat., 124°56.51′ W. long.;

(48) 47°29.25′ N. lat., 124°53.92′ W. long.;

(49) 47°28.29′ N. lat., 124°51.32′ W. long.;

(50) 47°24.04′ N. lat., 124°47.38′ W. long.;

(51) 47°18.24′ N. lat., 124°45.97′ W. long.;

(52) 47°19.36′ N. lat., 124°50.96′ W. long.;

(53) 47°18.07′ N. lat., 124°53.38′ W. long.;

(54) 47°17.73′ N. lat., 124°52.83′ W. long.;

(55) 47°17.77′ N. lat., 124°51.56′ W. long.;

(56) 47°16.84′ N. lat., 124°50.94′ W. long.;

(57) 47°16.01′ N. lat., 124°53.36′ W. long.;

(58) 47°14.32′ N. lat., 124°52.73′ W. long.;

(59) 47°11.97′ N. lat., 124°56.81′ W. long.;

(60) 47°12.93′ N. lat., 124°58.47′ W. long.;

(61) 47°09.43′ N. lat., 124°57.99′ W. long.;

(62) 47°09.36′ N. lat., 124°59.29′ W. long.;

(63) 47°05.88′ N. lat., 124°59.06′ W. long.;

(64) 47°03.64′ N. lat., 124°56.07′ W. long.;

(65) 47°01.00′ N. lat., 124°59.69′ W. long.;

(66) 46°58.72′ N. lat., 124°59.17′ W. long.;

(67) 46°58.30′ N. lat., 125°00.60′ W. long.;

(68) 46°55.61′ N. lat., 125°01.19′ W. long.;

(69) 46°56.96′ N. lat., 124°58.85′ W. long.;

(70) 46°55.91′ N. lat., 124°54.98′ W. long.;

(71) 46°54.55′ N. lat., 124°54.21′ W. long.;

(72) 46°56.80′ N. lat., 124°50.55′ W. long.;

(73) 46°54.87′ N. lat., 124°49.59′ W. long.;

(74) 46°54.63′ N. lat., 124°53.48′ W. long.;

(75) 46°52.33′ N. lat., 124°54.75′ W. long.;

(76) 46°45.12′ N. lat., 124°51.82′ W. long.;

(77) 46°39.20′ N. lat., 124°47.02′ W. long.;

(78) 46°38.17′ N. lat., 124°45.16′ W. long.;

(79) 46°33.45′ N. lat., 124°36.61′ W. long.;

(80) 46°33.37′ N. lat., 124°30.21′ W. long.;

(81) 46°31.67′ N. lat., 124°31.41′ W. long.;

(82) 46°27.87′ N. lat., 124°32.04′ W. long.;

(83) 46°21.01′ N. lat., 124°37.63′ W. long.;

(84) 46°18.58′ N. lat., 124°38.92′ W. long.;

(85) 46°16.00′ N. lat., 124°23.57′ W. long.;

(86) 46°12.85′ N. lat., 124°35.52′ W. long.;

(87) 46°12.27′ N. lat., 124°38.69′ W. long.;

(88) 46°08.71′ N. lat., 124°41.27′ W. long.;

(89) 46°05.80′ N. lat., 124°42.11′ W. long.;

(90) 46°02.84′ N. lat., 124°48.05′ W. long.;

(91) 46°02.41′ N. lat., 124°48.16′ W. long.;

(92) 45°58.96′ N. lat., 124°43.97′ W. long.;

(93) 45°47.05′ N. lat., 124°43.25′ W. long.;

(94) 45°46.00′ N. lat., 124°43.31′ W. long.;

(95) 45°44.22′ N. lat., 124°44.55′ W. long.;

(96) 45°34.97′ N. lat., 124°31.95′ W. long.;

(97) 45°20.25′ N. lat., 124°25.18′ W. long.;

(98) 45°13.09′ N. lat., 124°21.61′ W. long.;

(99) 45°09.59′ N. lat., 124°22.78′ W. long.;

(100) 45°03.83′ N. lat., 124°26.21′ W. long.;

(101) 45°00.22′ N. lat., 124°28.31′ W. long.;

(102) 44°53.53′ N. lat., 124°32.98′ W. long.;

(103) 44°40.79′ N. lat., 124°45.76′ W. long.;

(104) 44°41.35′ N. lat., 124°48.03′ W. long.;

(105) 44°40.27′ N. lat., 124°49.11′ W. long.;

(106) 44°38.52′ N. lat., 124°49.11′ W. long.;

(107) 44°38.25′ N. lat., 124°46.47′ W. long.;

(108) 44°28.84′ N. lat., 124°47.09′ W. long.;

(109) 44°23.24′ N. lat., 124°49.96′ W. long.;

(110) 44°13.07′ N. lat., 124°58.34′ W. long.;

(111) 44°08.30′ N. lat., 124°58.23′ W. long.;

(112) 43°57.99′ N. lat., 124°57.83′ W. long.;

(113) 43°51.43′ N. lat., 124°52.02′ W. long.;

(114) 43°50.72′ N. lat., 124°39.23′ W. long.;

(115) 43°39.04′ N. lat., 124°37.82′ W. long.;

(116) 43°27.76′ N. lat., 124°39.76′ W. long.;

(117) 43°20.83′ N. lat., 124°42.70′ W. long.;

(118) 43°20.22′ N. lat., 124°42.92′ W. long.;

(119) 43°13.07′ N. lat., 124°46.03′ W. long.;

(120) 43°10.43′ N. lat., 124°50.27′ W. long.;

(121) 43°08.83′ N. lat., 124°50.93′ W. long.;

(122) 43°05.89′ N. lat., 124°51.60′ W. long.;

(123) 43°04.60′ N. lat., 124°53.01′ W. long.;

(124) 43°02.64′ N. lat., 124°52.01′ W. long.;

(125) 43°00.39′ N. lat., 124°51.77′ W. long.;

(126) 42°58.00′ N. lat., 124°52.99′ W. long.;

(127) 42°57.56′ N. lat., 124°54.10′ W. long.;

(128) 42°53.82′ N. lat., 124°55.76′ W. long.;

(129) 42°53.20′ N. lat., 124°53.56′ W. long.;

(130) 42°50.00′ N. lat., 124°52.36′ W. long.;

(131) 42°50.00′ N. lat., 124°52.36′ W. long.;

(132) 42°49.43′ N. lat., 124°52.03′ W. long.;

(133) 42°47.68′ N. lat., 124°47.72′ W. long.;

(134) 42°46.17′ N. lat., 124°44.05′ W. long.;

(135) 42°41.67′ N. lat., 124°44.36′ W. long.;

(136) 42°40.50′ N. lat., 124°43.86′ W. long.;

(137) 42°38.79′ N. lat., 124°42.88′ W. long.;

(138) 42°32.39′ N. lat., 124°45.38′ W. long.;

(139) 42°32.08′ N. lat., 124°43.44′ W. long.;

(140) 42°30.98′ N. lat., 124°43.84′ W. long.;

(141) 42°28.37′ N. lat., 124°48.91′ W. long.;

(142) 42°20.07′ N. lat., 124°41.59′ W. long.;

(143) 42°15.05′ N. lat., 124°38.07′ W. long.;

(144) 42°13.67′ N. lat., 124°37.77′ W. long.;

(145) 42°07.37′ N. lat., 124°37.25′ W. long.;

(146) 42°04.93′ N. lat., 124°36.79′ W. long.;

(147) 42°00.00′ N. lat., 124°36.26′ W. long.;

(148) 41°47.60′ N. lat., 124°29.75′ W. long.;

(149) 41°22.07′ N. lat., 124°29.55′ W. long.;

(150) 41°13.58′ N. lat., 124°24.17′ W. long.;

(151) 41°06.51′ N. lat., 124°23.07′ W. long.;

(152) 40°55.20′ N. lat., 124°27.46′ W. long.;

(153) 40°49.76′ N. lat., 124°27.17′ W. long.;

(154) 40°45.79′ N. lat., 124°30.37′ W. long.;

(155) 40°40.31′ N. lat., 124°32.47′ W. long.;

(156) 40°37.42′ N. lat., 124°37.20′ W. long.;

(157) 40°36.03′ N. lat., 124°39.97′ W. long.;

(158) 40°31.48′ N. lat., 124°40.95′ W. long.;

(159) 40°30.00′ N. lat., 124°38.50′ W. long.;

(160) 40°24.81′ N. lat., 124°35.82′ W. long.;

(161) 40°22.00′ N. lat., 124°30.01′ W. long.;

(162) 40°16.84′ N. lat., 124°29.87′ W. long.;

(163) 40°17.06′ N. lat., 124°35.51′ W. long.;

(164) 40°16.41′ N. lat., 124°39.10′ W. long.;

(165) 40°10.00′ N. lat., 124°23.56′ W. long.;

(166) 40°06.67′ N. lat., 124°19.08′ W. long.;

(167) 40°08.10′ N. lat., 124°16.71′ W. long.;

(168) 40°05.90′ N. lat., 124°17.77′ W. long.;

(169) 40°02.80′ N. lat., 124°16.28′ W. long.;

(170) 40°01.98′ N. lat., 124°12.99′ W. long.;

(171) 40°01.53′ N. lat., 124°09.82′ W. long.;

(172) 39°58.28′ N. lat., 124°12.93′ W. long.;

(173) 39°57.06′ N. lat., 124°12.03′ W. long.;

(174) 39°56.31′ N. lat., 124°08.98′ W. long.;

(175) 39°55.20′ N. lat., 124°07.98′ W. long.;

(176) 39°52.57′ N. lat., 124°09.04′ W. long.;

(177) 39°42.78′ N. lat., 124°02.11′ W. long.;

(178) 39°34.76′ N. lat., 123°58.51′ W. long.;

(179) 39°34.22′ N. lat., 123°56.82′ W. long.;

(180) 39°32.98′ N. lat., 123°56.43′ W. long.;

(181) 39°32.14′ N. lat., 123°58.83′ W. long.;

(182) 39°07.79′ N. lat., 123°58.72′ W. long.;

(183) 39°00.99′ N. lat., 123°57.56′ W. long.;

(184) 39°00.05′ N. lat., 123°56.83′ W. long.;

(185) 38°57.50′ N. lat., 123°57.22′ W. long.;

(186) 38°56.28′ N. lat., 123°57.53′ W. long.;

(187) 38°56.01′ N. lat., 123°58.72′ W. long.;

(188) 38°52.41′ N. lat., 123°56.38′ W. long.;

(189) 38°46.81′ N. lat., 123°51.46′ W. long.;

(190) 38°45.56′ N. lat., 123°51.32′ W. long.;

(191) 38°43.24′ N. lat., 123°49.91′ W. long.;

(192) 38°41.42′ N. lat., 123°47.22′ W. long.;

(193) 38°40.97′ N. lat., 123°47.80′ W. long.;

(194) 38°38.58′ N. lat., 123°46.07′ W. long.;

(195) 38°37.38′ N. lat., 123°43.80′ W. long.;

(196) 38°33.86′ N. lat., 123°41.51′ W. long.;

(197) 38°29.45′ N. lat., 123°38.42′ W. long.;

(198) 38°28.20′ N. lat., 123°38.17′ W. long.;

(199) 38°24.09′ N. lat., 123°35.26′ W. long.;

(200) 38°16.72′ N. lat., 123°31.42′ W. long.;

(201) 38°15.32′ N. lat., 123°29.33′ W. long.;

(202) 38°14.45′ N. lat., 123°26.15′ W. long.;

(203) 38°10.26′ N. lat., 123°25.43′ W. long.;

(204) 38°12.61′ N. lat., 123°28.08′ W. long.;

(205) 38°11.98′ N. lat., 123°29.35′ W. long.;

(206) 38°08.23′ N. lat., 123°28.04′ W. long.;

(207) 38°06.39′ N. lat., 123°30.59′ W. long.;

(208) 38°04.25′ N. lat., 123°31.81′ W. long.;

(209) 38°02.08′ N. lat., 123°31.27′ W. long.;

(210) 38°00.17′ N. lat., 123°29.43′ W. long.;

(211) 38°00.00′ N. lat., 123°28.55′ W. long.;

(212) 37°58.24′ N. lat., 123°26.91′ W. long.;

(213) 37°55.32′ N. lat., 123°27.19′ W. long.;

(214) 37°51.52′ N. lat., 123°25.01′ W. long.;

(215) 37°44.21′ N. lat., 123°11.38′ W. long.;

(216) 37°35.67′ N. lat., 123°01.86′ W. long.;

(217) 37°14.29′ N. lat., 122°52.99′ W. long.;

(218) 37°11.00′ N. lat., 122°49.28′ W. long.;

(219) 37°07.00′ N. lat., 122°44.65′ W. long.;

(220) 37°00.86′ N. lat., 122°37.55′ W. long.;

(221) 36°59.71′ N. lat., 122°33.73′ W. long.;

(222) 36°57.98′ N. lat., 122°27.80′ W. long.;

(223) 36°59.83′ N. lat., 122°25.17′ W. long.;

(224) 36°57.21′ N. lat., 122°25.17′ W. long.;

(225) 36°57.79′ N. lat., 122°22.28′ W. long.;

(226) 36°55.86′ N. lat., 122°21.99′ W. long.;

(227) 36°52.06′ N. lat., 122°12.12′ W. long.;

(228) 36°47.63′ N. lat., 122°07.40′ W. long.;

(229) 36°47.26′ N. lat., 122°03.23′ W. long.;

(230) 36°49.53′ N. lat., 121°59.35′ W. long.;

(231) 36°44.81′ N. lat., 121°58.29′ W. long.;

(232) 36°38.95′ N. lat., 122°02.02′ W. long.;

(233) 36°23.43′ N. lat., 121°59.76′ W. long.;

(234) 36°19.66′ N. lat., 122°06.25′ W. long.;

(235) 36°14.78′ N. lat., 122°01.52′ W. long.;

(236) 36°13.64′ N. lat., 121°57.83′ W. long.;

(237) 36°09.99′ N. lat., 121°43.48′ W. long.;

(238) 36°00.00′ N. lat., 121°36.95′ W. long.;

(239) 35°57.09′ N. lat., 121°34.16′ W. long.;

(240) 35°52.71′ N. lat., 121°32.32′ W. long.;

(241) 35°51.23′ N. lat., 121°30.54′ W. long.;

(242) 35°46.07′ N. lat., 121°29.75′ W. long.;

(243) 35°34.08′ N. lat., 121°19.83′ W. long.;

(244) 35°31.41′ N. lat., 121°14.80′ W. long.;

(245) 35°15.42′ N. lat., 121°03.47′ W. long.;

(246) 35°07.70′ N. lat., 120°59.31′ W. long.;

(247) 34°57.27′ N. lat., 120°56.93′ W. long.;

(248) 34°44.27′ N. lat., 120°57.65′ W. long.;

(249) 34°32.75′ N. lat., 120°50.08′ W. long.;

(250) 34°27.00′ N. lat., 120°41.50′ W. long.;

(251) 34°20.00′ N. lat., 120°30.99′ W. long.;

(252) 34°19.15′ N. lat., 120°19.78′ W. long.;

(253) 34°23.24′ N. lat., 120°14.17′ W. long.;

(254) 34°21.35′ N. lat., 119°54.89′ W. long.;

(255) 34°09.79′ N. lat., 119°44.51′ W. long.;

(256) 34°07.34′ N. lat., 120°06.71′ W. long.;

(257) 34°09.74′ N. lat., 120°19.78′ W. long.;

(258) 34°13.95′ N. lat., 120°29.78′ W. long.;

(259) 34°09.41′ N. lat., 120°37.75′ W. long.;

(260) 34°03.39′ N. lat., 120°35.26′ W. long.;

(261) 33°56.82′ N. lat., 120°28.30′ W. long.;

(262) 33°50.71′ N. lat., 120°09.24′ W. long.;

(263) 33°38.21′ N. lat., 119°59.90′ W. long.;

(264) 33°35.35′ N. lat., 119°51.95′ W. long.;

(265) 33°35.99′ N. lat., 119°49.13′ W. long.;

(266) 33°42.74′ N. lat., 119°47.80′ W. long.;

(267) 33°53.65′ N. lat., 119°53.29′ W. long.;

(268) 33°57.85′ N. lat., 119°31.05′ W. long.;

(269) 33°56.78′ N. lat., 119°27.44′ W. long.;

(270) 33°58.03′ N. lat., 119°27.82′ W. long.;

(271) 33°59.31′ N. lat., 119°20.02′ W. long.;

(272) 34°02.91′ N. lat., 119°15.38′ W. long.;

(273) 33°59.04′ N. lat., 119°03.02′ W. long.;

(274) 33°57.88′ N. lat., 118°41.69′ W. long.;

(275) 33°50.89′ N. lat., 118°37.78′ W. long.;

(276) 33°39.54′ N. lat., 118°18.70′ W. long.;

(277) 33°35.42′ N. lat., 118°17.15′ W. long.;

(278) 33°31.26′ N. lat., 118°10.84′ W. long.;

(279) 33°32.71′ N. lat., 117°52.05′ W. long.;

(280) 32°58.94′ N. lat., 117°20.05′ W. long.;

(281) 32°46.45′ N. lat., 117°24.37′ W. long.;

(282) 32°42.25′ N. lat., 117°22.87′ W. long.;

(283) 32°39.50′ N. lat., 117°27.80′ W. long.; and

(284) 32°34.83′ N. lat., 117°24.67′ W. long.

* * * * *

(f) * * *

(90) 34°40.04′ N. lat., 120°53.95′ W. long.;

(91) 34°27.00′ N. lat., 120°41.50′ W. long.;

(92) 34°21.16′ N. lat., 120°33.11′ W. long.;

(93) 34°19.15′ N. lat., 120°19.78′ W. long.;

(94) 34°23.24′ N. lat., 120°14.17′ W. long.;

(95) 34°21.47′ N. lat., 119°54.68′ W. long.;

(96) 34°09.79′ N. lat., 119°44.51′ W. long.;

(97) 34°07.34′ N. lat., 120°06.71′ W. long.;

(98) 34°09.43′ N. lat., 120°18.34′ W. long.;

(99) 34°12.50′ N. lat., 120°18.34′ W. long.;

(100) 34°12.50′ N. lat., 120°26.11′ W. long.;

(101) 34°14.02′ N. lat., 120°29.61′ W. long.;

(102) 34°09.55′ N. lat., 120°37.83′ W. long.;

(103) 34°05.35′ N. lat., 120°36.23′ W. long.;

(104) 34°02.21′ N. lat., 120°36.23′ W. long.;

(105) 34°02.21′ N. lat., 120°33.94′ W. long.;

(106) 33°56.82′ N. lat., 120°28.30′ W. long.;

(107) 33°50.40′ N. lat., 120°09.94′ W. long.;

(108) 33°38.21′ N. lat., 119°59.90′ W. long.;

(109) 33°35.35′ N. lat., 119°51.95′ W. long.;

(110) 33°35.99′ N. lat., 119°49.13′ W. long.;

(111) 33°42.74′ N. lat., 119°47.81′ W. long.;

(112) 33°51.63′ N. lat., 119°52.94′ W. long.;

(113) 33°51.62′ N. lat., 119°47.94′ W. long.;

(114) 33°54.67′ N. lat., 119°47.94′ W. long.;

(115) 33°57.84′ N. lat., 119°30.94′ W. long.;

(116) 33°54.11′ N. lat., 119°30.94′ W. long.;

(117) 33°54.11′ N. lat., 119°25.94′ W. long.;

(118) 33°58.14′ N. lat., 119°25.94′ W. long.;

(119) 33°59.31′ N. lat., 119°20.02′ W. long.;

(120) 34°02.91′ N. lat., 119°15.38′ W. long.;

(121) 33°59.04′ N. lat., 119°03.02′ W. long.;

(122) 33°57.88′ N. lat., 118°41.69′ W. long.;

(123) 33°50.89′ N. lat., 118°37.78′ W. long.;

(124) 33°39.16′ N. lat., 118°18.24′ W. long.;

(125) 33°35.44′ N. lat., 118°17.31′ W. long.;

(126) 33°31.37′ N. lat., 118°10.39′ W. long.;

(127) 33°32.71′ N. lat., 117°52.05′ W. long.;

(128) 32°58.94′ N. lat., 117°20.06′ W. long.; and

(129) 32°35.48′ N. lat., 117°28.83′ W. long.

(g) * * *

(1) 48°14.75′ N. lat., 125°41.73′ W. long.;

(2) 48°12.85′ N. lat., 125°38.06′ W. long.;

(3) 48°10.00′ N. lat., 125°41.82′ W. long.;

(4) 48°07.10′ N. lat., 125°45.65′ W. long.;

(5) 48°05.71′ N. lat., 125°44.70′ W. long.;

(6) 48°04.07′ N. lat., 125°36.96′ W. long.;

(7) 48°03.05′ N. lat., 125°36.38′ W. long.;

(8) 48°01.98′ N. lat., 125°37.41′ W. long.;

(9) 48°01.46′ N. lat., 125°39.61′ W. long.;

(10) 47°56.94′ N. lat., 125°36.65′ W. long.;

(11) 47°55.11′ N. lat., 125°36.92′ W. long.;

(12) 47°54.10′ N. lat., 125°34.98′ W. long.;

(13) 47°54.50′ N. lat., 125°32.01′ W. long.;

(14) 47°55.77′ N. lat., 125°30.13′ W. long.;

(15) 47°55.65′ N. lat., 125°28.46′ W. long.;

(16) 47°58.11′ N. lat., 125°26.60′ W. long.;

(17) 48°00.40′ N. lat., 125°24.83′ W. long.;

(18) 48°02.04′ N. lat., 125°22.90′ W. long.;

(19) 48°03.60′ N. lat., 125°21.84′ W. long.;

(20) 48°03.98′ N. lat., 125°20.65′ W. long.;

(21) 48°03.26′ N. lat., 125°19.76′ W. long.;

(22) 48°01.50′ N. lat., 125°18.80′ W. long.;

(23) 48°01.03′ N. lat., 125°20.12′ W. long.;

(24) 48°00.04′ N. lat., 125°20.26′ W. long.;

(25) 47°58.10′ N. lat., 125°18.91′ W. long.;

(26) 47°58.17′ N. lat., 125°17.50′ W. long.;

(27) 47°52.33′ N. lat., 125°15.78′ W. long.;

(28) 47°49.20′ N. lat., 125°10.67′ W. long.;

(29) 47°48.27′ N. lat., 125°07.38′ W. long.;

(30) 47°47.24′ N. lat., 125°05.38′ W. long.;

(31) 47°45.95′ N. lat., 125°04.61′ W. long.;

(32) 47°44.58′ N. lat., 125°07.12′ W. long.;

(33) 47°42.24′ N. lat., 125°05.15′ W. long.;

(34) 47°38.54′ N. lat., 125°06.76′ W. long.;

(35) 47°35.03′ N. lat., 125°04.28′ W. long.;

(36) 47°28.82′ N. lat., 124°56.24′ W. long.;

(37) 47°29.15′ N. lat., 124°54.10′ W. long.;

(38) 47°28.43′ N. lat., 124°51.58′ W. long.;

(39) 47°24.13′ N. lat., 124°47.50′ W. long.;

(40) 47°18.31′ N. lat., 124°46.17′ W. long.;

(41) 47°19.57′ N. lat., 124°51.00′ W. long.;

(42) 47°18.12′ N. lat., 124°53.66′ W. long.;

(43) 47°17.60′ N. lat., 124°52.94′ W. long.;

(44) 47°17.71′ N. lat., 124°51.63′ W. long.;

(45) 47°16.90′ N. lat., 124°51.23′ W. long.;

(46) 47°16.10′ N. lat., 124°53.67′ W. long.;

(47) 47°14.24′ N. lat., 124°53.02′ W. long.;

(48) 47°12.16′ N. lat., 124°56.77′ W. long.;

(49) 47°13.35′ N. lat., 124°58.70′ W. long.;

(50) 47°09.53′ N. lat., 124°58.32′ W. long.;

(51) 47°09.54′ N. lat., 124°59.50′ W. long.;

(52) 47°05.87′ N. lat., 124°59.30′ W. long.;

(53) 47°03.65′ N. lat., 124°56.26′ W. long.;

(54) 47°00.87′ N. lat., 124°59.52′ W. long.;

(55) 46°56.80′ N. lat., 125°00.00′ W. long.;

(56) 46°51.55′ N. lat., 125°00.00′ W. long.;

(57) 46°50.07′ N. lat., 124°53.90′ W. long.;

(58) 46°44.88′ N. lat., 124°51.97′ W. long.;

(59) 46°38.17′ N. lat., 124°42.66′ W. long.;

(60) 46°33.45′ N. lat., 124°36.11′ W. long.;

(61) 46°33.20′ N. lat., 124°30.64′ W. long.;

(62) 46°27.85′ N. lat., 124°31.95′ W. long.;

(63) 46°18.27′ N. lat., 124°39.28′ W. long.;

(64) 46°16.00′ N. lat., 124°24.88′ W. long.;

(65) 46°14.22′ N. lat., 124°26.29′ W. long.;

(66) 46°11.53′ N. lat., 124°39.58′ W. long.;

(67) 46°08.77′ N. lat., 124°41.71′ W. long.;

(68) 46°05.86′ N. lat., 124°42.26′ W. long.;

(69) 46°03.85′ N. lat., 124°48.20′ W. long.;

(70) 46°02.33′ N. lat., 124°48.51′ W. long.;

(71) 45°58.99′ N. lat., 124°44.42′ W. long.;

(72) 45°46.90′ N. lat., 124°43.50′ W. long.;

(73) 45°46.00′ N. lat., 124°44.27′ W. long.;

(74) 45°44.98′ N. lat., 124°44.93′ W. long.;

(75) 45°43.46′ N. lat., 124°44.93′ W. long.;

(76) 45°34.88′ N. lat., 124°32.59′ W. long.;

(77) 45°20.25′ N. lat., 124°25.47′ W. long.;

(78) 45°13.06′ N. lat., 124°22.25′ W. long.;

(79) 45°03.83′ N. lat., 124°27.13′ W. long.;

(80) 45°00.17′ N. lat., 124°29.29′ W. long.;

(81) 44°55.60′ N. lat., 124°32.36′ W. long.;

(82) 44°48.25′ N. lat., 124°40.61′ W. long.;

(83) 44°42.24′ N. lat., 124°48.05′ W. long.;

(84) 44°41.35′ N. lat., 124°48.03′ W. long.;

(85) 44°40.27′ N. lat., 124°49.11′ W. long.;

(86) 44°38.52′ N. lat., 124°49.11′ W. long.;

(87) 44°23.30′ N. lat., 124°50.17′ W. long.;

(88) 44°13.19′ N. lat., 124°58.66′ W. long.;

(89) 44°08.30′ N. lat., 124°58.50′ W. long.;

(90) 43°57.89′ N. lat., 124°58.13′ W. long.;

(91) 43°50.59′ N. lat., 124°52.80′ W. long.;

(92) 43°50.10′ N. lat., 124°40.27′ W. long.;

(93) 43°39.05′ N. lat., 124°38.56′ W. long.;

(94) 43°28.85′ N. lat., 124°40.00′ W. long.;

(95) 43°20.83′ N. lat., 124°42.84′ W. long.;

(96) 43°20.22′ N. lat., 124°43.05′ W. long.;

(97) 43°13.29′ N. lat., 124°47.00′ W. long.;

(98) 43°13.15′ N. lat., 124°52.61′ W. long.;

(99) 43°04.60′ N. lat., 124°53.01′ W. long.;

(100) 42°57.56′ N. lat., 124°54.10′ W. long.;

(101) 42°53.82′ N. lat., 124°55.76′ W. long.;

(102) 42°53.41′ N. lat., 124°54.35′ W. long.;

(103) 42°49.52′ N. lat., 124°53.16′ W. long.;

(104) 42°47.47′ N. lat., 124°50.24′ W. long.;

(105) 42°47.57′ N. lat., 124°48.13′ W. long.;

(106) 42°46.19′ N. lat., 124°44.52′ W. long.;

(107) 42°41.75′ N. lat., 124°44.69′ W. long.;

(108) 42°40.50′ N. lat., 124°44.02′ W. long.;

(109) 42°38.81′ N. lat., 124°43.09′ W. long.;

(110) 42°31.82′ N. lat., 124°46.24′ W. long.;

(111) 42°31.96′ N. lat., 124°44.32′ W. long.;

(112) 42°30.95′ N. lat., 124°44.50′ W. long.;

(113) 42°28.39′ N. lat., 124°49.56′ W. long.;

(114) 42°23.34′ N. lat., 124°44.91′ W. long.;

(115) 42°19.72′ N. lat., 124°41.60′ W. long.;

(116) 42°15.12′ N. lat., 124°38.34′ W. long.;

(117) 42°13.67′ N. lat., 124°38.22′ W. long.;

(118) 42°12.35′ N. lat., 124°38.09′ W. long.;

(119) 42°04.35′ N. lat., 124°37.23′ W. long.;

(120) 42°00.00′ N. lat., 124°36.80′ W. long.;

(121) 41°47.84′ N. lat., 124°30.48′ W. long.;

(122) 41°43.33′ N. lat., 124°29.96′ W. long.;

(123) 41°23.46′ N. lat., 124°30.36′ W. long.;

(124) 41°21.29′ N. lat., 124°29.43′ W. long.;

(125) 41°13.52′ N. lat., 124°24.48′ W. long.;

(126) 41°06.71′ N. lat., 124°23.37′ W. long.;

(127) 40°54.66′ N. lat., 124°28.20′ W. long.;

(128) 40°51.52′ N. lat., 124°27.47′ W. long.;

(129) 40°40.62′ N. lat., 124°32.75′ W. long.;

(130) 40°36.08′ N. lat., 124°40.18′ W. long.;

(131) 40°32.90′ N. lat., 124°41.90′ W. long.;

(132) 40°31.30′ N. lat., 124°41.00′ W. long.;

(133) 40°30.00′ N. lat., 124°38.15′ W. long.;

(134) 40°27.29′ N. lat., 124°37.34′ W. long.;

(135) 40°24.98′ N. lat., 124°36.44′ W. long.;

(136) 40°22.22′ N. lat., 124°31.85′ W. long.;

(137) 40°16.94′ N. lat., 124°32.00′ W. long.;

(138) 40°17.58′ N. lat., 124°45.30′ W. long.;

(139) 40°13.24′ N. lat., 124°32.43′ W. long.;

(140) 40°10.00′ N. lat., 124°24.64′ W. long.;

(141) 40°06.43′ N. lat., 124°19.26′ W. long.;

(142) 40°07.06′ N. lat., 124°17.82′ W. long.;

(143) 40°04.70′ N. lat., 124°18.17′ W. long.;

(144) 40°02.34′ N. lat., 124°16.64′ W. long.;

(145) 40°01.52′ N. lat., 124°09.89′ W. long.;

(146) 39°58.27′ N. lat., 124°13.58′ W. long.;

(147) 39°56.59′ N. lat., 124°12.09′ W. long.;

(148) 39°55.19′ N. lat., 124°08.03′ W. long.;

(149) 39°52.54′ N. lat., 124°09.47′ W. long.;

(150) 39°42.67′ N. lat., 124°02.59′ W. long.;

(151) 39°35.95′ N. lat., 123°59.56′ W. long.;

(152) 39°34.61′ N. lat., 123°59.66′ W. long.;

(153) 39°33.77′ N. lat., 123°56.89′ W. long.;

(154) 39°33.01′ N. lat., 123°57.14′ W. long.;

(155) 39°32.20′ N. lat., 123°59.20′ W. long.;

(156) 39°07.84′ N. lat., 123°59.14′ W. long.;

(157) 39°01.11′ N. lat., 123°57.97′ W. long.;

(158) 39°00.51′ N. lat., 123°56.96′ W. long.;

(159) 38°57.50′ N. lat., 123°57.57′ W. long.;

(160) 38°56.57′ N. lat., 123°57.80′ W. long.;

(161) 38°56.39′ N. lat., 123°59.48′ W. long.;

(162) 38°50.22′ N. lat., 123°55.55′ W. long.;

(163) 38°46.76′ N. lat., 123°51.56′ W. long.;

(164) 38°45.27′ N. lat., 123°51.63′ W. long.;

(165) 38°42.76′ N. lat., 123°49.83′ W. long.;

(166) 38°41.53′ N. lat., 123°47.83′ W. long.;

(167) 38°40.97′ N. lat., 123°48.14′ W. long.;

(168) 38°38.02′ N. lat., 123°45.85′ W. long.;

(169) 38°37.19′ N. lat., 123°44.08′ W. long.;

(170) 38°33.43′ N. lat., 123°41.82′ W. long.;

(171) 38°29.44′ N. lat., 123°38.49′ W. long.;

(172) 38°28.08′ N. lat., 123°38.33′ W. long.;

(173) 38°23.68′ N. lat., 123°35.47′ W. long.;

(174) 38°19.63′ N. lat., 123°34.05′ W. long.;

(175) 38°16.23′ N. lat., 123°31.90′ W. long.;

(176) 38°14.79′ N. lat., 123°29.98′ W. long.;

(177) 38°14.12′ N. lat., 123°26.36′ W. long.;

(178) 38°10.85′ N. lat., 123°25.84′ W. long.;

(179) 38°13.15′ N. lat., 123°28.25′ W. long.;

(180) 38°12.28′ N. lat., 123°29.88′ W. long.;

(181) 38°10.19′ N. lat., 123°29.11′ W. long.;

(182) 38°07.94′ N. lat., 123°28.52′ W. long.;

(183) 38°06.51′ N. lat., 123°30.96′ W. long.;

(184) 38°04.21′ N. lat., 123°32.03′ W. long.;

(185) 38°02.07′ N. lat., 123°31.37′ W. long.;

(186) 38°00.00′ N. lat., 123°29.62′ W. long.;

(187) 37°58.13′ N. lat., 123°27.28′ W. long.;

(188) 37°55.01′ N. lat., 123°27.53′ W. long.;

(189) 37°51.40′ N. lat., 123°25.25′ W. long.;

(190) 37°43.97′ N. lat., 123°11.56′ W. long.;

(191) 37°35.67′ N. lat., 123°02.32′ W. long.;

(192) 37°13.65′ N. lat., 122°54.25′ W. long.;

(193) 37°11.00′ N. lat., 122°50.97′ W. long.;

(194) 37°07.00′ N. lat., 122°45.90′ W. long.;

(195) 37°00.66′ N. lat., 122°37.91′ W. long.;

(196) 36°57.40′ N. lat., 122°28.32′ W. long.;

(197) 36°59.25′ N. lat., 122°25.61′ W. long.;

(198) 36°56.88′ N. lat., 122°25.49′ W. long.;

(199) 36°57.40′ N. lat., 122°22.69′ W. long.;

(200) 36°55.43′ N. lat., 122°22.49′ W. long.;

(201) 36°52.29′ N. lat., 122°13.25′ W. long.;

(202) 36°47.12′ N. lat., 122°07.62′ W. long.;

(203) 36°47.10′ N. lat., 122°02.17′ W. long.;

(204) 36°43.76′ N. lat., 121°59.17′ W. long.;

(205) 36°38.85′ N. lat., 122°02.26′ W. long.;

(206) 36°23.41′ N. lat., 122°00.17′ W. long.;

(207) 36°19.68′ N. lat., 122°06.99′ W. long.;

(208) 36°14.75′ N. lat., 122°01.57′ W. long.;

(209) 36°09.74′ N. lat., 121°45.06′ W. long.;

(210) 36°06.75′ N. lat., 121°40.79′ W. long.;

(211) 36°00.00′ N. lat., 121°35.98′ W. long.;

(212) 35°58.18′ N. lat., 121°34.69′ W. long.;

(213) 35°52.31′ N. lat., 121°32.51′ W. long.;

(214) 35°51.21′ N. lat., 121°30.97′ W. long.;

(215) 35°46.32′ N. lat., 121°30.36′ W. long.;

(216) 35°33.74′ N. lat., 121°20.16′ W. long.;

(217) 35°31.37′ N. lat., 121°15.29′ W. long.;

(218) 35°23.32′ N. lat., 121°11.50′ W. long.;

(219) 35°15.28′ N. lat., 121°04.51′ W. long.;

(220) 35°07.08′ N. lat., 121°00.36′ W. long.;

(221) 34°57.46′ N. lat., 120°58.29′ W. long.;

(222) 34°44.25′ N. lat., 120°58.35′ W. long.;

(223) 34°32.30′ N. lat., 120°50.28′ W. long.;

(224) 34°27.00′ N. lat., 120°42.61′ W. long.;

(225) 34°19.08′ N. lat., 120°31.27′ W. long.;

(226) 34°17.72′ N. lat., 120°19.32′ W. long.;

(227) 34°22.45′ N. lat., 120°12.87′ W. long.;

(228) 34°21.36′ N. lat., 119°54.94′ W. long.;

(229) 34°09.95′ N. lat., 119°46.24′ W. long.;

(230) 34°09.08′ N. lat., 119°57.59′ W. long.;

(231) 34°07.53′ N. lat., 120°06.41′ W. long.;

(232) 34°10.54′ N. lat., 120°19.13′ W. long.;

(233) 34°14.68′ N. lat., 120°29.54′ W. long.;

(234) 34°09.51′ N. lat., 120°38.38′ W. long.;

(235) 34°03.06′ N. lat., 120°35.60′ W. long.;

(236) 33°56.39′ N. lat., 120°28.53′ W. long.;

(237) 33°50.25′ N. lat., 120°09.49′ W. long.;

(238) 33°37.96′ N. lat., 120°00.14′ W. long.;

(239) 33°34.52′ N. lat., 119°51.90′ W. long.;

(240) 33°35.51′ N. lat., 119°48.55′ W. long.;

(241) 33°42.76′ N. lat., 119°47.83′ W. long.;

(242) 33°53.62′ N. lat., 119°53.34′ W. long.;

(243) 33°57.61′ N. lat., 119°31.32′ W. long.;

(244) 33°56.34′ N. lat., 119°26.46′ W. long.;

(245) 33°57.79′ N. lat., 119°26.91′ W. long.;

(246) 33°58.88′ N. lat., 119°20.12′ W. long.;

(247) 34°02.65′ N. lat., 119°15.17′ W. long.;

(248) 33°59.02′ N. lat., 119°03.05′ W. long.;

(249) 33°57.61′ N. lat., 118°42.13′ W. long.;

(250) 33°50.76′ N. lat., 118°38.03′ W. long.;

(251) 33°39.41′ N. lat., 118°18.74′ W. long.;

(252) 33°35.51′ N. lat., 118°18.08′ W. long.;

(253) 33°30.68′ N. lat., 118°10.40′ W. long.;

(254) 33°32.49′ N. lat., 117°51.90′ W. long.;

(255) 32°58.87′ N. lat., 117°20.41′ W. long.; and

(256) 32°35.53′ N. lat., 117°29.72′ W. long.

* * * * *

(l) * * *

(1) 48°14.75′ N. lat., 125°41.73′ W. long.;

(2) 48°12.85′ N. lat., 125°38.06′ W. long.;

(3) 48°10.00′ N. lat., 125°41.82′ W. long.;

(4) 48°07.10′ N. lat., 125°45.65′ W. long.;

(5) 48°05.71′ N. lat., 125°44.69′ W. long.;

(6) 48°04.07′ N. lat., 125°36.96′ W. long.;

(7) 48°03.05′ N. lat., 125°36.38′ W. long.;

(8) 48°01.98′ N. lat., 125°37.41′ W. long.;

(9) 48°01.46′ N. lat., 125°39.61′ W. long.;

(10) 47°56.94′ N. lat., 125°36.65′ W. long.;

(11) 47°55.77′ N. lat., 125°30.13′ W. long.;

(12) 47°55.65′ N. lat., 125°28.46′ W. long.;

(13) 47°58.11′ N. lat., 125°26.60′ W. long.;

(14) 48°00.40′ N. lat., 125°24.83′ W. long.;

(15) 48°02.04′ N. lat., 125°22.90′ W. long.;

(16) 48°03.60′ N. lat., 125°21.84′ W. long.;

(17) 48°03.98′ N. lat., 125°20.65′ W. long.;

(18) 48°03.26′ N. lat., 125°19.76′ W. long.;

(19) 48°01.50′ N. lat., 125°18.80′ W. long.;

(20) 48°01.03′ N. lat., 125°20.12′ W. long.;

(21) 48°00.04′ N. lat., 125°20.26′ W. long.;

(22) 47°58.10′ N. lat., 125°18.91′ W. long.;

(23) 47°58.17′ N. lat., 125°17.50′ W. long.;

(24) 47°52.33′ N. lat., 125°15.78′ W. long.;

(25) 47°49.20′ N. lat., 125°10.67′ W. long.;

(26) 47°48.27′ N. lat., 125°07.38′ W. long.;

(27) 47°47.24′ N. lat., 125°05.38′ W. long.;

(28) 47°45.95′ N. lat., 125°04.61′ W. long.;

(29) 47°44.58′ N. lat., 125°07.12′ W. long.;

(30) 47°42.24′ N. lat., 125°05.15′ W. long.;

(31) 47°38.54′ N. lat., 125°06.76′ W. long.;

(32) 47°35.03′ N. lat., 125°04.28′ W. long.;

(33) 47°28.82′ N. lat., 124°56.24′ W. long.;

(34) 47°29.15′ N. lat., 124°54.10′ W. long.;

(35) 47°28.43′ N. lat., 124°51.58′ W. long.;

(36) 47°24.13′ N. lat., 124°47.50′ W. long.;

(37) 47°18.31′ N. lat., 124°46.17′ W. long.;

(38) 47°19.57′ N. lat., 124°51.00′ W. long.;

(39) 47°18.12′ N. lat., 124°53.66′ W. long.;

(40) 47°17.60′ N. lat., 124°52.94′ W. long.;

(41) 47°17.71′ N. lat., 124°51.63′ W. long.;

(42) 47°16.90′ N. lat., 124°51.23′ W. long.;

(43) 47°16.10′ N. lat., 124°53.67′ W. long.;

(44) 47°14.24′ N. lat., 124°53.02′ W. long.;

(45) 47°12.16′ N. lat., 124°56.77′ W. long.;

(46) 47°13.35′ N. lat., 124°58.70′ W. long.;

(47) 47°09.53′ N. lat., 124°58.32′ W. long.;

(48) 47°09.54′ N. lat., 124°59.50′ W. long.;

(49) 47°05.87′ N. lat., 124°59.30′ W. long.;

(50) 47°03.65′ N. lat., 124°56.26′ W. long.;

(51) 47°00.87′ N. lat., 124°59.52′ W. long.;

(52) 46°56.80′ N. lat., 125°00.00′ W. long.;

(53) 46°51.55′ N. lat., 125°00.00′ W. long.;

(54) 46°50.07′ N. lat., 124°53.90′ W. long.;

(55) 46°44.88′ N. lat., 124°51.97′ W. long.;

(56) 46°38.17′ N. lat., 124°42.66′ W. long.;

(57) 46°33.45′ N. lat., 124°36.11′ W. long.;

(58) 46°33.20′ N. lat., 124°30.64′ W. long.;

(59) 46°27.85′ N. lat., 124°31.95′ W. long.;

(60) 46°18.27′ N. lat., 124°39.28′ W. long.;

(61) 46°16.00′ N. lat., 124°24.88′ W. long.;

(62) 46°14.22′ N. lat., 124°26.28′ W. long.;

(63) 46°11.53′ N. lat., 124°39.58′ W. long.;

(64) 46°08.77′ N. lat., 124°41.71′ W. long.;

(65) 46°05.86′ N. lat., 124°42.27′ W. long.;

(66) 46°03.85′ N. lat., 124°48.20′ W. long.;

(67) 46°02.34′ N. lat., 124°48.51′ W. long.;

(68) 45°58.99′ N. lat., 124°44.42′ W. long.;

(69) 45°49.68′ N. lat., 124°42.37′ W. long.;

(70) 45°49.74′ N. lat., 124°43.69′ W. long.;

(71) 45°46.00′ N. lat., 124°41.82′ W. long.;

(72) 45°40.83′ N. lat., 124°40.90′ W. long.;

(73) 45°34.88′ N. lat., 124°32.58′ W. long.;

(74) 45°20.25′ N. lat., 124°25.47′ W. long.;

(75) 45°13.04′ N. lat., 124°21.92′ W. long.;

(76) 45°03.83′ N. lat., 124°27.13′ W. long.;

(77) 45°00.17′ N. lat., 124°29.28′ W. long.;

(78) 44°50.99′ N. lat., 124°35.40′ W. long.;

(79) 44°46.87′ N. lat., 124°38.20′ W. long.;

(80) 44°48.25′ N. lat., 124°40.62′ W. long.;

(81) 44°41.34′ N. lat., 124°49.20′ W. long.;

(82) 44°23.30′ N. lat., 124°50.17′ W. long.;

(83) 44°13.19′ N. lat., 124°58.66′ W. long.;

(84) 44°08.30′ N. lat., 124°58.72′ W. long.;

(85) 43°57.37′ N. lat., 124°58.71′ W. long.;

(86) 43°52.32′ N. lat., 124°49.43′ W. long.;

(87) 43°51.35′ N. lat., 124°37.94′ W. long.;

(88) 43°49.73′ N. lat., 124°40.26′ W. long.;

(89) 43°39.06′ N. lat., 124°38.55′ W. long.;

(90) 43°28.85′ N. lat., 124°39.99′ W. long.;

(91) 43°20.83′ N. lat., 124°42.89′ W. long.;

(92) 43°20.22′ N. lat., 124°43.05′ W. long.;

(93) 43°13.29′ N. lat., 124°47.00′ W. long.;

(94) 43°10.64′ N. lat., 124°49.95′ W. long.;

(95) 43°04.26′ N. lat., 124°53.05′ W. long.;

(96) 42°53.93′ N. lat., 124°54.60′ W. long.;

(97) 42°50.00′ N. lat., 124°50.60′ W. long.;

(98) 42°47.57′ N. lat., 124°48.12′ W. long.;

(99) 42°46.19′ N. lat., 124°44.52′ W. long.;

(100) 42°41.75′ N. lat., 124°44.69′ W. long.;

(101) 42°40.50′ N. lat., 124°44.02′ W. long.;

(102) 42°38.81′ N. lat., 124°43.09′ W. long.;

(103) 42°31.83′ N. lat., 124°46.23′ W. long.;

(104) 42°32.08′ N. lat., 124°43.58′ W. long.;

(105) 42°30.96′ N. lat., 124°43.84′ W. long.;

(106) 42°28.41′ N. lat., 124°49.17′ W. long.;

(107) 42°24.80′ N. lat., 124°45.93′ W. long.;

(108) 42°19.71′ N. lat., 124°41.60′ W. long.;

(109) 42°15.12′ N. lat., 124°38.34′ W. long.;

(110) 42°13.67′ N. lat., 124°38.28′ W. long.;

(111) 42°12.35′ N. lat., 124°38.09′ W. long.;

(112) 42°00.00′ N. lat., 124°36.83′ W. long.;

(113) 41°47.78′ N. lat., 124°29.55′ W. long.;

(114) 41°21.15′ N. lat., 124°29.04′ W. long.;

(115) 41°13.50′ N. lat., 124°24.40′ W. long.;

(116) 41°11.00′ N. lat., 124°22.99′ W. long.;

(117) 41°06.69′ N. lat., 124°23.30′ W. long.;

(118) 40°54.73′ N. lat., 124°28.15′ W. long.;

(119) 40°53.94′ N. lat., 124°26.11′ W. long.;

(120) 40°50.31′ N. lat., 124°26.15′ W. long.;

(121) 40°44.49′ N. lat., 124°30.89′ W. long.;

(122) 40°40.62′ N. lat., 124°32.16′ W. long.;

(123) 40°38.87′ N. lat., 124°30.15′ W. long.;

(124) 40°35.67′ N. lat., 124°30.43′ W. long.;

(125) 40°37.41′ N. lat., 124°37.06′ W. long.;

(126) 40°36.09′ N. lat., 124°40.11′ W. long.;

(127) 40°31.33′ N. lat., 124°41.01′ W. long.;

(128) 40°30.00′ N. lat., 124°38.15′ W. long.;

(129) 40°27.34′ N. lat., 124°37.28′ W. long.;

(130) 40°25.01′ N. lat., 124°36.36′ W. long.;

(131) 40°22.28′ N. lat., 124°31.35′ W. long.;

(132) 40°16.29′ N. lat., 124°34.50′ W. long.;

(133) 40°14.00′ N. lat., 124°33.02′ W. long.;

(134) 40°10.00′ N. lat., 124°24.55′ W. long.;

(135) 40°06.45′ N. lat., 124°19.24′ W. long.;

(136) 40°07.08′ N. lat., 124°17.80′ W. long.;

(137) 40°05.55′ N. lat., 124°18.11′ W. long.;

(138) 40°04.74′ N. lat., 124°18.11′ W. long.;

(139) 40°02.35′ N. lat., 124°16.54′ W. long.;

(140) 40°01.51′ N. lat., 124°09.89′ W. long.;

(141) 39°58.54′ N. lat., 124°12.43′ W. long.;

(142) 39°55.72′ N. lat., 124°09.86′ W. long.;

(143) 39°42.64′ N. lat., 124°02.52′ W. long.;

(144) 39°35.96′ N. lat., 123°59.47′ W. long.;

(145) 39°34.61′ N. lat., 123°59.59′ W. long.;

(146) 39°33.79′ N. lat., 123°56.77′ W. long.;

(147) 39°33.03′ N. lat., 123°57.06′ W. long.;

(148) 39°32.21′ N. lat., 123°59.12′ W. long.;

(149) 39°07.81′ N. lat., 123°59.06′ W. long.;

(150) 38°57.50′ N. lat., 123°57.32′ W. long.;

(151) 38°52.26′ N. lat., 123°56.18′ W. long.;

(152) 38°50.21′ N. lat., 123°55.48′ W. long.;

(153) 38°46.81′ N. lat., 123°51.49′ W. long.;

(154) 38°45.29′ N. lat., 123°51.55′ W. long.;

(155) 38°42.76′ N. lat., 123°49.73′ W. long.;

(156) 38°41.42′ N. lat., 123°47.45′ W. long.;

(157) 38°35.74′ N. lat., 123°43.82′ W. long.;

(158) 38°34.92′ N. lat., 123°42.53′ W. long.;

(159) 38°19.65′ N. lat., 123°31.95′ W. long.;

(160) 38°14.38′ N. lat., 123°25.51′ W. long.;

(161) 38°09.39′ N. lat., 123°24.40′ W. long.;

(162) 38°10.06′ N. lat., 123°26.84′ W. long.;

(163) 38°04.58′ N. lat., 123°31.91′ W. long.;

(164) 38°02.06′ N. lat., 123°31.26′ W. long.;

(165) 38°00.00′ N. lat., 123°29.56′ W. long.;

(166) 37°58.07′ N. lat., 123°27.21′ W. long.;

(167) 37°55.07′ N. lat., 123°27.20′ W. long.;

(168) 37°50.77′ N. lat., 123°24.52′ W. long.;

(169) 37°43.94′ N. lat., 123°11.49′ W. long.;

(170) 37°35.67′ N. lat., 123°02.23′ W. long.;

(171) 37°23.48′ N. lat., 122°57.77′ W. long.;

(172) 37°23.23′ N. lat., 122°53.85′ W. long.;

(173) 37°13.96′ N. lat., 122°49.97′ W. long.;

(174) 37°11.00′ N. lat., 122°45.68′ W. long.;

(175) 37°07.00′ N. lat., 122°43.37′ W. long.;

(176) 37°01.04′ N. lat., 122°37.94′ W. long.;

(177) 36°57.40′ N. lat., 122°28.36′ W. long.;

(178) 36°59.21′ N. lat., 122°25.64′ W. long.;

(179) 36°56.90′ N. lat., 122°25.42′ W. long.;

(180) 36°57.60′ N. lat., 122°21.95′ W. long.;

(181) 36°55.69′ N. lat., 122°22.32′ W. long.;

(182) 36°52.27′ N. lat., 122°13.17′ W. long.;

(183) 36°47.38′ N. lat., 122°07.62′ W. long.;

(184) 36°47.27′ N. lat., 122°03.77′ W. long.;

(185) 36°24.12′ N. lat., 121°59.74′ W. long.;

(186) 36°21.99′ N. lat., 122°01.01′ W. long.;

(187) 36°19.56′ N. lat., 122°05.88′ W. long.;

(188) 36°14.63′ N. lat., 122°01.10′ W. long.;

(189) 36°09.74′ N. lat., 121°45.01′ W. long.;

(190) 36°06.69′ N. lat., 121°40.77′ W. long.;

(191) 36°00.00′ N. lat., 121°36.01′ W. long.;

(192) 35°56.54′ N. lat., 121°33.27′ W. long.;

(193) 35°52.21′ N. lat., 121°32.46′ W. long.;

(194) 35°51.21′ N. lat., 121°30.94′ W. long.;

(195) 35°46.28′ N. lat., 121°30.29′ W. long.;

(196) 35°33.68′ N. lat., 121°20.09′ W. long.;

(197) 35°31.33′ N. lat., 121°15.22′ W. long.;

(198) 35°23.29′ N. lat., 121°11.41′ W. long.;

(199) 35°15.26′ N. lat., 121°04.49′ W. long.;

(200) 35°07.05′ N. lat., 121°00.26′ W. long.;

(201) 35°07.46′ N. lat., 120°57.10′ W. long.;

(202) 34°44.29′ N. lat., 120°54.28′ W. long.;

(203) 34°44.24′ N. lat., 120°57.69′ W. long.;

(204) 34°39.06′ N. lat., 120°55.01′ W. long.;

(205) 34°19.08′ N. lat., 120°31.21′ W. long.;

(206) 34°27.00′ N. lat., 120°42.61′ W. long.;

(207) 34°17.72′ N. lat., 120°19.26′ W. long.;

(208) 34°22.45′ N. lat., 120°12.81′ W. long.;

(209) 34°21.36′ N. lat., 119°54.88′ W. long.;

(210) 34°09.95′ N. lat., 119°46.18′ W. long.;

(211) 34°09.08′ N. lat., 119°57.53′ W. long.;

(212) 34°07.53′ N. lat., 120°06.35′ W. long.;

(213) 34°10.37′ N. lat., 120°18.40′ W. long.;

(214) 34°12.50′ N. lat., 120°18.40′ W. long.;

(215) 34°12.50′ N. lat., 120°24.96′ W. long.;

(216) 34°14.68′ N. lat., 120°29.48′ W. long.;

(217) 34°09.51′ N. lat., 120°38.32′ W. long.;

(218) 34°04.66′ N. lat., 120°36.29′ W. long.;

(219) 34°02.21′ N. lat., 120°36.29′ W. long.;

(220) 34°02.21′ N. lat., 120°34.65′ W. long.;

(221) 33°56.39′ N. lat., 120°28.47′ W. long.;

(222) 33°50.40′ N. lat., 120°10.00′ W. long.;

(223) 33°37.96′ N. lat., 120°00.08′ W. long.;

(224) 33°34.52′ N. lat., 119°51.84′ W. long.;

(225) 33°35.51′ N. lat., 119°48.49′ W. long.;

(226) 33°42.76′ N. lat., 119°47.77′ W. long.;

(227) 33°51.63′ N. lat., 119°53.00′ W. long.;

(228) 33°51.62′ N. lat., 119°48.00′ W. long.;

(229) 33°54.59′ N. lat., 119°48.00′ W. long.;

(230) 33°57.69′ N. lat., 119°31.00′ W. long.;

(231) 33°54.11′ N. lat., 119°31.00′ W. long.;

(232) 33°54.11′ N. lat., 119°26.00′ W. long.;

(233) 33°57.94′ N. lat., 119°26.00′ W. long.;

(234) 33°58.88′ N. lat., 119°20.06′ W. long.;

(235) 34°02.65′ N. lat., 119°15.11′ W. long.;

(236) 33°59.02′ N. lat., 119°02.99′ W. long.;

(237) 33°57.61′ N. lat., 118°42.07′ W. long.;

(238) 33°50.76′ N. lat., 118°37.98′ W. long.;

(239) 33°39.17′ N. lat., 118°18.47′ W. long.;

(240) 33°37.14′ N. lat., 118°18.39′ W. long.;

(241) 33°35.51′ N. lat., 118°18.03′ W. long.;

(242) 33°30.68′ N. lat., 118°10.35′ W. long.;

(243) 33°32.49′ N. lat., 117°51.85′ W. long.;

(244) 32°58.87′ N. lat., 117°20.36′ W. long.; and

(245) 32°35.56′ N. lat., 117°29.66′ W. long.

(m) * * *

(1) 48°14.71′ N. lat., 125°41.95′ W. long.;

(2) 48°13.00′ N. lat., 125°39.00′ W. long.;

(3) 48°10.00′ N. lat., 125°43.00′ W. long.;

(4) 48°08.50′ N. lat., 125°45.00′ W. long.;

(5) 48°06.00′ N. lat., 125°46.50′ W. long.;

(6) 48°03.50′ N. lat., 125°37.00′ W. long.;

(7) 48°01.50′ N. lat., 125°40.00′ W. long.;

(8) 47°57.00′ N. lat., 125°37.00′ W. long.;

(9) 47°55.20′ N. lat., 125°37.26′ W. long.;

(10) 47°54.02′ N. lat., 125°36.60′ W. long.;

(11) 47°53.70′ N. lat., 125°35.09′ W. long.;

(12) 47°54.16′ N. lat., 125°32.38′ W. long.;

(13) 47°55.50′ N. lat., 125°28.50′ W. long.;

(14) 47°58.00′ N. lat., 125°25.00′ W. long.;

(15) 48°00.50′ N. lat., 125°24.50′ W. long.;

(16) 48°03.50′ N. lat., 125°21.00′ W. long.;

(17) 48°02.00′ N. lat., 125°19.50′ W. long.;

(18) 48°00.00′ N. lat., 125°21.00′ W. long.;

(19) 47°58.00′ N. lat., 125°20.00′ W. long.;

(20) 47°58.00′ N. lat., 125°18.00′ W. long.;

(21) 47°52.00′ N. lat., 125°16.50′ W. long.;

(22) 47°46.00′ N. lat., 125°06.00′ W. long.;

(23) 47°44.50′ N. lat., 125°07.50′ W. long.;

(24) 47°42.00′ N. lat., 125°06.00′ W. long.;

(25) 47°37.96′ N. lat., 125°07.17′ W. long.;

(26) 47°28.00′ N. lat., 124°58.50′ W. long.;

(27) 47°28.88′ N. lat., 124°54.70′ W. long.;

(28) 47°27.70′ N. lat., 124°51.87′ W. long.;

(29) 47°24.84′ N. lat., 124°48.45′ W. long.;

(30) 47°21.76′ N. lat., 124°47.42′ W. long.;

(31) 47°18.84′ N. lat., 124°46.75′ W. long.;

(32) 47°19.82′ N. lat., 124°51.43′ W. long.;

(33) 47°18.13′ N. lat., 124°54.25′ W. long.;

(34) 47°13.50′ N. lat., 124°54.70′ W. long.;

(35) 47°15.00′ N. lat., 125°01.10′ W. long.;

(36) 47°08.77′ N. lat., 125°00.91′ W. long.;

(37) 47°05.80′ N. lat., 125°01.00′ W. long.;

(38) 47°03.34′ N. lat., 124°57.50′ W. long.;

(39) 47°01.00′ N. lat., 125°00.00′ W. long.;

(40) 46°55.00′ N. lat., 125°02.00′ W. long.;

(41) 46°53.32′ N. lat., 125°00.00′ W. long.;

(42) 46°51.55′ N. lat., 125°00.00′ W. long.;

(43) 46°50.80′ N. lat., 124°56.90′ W. long.;

(44) 46°47.00′ N. lat., 124°55.00′ W. long.;

(45) 46°38.17′ N. lat., 124°43.45′ W. long.;

(46) 46°34.00′ N. lat., 124°38.00′ W. long.;

(47) 46°30.50′ N. lat., 124°41.00′ W. long.;

(48) 46°33.00′ N. lat., 124°32.00′ W. long.;

(49) 46°29.00′ N. lat., 124°32.00′ W. long.;

(50) 46°20.00′ N. lat., 124°39.00′ W. long.;

(51) 46°18.16′ N. lat., 124°40.00′ W. long.;

(52) 46°16.00′ N. lat., 124°27.00′ W. long.;

(53) 46°16.00′ N. lat., 124°27.01′ W. long.;

(54) 46°15.00′ N. lat., 124°30.96′ W. long.;

(55) 46°13.17′ N. lat., 124°37.87′ W. long.;

(56) 46°13.17′ N. lat., 124°38.75′ W. long.;

(57) 46°10.50′ N. lat., 124°42.00′ W. long.;

(58) 46°06.21′ N. lat., 124°41.85′ W. long.;

(59) 46°03.02′ N. lat., 124°50.27′ W. long.;

(60) 45°57.00′ N. lat., 124°45.52′ W. long.;

(61) 45°46.85′ N. lat., 124°45.91′ W. long.;

(62) 45°46.00′ N. lat., 124°46.84′ W. long.;

(63) 45°45.81′ N. lat., 124°47.05′ W. long.;

(64) 45°44.87′ N. lat., 124°45.98′ W. long.;

(65) 45°43.44′ N. lat., 124°46.03′ W. long.;

(66) 45°35.82′ N. lat., 124°45.72′ W. long.;

(67) 45°35.70′ N. lat., 124°42.89′ W. long.;

(68) 45°24.45′ N. lat., 124°38.21′ W. long.;

(69) 45°11.68′ N. lat., 124°39.38′ W. long.;

(70) 45°03.83′ N. lat., 124°38.03′ W. long.;

(71) 44°57.94′ N. lat., 124°37.02′ W. long.;

(72) 44°44.28′ N. lat., 124°50.79′ W. long.;

(73) 44°32.63′ N. lat., 124°54.21′ W. long.;

(74) 44°23.36′ N. lat., 124°50.53′ W. long.;

(75) 44°13.30′ N. lat., 124°59.03′ W. long.;

(76) 43°57.85′ N. lat., 124°58.57′ W. long.;

(77) 43°50.12′ N. lat., 124°53.36′ W. long.;

(78) 43°49.53′ N. lat., 124°43.96′ W. long.;

(79) 43°42.76′ N. lat., 124°41.40′ W. long.;

(80) 43°24.00′ N. lat., 124°42.61′ W. long.;

(81) 43°20.83′ N. lat., 124°44.48′ W. long.;

(82) 43°19.74′ N. lat., 124°45.12′ W. long.;

(83) 43°19.62′ N. lat., 124°52.95′ W. long.;

(84) 43°17.41′ N. lat., 124°53.02′ W. long.;

(85) 42°56.41′ N. lat., 124°54.59′ W. long.;

(86) 42°53.82′ N. lat., 124°55.76′ W. long.;

(87) 42°53.54′ N. lat., 124°54.88′ W. long.;

(88) 42°50.00′ N. lat., 124°55.12′ W. long.;

(89) 42°49.26′ N. lat., 124°55.17′ W. long.;

(90) 42°46.74′ N. lat., 124°53.39′ W. long.;

(91) 42°43.76′ N. lat., 124°51.64′ W. long.;

(92) 42°45.41′ N. lat., 124°49.35′ W. long.;

(93) 42°43.92′ N. lat., 124°45.92′ W. long.;

(94) 42°40.50′ N. lat., 124°44.30′ W. long.;

(95) 42°38.84′ N. lat., 124°43.51′ W. long.;

(96) 42°34.78′ N. lat., 124°46.56′ W. long.;

(97) 42°31.47′ N. lat., 124°46.89′ W. long.;

(98) 42°31.59′ N. lat., 124°44.85′ W. long.;

(99) 42°31.12′ N. lat., 124°44.82′ W. long.;

(100) 42°28.48′ N. lat., 124°49.96′ W. long.;

(101) 42°26.28′ N. lat., 124°47.99′ W. long.;

(102) 42°19.58′ N. lat., 124°43.21′ W. long.;

(103) 42°13.75′ N. lat., 124°40.06′ W. long.;

(104) 42°05.12′ N. lat., 124°39.06′ W. long.;

(105) 42°00.00′ N. lat., 124°37.76′ W. long.;

(106) 41°47.93′ N. lat., 124°31.79′ W. long.;

(107) 41°21.35′ N. lat., 124°30.35′ W. long.;

(108) 41°07.11′ N. lat., 124°25.25′ W. long.;

(109) 40°57.37′ N. lat., 124°30.25′ W. long.;

(110) 40°48.77′ N. lat., 124°30.69′ W. long.;

(111) 40°41.03′ N. lat., 124°33.21′ W. long.;

(112) 40°37.40′ N. lat., 124°38.96′ W. long.;

(113) 40°33.70′ N. lat., 124°42.50′ W. long.;

(114) 40°31.31′ N. lat., 124°41.59′ W. long.;

(115) 40°30.00′ N. lat., 124°40.50′ W. long.;

(116) 40°25.00′ N. lat., 124°36.65′ W. long.;

(117) 40°22.42′ N. lat., 124°32.19′ W. long.;

(118) 40°17.17′ N. lat., 124°32.21′ W. long.;

(119) 40°18.68′ N. lat., 124°50.44′ W. long.;

(120) 40°13.55′ N. lat., 124°34.26′ W. long.;

(121) 40°10.00′ N. lat., 124°28.25′ W. long.;

(122) 40°06.72′ N. lat., 124°21.40′ W. long.;

(123) 40°01.63′ N. lat., 124°17.25′ W. long.;

(124) 40°00.68′ N. lat., 124°11.19′ W. long.;

(125) 39°59.09′ N. lat., 124°14.92′ W. long.;

(126) 39°56.44′ N. lat., 124°12.52′ W. long.;

(127) 39°54.98′ N. lat., 124°08.71′ W. long.;

(128) 39°52.60′ N. lat., 124°10.01′ W. long.;

(129) 39°37.37′ N. lat., 124°00.58′ W. long.;

(130) 39°32.41′ N. lat., 124°00.01′ W. long.;

(131) 39°05.40′ N. lat., 124°00.52′ W. long.;

(132) 39°04.32′ N. lat., 123°59.00′ W. long.;

(133) 38°58.02′ N. lat., 123°58.18′ W. long.;

(134) 38°57.50′ N. lat., 124°01.90′ W. long.;

(135) 38°50.27′ N. lat., 123°56.26′ W. long.;

(136) 38°46.73′ N. lat., 123°51.93′ W. long.;

(137) 38°44.64′ N. lat., 123°51.77′ W. long.;

(138) 38°32.97′ N. lat., 123°41.84′ W. long.;

(139) 38°14.56′ N. lat., 123°32.18′ W. long.;

(140) 38°13.85′ N. lat., 123°29.94′ W. long.;

(141) 38°11.88′ N. lat., 123°30.57′ W. long.;

(142) 38°08.72′ N. lat., 123°29.56′ W. long.;

(143) 38°05.62′ N. lat., 123°32.38′ W. long.;

(144) 38°01.90′ N. lat., 123°32.00′ W. long.;

(145) 38°00.00′ N. lat., 123°30.00′ W. long.;

(146) 37°58.07′ N. lat., 123°27.35′ W. long.;

(147) 37°54.97′ N. lat., 123°27.69′ W. long.;

(148) 37°51.32′ N. lat., 123°25.40′ W. long.;

(149) 37°43.82′ N. lat., 123°11.69′ W. long.;

(150) 37°35.67′ N. lat., 123°02.62′ W. long.;

(151) 37°11.00′ N. lat., 122°54.50′ W. long.;

(152) 37°07.00′ N. lat., 122°48.59′ W. long.;

(153) 36°59.99′ N. lat., 122°38.49′ W. long.;

(154) 36°56.64′ N. lat., 122°28.78′ W. long.;

(155) 36°58.93′ N. lat., 122°25.67′ W. long.;

(156) 36°56.19′ N. lat., 122°25.67′ W. long.;

(157) 36°57.09′ N. lat., 122°22.85′ W. long.;

(158) 36°54.95′ N. lat., 122°22.63′ W. long.;

(159) 36°52.25′ N. lat., 122°13.94′ W. long.;

(160) 36°46.94′ N. lat., 122°07.90′ W. long.;

(161) 36°46.86′ N. lat., 122°02.24′ W. long.;

(162) 36°43.73′ N. lat., 121°59.33′ W. long.;

(163) 36°38.93′ N. lat., 122°02.46′ W. long.;

(164) 36°30.77′ N. lat., 122°01.40′ W. long.;

(165) 36°23.78′ N. lat., 122°00.52′ W. long.;

(166) 36°19.98′ N. lat., 122°07.63′ W. long.;

(167) 36°15.36′ N. lat., 122°03.50′ W. long.;

(168) 36°09.47′ N. lat., 121°45.37′ W. long.;

(169) 36°06.42′ N. lat., 121°41.34′ W. long.;

(170) 36°00.00′ N. lat., 121°37.68′ W. long.;

(171) 35°52.25′ N. lat., 121°33.21′ W. long.;

(172) 35°51.09′ N. lat., 121°31.83′ W. long.;

(173) 35°46.47′ N. lat., 121°31.19′ W. long.;

(174) 35°33.97′ N. lat., 121°21.69′ W. long.;

(175) 35°30.94′ N. lat., 121°18.36′ W. long.;

(176) 35°23.08′ N. lat., 121°15.56′ W. long.;

(177) 35°13.67′ N. lat., 121°05.79′ W. long.;

(178) 35°06.77′ N. lat., 121°02.45′ W. long.;

(179) 34°53.32′ N. lat., 121°01.46′ W. long.;

(180) 34°49.36′ N. lat., 121°03.04′ W. long.;

(181) 34°44.12′ N. lat., 121°01.28′ W. long.;

(182) 34°32.38′ N. lat., 120°51.78′ W. long.;

(183) 34°27.00′ N. lat., 120°44.25′ W. long.;

(184) 34°17.93′ N. lat., 120°35.43′ W. long.;

(185) 34°16.02′ N. lat., 120°28.70′ W. long.;

(186) 34°09.84′ N. lat., 120°38.85′ W. long.;

(187) 34°03.22′ N. lat., 120°36.12′ W. long.;

(188) 33°55.98′ N. lat., 120°28.81′ W. long.;

(189) 33°49.88′ N. lat., 120°10.07′ W. long.;

(190) 33°37.75′ N. lat., 120°00.35′ W. long.;

(191) 33°33.91′ N. lat., 119°51.74′ W. long.;

(192) 33°35.07′ N. lat., 119°48.14′ W. long.;

(193) 33°42.60′ N. lat., 119°47.40′ W. long.;

(194) 33°53.25′ N. lat., 119°52.58′ W. long.;

(195) 33°57.48′ N. lat., 119°31.27′ W. long.;

(196) 33°55.47′ N. lat., 119°24.96′ W. long.;

(197) 33°57.60′ N. lat., 119°26.68′ W. long.;

(198) 33°58.68′ N. lat., 119°20.13′ W. long.;

(199) 34°02.02′ N. lat., 119°14.62′ W. long.;

(200) 33°58.73′ N. lat., 119°03.21′ W. long.;

(201) 33°57.33′ N. lat., 118°43.08′ W. long.;

(202) 33°50.71′ N. lat., 118°38.33′ W. long.;

(203) 33°39.27′ N. lat., 118°18.76′ W. long.;

(204) 33°35.16′ N. lat., 118°18.33′ W. long.;

(205) 33°28.82′ N. lat., 118°08.73′ W. long.;

(206) 33°31.44′ N. lat., 117°51.34′ W. long.;

(207) 32°58.76′ N. lat., 117°20.85′ W. long.; and

(208) 32°35.61′ N. lat., 117°30.15′ W. long.

* * * * *

(r) * * *

(1) 48°14.71′ N. lat., 125°41.95′ W. long.;

(2) 48°13.00′ N. lat., 125°39.00′ W. long.;

(3) 48°10.00′ N. lat., 125°43.00′ W. long.;

(4) 48°08.50′ N. lat., 125°45.00′ W. long.;

(5) 48°06.00′ N. lat., 125°46.50′ W. long.;

(6) 48°03.50′ N. lat., 125°37.00′ W. long.;

(7) 48°01.50′ N. lat., 125°40.00′ W. long.;

(8) 47°57.00′ N. lat., 125°37.00′ W. long.;

(9) 47°55.50′ N. lat., 125°28.50′ W. long.;

(10) 47°58.00′ N. lat., 125°25.00′ W. long.;

(11) 48°00.50′ N. lat., 125°24.50′ W. long.;

(12) 48°03.50′ N. lat., 125°21.00′ W. long.;

(13) 48°02.00′ N. lat., 125°19.50′ W. long.;

(14) 48°00.00′ N. lat., 125°21.00′ W. long.;

(15) 47°58.00′ N. lat., 125°20.00′ W. long.;

(16) 47°58.00′ N. lat., 125°18.00′ W. long.;

(17) 47°52.00′ N. lat., 125°16.50′ W. long.;

(18) 47°46.00′ N. lat., 125°06.00′ W. long.;

(19) 47°44.50′ N. lat., 125°07.50′ W. long.;

(20) 47°42.00′ N. lat., 125°06.00′ W. long.;

(21) 47°37.96′ N. lat., 125°07.17′ W. long.;

(22) 47°28.00′ N. lat., 124°58.50′ W. long.;

(23) 47°28.88′ N. lat., 124°54.70′ W. long.;

(24) 47°27.70′ N. lat., 124°51.87′ W. long.;

(25) 47°24.84′ N. lat., 124°48.45′ W. long.;

(26) 47°21.76′ N. lat., 124°47.42′ W. long.;

(27) 47°18.84′ N. lat., 124°46.75′ W. long.;

(28) 47°19.82′ N. lat., 124°51.43′ W. long.;

(29) 47°18.13′ N. lat., 124°54.25′ W. long.;

(30) 47°13.50′ N. lat., 124°54.70′ W. long.;

(31) 47°15.00′ N. lat., 125°01.10′ W. long.;

(32) 47°08.77′ N. lat., 125°00.91′ W. long.;

(33) 47°05.80′ N. lat., 125°01.00′ W. long.;

(34) 47°03.34′ N. lat., 124°57.49′ W. long.;

(35) 47°01.00′ N. lat., 125°00.00′ W. long.;

(36) 46°55.00′ N. lat., 125°02.00′ W. long.;

(37) 46°53.32′ N. lat., 125°00.00′ W. long.;

(38) 46°51.55′ N. lat., 125°00.00′ W. long.;

(39) 46°50.80′ N. lat., 124°56.90′ W. long.;

(40) 46°47.00′ N. lat., 124°55.00′ W. long.;

(41) 46°38.17′ N. lat., 124°43.45′ W. long.;

(42) 46°34.00′ N. lat., 124°38.00′ W. long.;

(43) 46°30.50′ N. lat., 124°41.00′ W. long.;

(44) 46°33.00′ N. lat., 124°32.00′ W. long.;

(45) 46°29.00′ N. lat., 124°32.00′ W. long.;

(46) 46°20.00′ N. lat., 124°39.00′ W. long.;

(47) 46°18.16′ N. lat., 124°40.00′ W. long.;

(48) 46°16.00′ N. lat., 124°27.00′ W. long.;

(49) 46°15.00′ N. lat., 124°30.96′ W. long.;

(50) 46°13.17′ N. lat., 124°38.76′ W. long.;

(51) 46°10.51′ N. lat., 124°41.99′ W. long.;

(52) 46°06.24′ N. lat., 124°41.81′ W. long.;

(53) 46°03.04′ N. lat., 124°50.26′ W. long.;

(54) 45°56.99′ N. lat., 124°45.45′ W. long.;

(55) 45°49.94′ N. lat., 124°45.75′ W. long.;

(56) 45°49.94′ N. lat., 124°42.33′ W. long.;

(57) 45°46.00′ N. lat., 124°42.19′ W. long.;

(58) 45°45.73′ N. lat., 124°42.18′ W. long.;

(59) 45°45.73′ N. lat., 124°43.82′ W. long.;

(60) 45°41.94′ N. lat., 124°43.61′ W. long.;

(61) 45°41.58′ N. lat., 124°39.86′ W. long.;

(62) 45°38.45′ N. lat., 124°39.94′ W. long.;

(63) 45°35.75′ N. lat., 124°42.91′ W. long.;

(64) 45°24.49′ N. lat., 124°38.20′ W. long.;

(65) 45°14.43′ N. lat., 124°39.05′ W. long.;

(66) 45°14.30′ N. lat., 124°34.19′ W. long.;

(67) 45°08.98′ N. lat., 124°34.26′ W. long.;

(68) 45°09.02′ N. lat., 124°38.81′ W. long.;

(69) 45°03.83′ N. lat., 124°37.95′ W. long.;

(70) 44°57.98′ N. lat., 124°36.98′ W. long.;

(71) 44°56.62′ N. lat., 124°38.32′ W. long.;

(72) 44°50.82′ N. lat., 124°35.52′ W. long.;

(73) 44°46.89′ N. lat., 124°38.32′ W. long.;

(74) 44°50.78′ N. lat., 124°44.24′ W. long.;

(75) 44°44.27′ N. lat., 124°50.78′ W. long.;

(76) 44°32.63′ N. lat., 124°54.24′ W. long.;

(77) 44°23.25′ N. lat., 124°49.78′ W. long.;

(78) 44°13.16′ N. lat., 124°58.81′ W. long.;

(79) 43°57.88′ N. lat., 124°58.25′ W. long.;

(80) 43°56.89′ N. lat., 124°57.33′ W. long.;

(81) 43°53.41′ N. lat., 124°51.95′ W. long.;

(82) 43°51.56′ N. lat., 124°47.38′ W. long.;

(83) 43°51.49′ N. lat., 124°37.77′ W. long.;

(84) 43°48.02′ N. lat., 124°43.31′ W. long.;

(85) 43°42.77′ N. lat., 124°41.39′ W. long.;

(86) 43°24.09′ N. lat., 124°42.57′ W. long.;

(87) 43°20.83′ N. lat., 124°44.45′ W. long.;

(88) 43°19.73′ N. lat., 124°45.09′ W. long.;

(89) 43°15.98′ N. lat., 124°47.76′ W. long.;

(90) 43°04.14′ N. lat., 124°52.55′ W. long.;

(91) 43°04.00′ N. lat., 124°53.88′ W. long.;

(92) 42°54.69′ N. lat., 124°54.54′ W. long.;

(93) 42°50.00′ N. lat., 124°51.91′ W. long.;

(94) 42°45.46′ N. lat., 124°49.37′ W. long.;

(95) 42°43.91′ N. lat., 124°45.90′ W. long.;

(96) 42°40.50′ N. lat., 124°44.19′ W. long.;

(97) 42°38.84′ N. lat., 124°43.36′ W. long.;

(98) 42°34.82′ N. lat., 124°46.56′ W. long.;

(99) 42°31.57′ N. lat., 124°46.86′ W. long.;

(100) 42°30.98′ N. lat., 124°44.27′ W. long.;

(101) 42°29.21′ N. lat., 124°46.93′ W. long.;

(102) 42°28.52′ N. lat., 124°49.40′ W. long.;

(103) 42°26.06′ N. lat., 124°46.61′ W. long.;

(104) 42°21.82′ N. lat., 124°43.76′ W. long.;

(105) 42°17.47′ N. lat., 124°38.89′ W. long.;

(106) 42°13.67′ N. lat., 124°37.51′ W. long.;

(107) 42°13.76′ N. lat., 124°40.03′ W. long.;

(108) 42°05.12′ N. lat., 124°39.06′ W. long.;

(109) 42°02.67′ N. lat., 124°38.41′ W. long.;

(110) 42°02.67′ N. lat., 124°35.95′ W. long.;

(111) 42°00.00′ N. lat., 124°36.83′ W. long.;

(112) 41°47.79′ N. lat., 124°29.48′ W. long.;

(113) 41°21.01′ N. lat., 124°29.01′ W. long.;

(114) 41°13.50′ N. lat., 124°24.40′ W. long.;

(115) 41°11.00′ N. lat., 124°22.99′ W. long.;

(116) 41°06.69′ N. lat., 124°23.30′ W. long.;

(117) 40°54.73′ N. lat., 124°28.15′ W. long.;

(118) 40°53.95′ N. lat., 124°26.04′ W. long.;

(119) 40°50.27′ N. lat., 124°26.20′ W. long.;

(120) 40°44.49′ N. lat., 124°30.81′ W. long.;

(121) 40°40.63′ N. lat., 124°32.14′ W. long.;

(122) 40°38.96′ N. lat., 124°30.04′ W. long.;

(123) 40°35.67′ N. lat., 124°30.43′ W. long.;

(124) 40°37.41′ N. lat., 124°37.06′ W. long.;

(125) 40°36.09′ N. lat., 124°40.11′ W. long.;

(126) 40°31.35′ N. lat., 124°40.98′ W. long.;

(127) 40°30.00′ N. lat., 124°37.48′ W. long.;

(128) 40°27.34′ N. lat., 124°37.28′ W. long.;

(129) 40°25.01′ N. lat., 124°36.36′ W. long.;

(130) 40°22.28′ N. lat., 124°31.83′ W. long.;

(131) 40°13.68′ N. lat., 124°33.10′ W. long.;

(132) 40°10.00′ N. lat., 124°24.55′ W. long.;

(133) 40°06.45′ N. lat., 124°19.24′ W. long.;

(134) 40°07.08′ N. lat., 124°17.80′ W. long.;

(135) 40°05.55′ N. lat., 124°18.11′ W. long.;

(136) 40°04.74′ N. lat., 124°18.11′ W. long.;

(137) 40°02.35′ N. lat., 124°16.53′ W. long.;

(138) 40°01.13′ N. lat., 124°12.98′ W. long.;

(139) 40°01.52′ N. lat., 124°09.83′ W. long.;

(140) 39°58.54′ N. lat., 124°12.43′ W. long.;

(141) 39°55.72′ N. lat., 124°07.44′ W. long.;

(142) 39°42.64′ N. lat., 124°02.52′ W. long.;

(143) 39°35.96′ N. lat., 123°59.47′ W. long.;

(144) 39°34.61′ N. lat., 123°59.58′ W. long.;

(145) 39°33.79′ N. lat., 123°56.77′ W. long.;

(146) 39°33.03′ N. lat., 123°57.06′ W. long.;

(147) 39°32.21′ N. lat., 123°59.12′ W. long.;

(148) 39°07.81′ N. lat., 123°59.06′ W. long.;

(149) 38°57.50′ N. lat., 123°57.25′ W. long.;

(150) 38°52.26′ N. lat., 123°56.18′ W. long.;

(151) 38°50.21′ N. lat., 123°55.48′ W. long.;

(152) 38°46.81′ N. lat., 123°51.49′ W. long.;

(153) 38°45.29′ N. lat., 123°51.55′ W. long.;

(154) 38°42.76′ N. lat., 123°49.73′ W. long.;

(155) 38°41.26′ N. lat., 123°47.28′ W. long.;

(156) 38°35.75′ N. lat., 123°43.76′ W. long.;

(157) 38°34.93′ N. lat., 123°42.46′ W. long.;

(158) 38°19.95′ N. lat., 123°32.90′ W. long.;

(159) 38°14.38′ N. lat., 123°25.51′ W. long.;

(160) 38°09.39′ N. lat., 123°24.39′ W. long.;

(161) 38°10.18′ N. lat., 123°27.11′ W. long.;

(162) 38°04.64′ N. lat., 123°31.97′ W. long.;

(163) 38°02.06′ N. lat., 123°31.26′ W. long.;

(164) 38°00.00′ N. lat., 123°29.64′ W. long.;

(165) 37°58.19′ N. lat., 123°27.40′ W. long.;

(166) 37°50.62′ N. lat., 123°24.51′ W. long.;

(167) 37°43.82′ N. lat., 123°11.69′ W. long.;

(168) 37°35.67′ N. lat., 123°02.62′ W. long.;

(169) 37°23.53′ N. lat., 122°58.65′ W. long.;

(170) 37°23.23′ N. lat., 122°53.78′ W. long.;

(171) 37°13.97′ N. lat., 122°49.91′ W. long.;

(172) 37°11.00′ N. lat., 122°45.61′ W. long.;

(173) 37°07.00′ N. lat., 122°44.76′ W. long.;

(174) 36°59.99′ N. lat., 122°38.49′ W. long.;

(175) 36°56.64′ N. lat., 122°28.78′ W. long.;

(176) 36°58.93′ N. lat., 122°25.67′ W. long.;

(177) 36°56.19′ N. lat., 122°25.67′ W. long.;

(178) 36°57.09′ N. lat., 122°22.85′ W. long.;

(179) 36°54.95′ N. lat., 122°22.63′ W. long.;

(180) 36°52.25′ N. lat., 122°13.94′ W. long.;

(181) 36°46.94′ N. lat., 122°07.90′ W. long.;

(182) 36°47.12′ N. lat., 122°03.99′ W. long.;

(183) 36°23.87′ N. lat., 122°00.00′ W. long.;

(184) 36°22.17′ N. lat., 122°01.19′ W. long.;

(185) 36°19.61′ N. lat., 122°06.29′ W. long.;

(186) 36°14.73′ N. lat., 122°01.55′ W. long.;

(187) 36°09.47′ N. lat., 121°45.37′ W. long.;

(188) 36°06.42′ N. lat., 121°41.34′ W. long.;

(189) 36°00.07′ N. lat., 121°37.68′ W. long.;

(190) 36°00.00′ N. lat., 121°37.66′ W. long.;

(191) 35°52.25′ N. lat., 121°33.21′ W. long.;

(192) 35°51.09′ N. lat., 121°31.83′ W. long.;

(193) 35°46.47′ N. lat., 121°31.19′ W. long.;

(194) 35°33.97′ N. lat., 121°21.69′ W. long.;

(195) 35°30.94′ N. lat., 121°18.36′ W. long.;

(196) 35°23.08′ N. lat., 121°15.56′ W. long.;

(197) 35°13.67′ N. lat., 121°05.79′ W. long.;

(198) 35°06.77′ N. lat., 121°02.45′ W. long.;

(199) 35°07.46′ N. lat., 120°57.10′ W. long.;

(200) 34°44.29′ N. lat., 120°54.28′ W. long.;

(201) 34°44.24′ N. lat., 120°57.62′ W. long.;

(202) 34°41.65′ N. lat., 120°59.54′ W. long.;

(203) 34°27.00′ N. lat., 120°44.25′ W. long.;

(204) 34°17.97′ N. lat., 120°35.54′ W. long.;

(205) 34°16.02′ N. lat., 120°28.70′ W. long.;

(206) 34°09.84′ N. lat., 120°38.85′ W. long.;

(207) 34°02.21′ N. lat., 120°36.23′ W. long.;

(208) 33°55.98′ N. lat., 120°28.81′ W. long.;

(209) 33°49.88′ N. lat., 120°10.07′ W. long.;

(210) 33°37.75′ N. lat., 120°00.35′ W. long.;

(211) 33°33.91′ N. lat., 119°51.74′ W. long.;

(212) 33°35.07′ N. lat., 119°48.14′ W. long.;

(213) 33°42.60′ N. lat., 119°47.40′ W. long.;

(214) 33°51.63′ N. lat., 119°52.35′ W. long.;

(215) 33°51.62′ N. lat., 119°47.94′ W. long.;

(216) 33°54.29′ N. lat., 119°47.94′ W. long.;

(217) 33°57.52′ N. lat., 119°30.94′ W. long.;

(218) 33°54.11′ N. lat., 119°30.94′ W. long.;

(219) 33°54.11′ N. lat., 119°25.94′ W. long.;

(220) 33°57.74′ N. lat., 119°25.94′ W. long.;

(221) 33°58.68′ N. lat., 119°20.13′ W. long.;

(222) 34°02.02′ N. lat., 119°14.62′ W. long.;

(223) 33°58.73′ N. lat., 119°03.21′ W. long.;

(224) 33°57.33′ N. lat., 118°43.08′ W. long.;

(225) 33°50.71′ N. lat., 118°38.33′ W. long.;

(226) 33°39.27′ N. lat., 118°18.76′ W. long.;

(227) 33°35.16′ N. lat., 118°18.33′ W. long.;

(228) 33°28.82′ N. lat., 118°08.73′ W. long.;

(229) 33°31.44′ N. lat., 117°51.34′ W. long.;

(230) 32°58.76′ N. lat., 117°20.85′ W. long.; and

(231) 32°35.61′ N. lat., 117°30.15′ W. long.

20. In part 660, subpart G, Tables 1-5 are revised to read as follows:

BILLING CODE 3510-22-P

BILLING CODE 3510-22-C

a/ ABCs apply only to the U.S. portion of the Vancouver area.

b/ Optimum Yields (OYs) and Harvest Guidelines (HGs) are specified as total catch values. A harvest guideline is a specified harvest target and not a quota. The use of this term may differ from the use of similar terms in state regulation.

c/ Lingcod—A coastwide lingcod stock assessment was prepared in 2005. The lingcod biomass was estimated to be at 64 percent of its unfished biomass coastwide in 2005. The ABC of 5,278 mt was calculated using an FMSY proxy of F45%. Because the stock is above B40% coastwide, the coastwide OY was set equal to the ABC. The tribal harvest guideline is 250 mt.

d/ “Other species”—these species are neither common nor important to the commercial and recreational fisheries in the areas footnoted. Accordingly, these species are included in the harvest guidelines of “other fish”, “other rockfish” or “remaining rockfish”.

e/ Pacific Cod—The 3,200 mt ABC for the Vancouver-Columbia area is based on historical landings data. The 1,600 mt OY is the ABC reduced by 50 percent as a precautionary adjustment. A tribal harvest guideline of 400 mt is deducted from the OY resulting in a commercial OY of 1,200 mt.

f/ Pacific whiting—The most recent stock assessment was prepared in February 2008. The stock assessment base model estimated the Pacific whiting biomass to be at 42.6 percent (50th percentile estimate of depletion) of its unfished biomass in 2008. Final adoption of the Pacific whiting ABC and OY have been deferred until the Council's March 2009 meeting. Therefore, table 1a does not contain an ABC value, but does contain the OY range considered in the DEIS. It is anticipated that an new assessment will be available in early 2009 and the results will be used to set the 2009 ABC and OY. The final ABC and OY will be published is a separate action following the Council's recommendation at its March 2009 meeting.

g/ Sablefish—A coastwide sablefish stock assessment was prepared in 2007. The sablefish biomass was estimated to be at 38.3 percent of its unfished biomass in 2007. The coastwide ABC of 9,914 mt was based on the new stock assessment with a FMSY proxy of F45%. The 40-10 harvest policy was applied to the ABC then apportion between the northern and southern areas with 72 percent going to the area north of 36* N. lat. and 28 percent going to the area south of 36* N. lat. The OY for the area north of 36* N. lat. is 7,052 mt. When establishing the OY for the area south of 36* N. lat. a 50 percent reduction was made resulting in a Conception area OY of 1,371 mt. The Coastwide OY of 8,423 mt is the sum of the northern and southern area OYs. The tribal allocation for the area north of 36* N. lat. is 705 mt (10 percent of the OY north of 36* N. lat.), which is further reduced by 1.6 percent (11 mt) to account for discard mortality. The tribal landed catch value is 694 mt.

h/ Cabezon south of 42* N. lat. was assessed in 2005. The Cabezon stock was estimated to be at 40 percent of its unfished bio mass north of 34* 27′ N. lat. and 28 percent of its unfished biomass south of 34* 27′ N. lat. in 2005. The ABC of 106 mt is based on the 2005 stock assessment with a harvest rate proxy of F45%. The OY of 69 mt is consistent with the application of a 60-20 harvest rate policy specified in the California Nearshore Fishery Management Plan.

i/ Dover sole north of 34* 27′ N. lat. was assessed in 2005. The Dover sole biomass was estimated to be at 59.8 percent of its unfished biomass in 2005 and was projected to be increasing. The ABC of 29,453 mt is based on the results of the 2005 assessment with an FMSY proxy of F40%. Because the stock is above B40% coastwide, the OY could be set equal to the ABC. The OY of 16,500 mt is less than the ABC. The OY is set at the MSY harvest level which is considerably larger than the coastwide catches in any recent years.

j/ A coastwide English sole stock assessment was prepared in 2005 and updated in 2007. The stock was estimated to be at 116 percent of its unfished biomass in 2007. The stock biomass is believed to be declining. The ABC of 14,326 mt is based on the results of the 2007 assessment update with an FMSY proxy of F40%. Because the stock is above B40%, the OY was set equal to the ABC.

k/ A petrale sole stock assessment was prepared for 2005. In 2005 the petrale sole stock was estimated to be at 32 percent of its unfished biomass coastwide (34 percent in the northern assessment area and 29 percent of in the southern assessment area). The ABC of 2,811 mt is based on the 2005 stock assessment with a F40% FMSY proxy. To derive the OY, the 40-10 harvest policy was applied to the ABC for both the northern and southern assessment areas. As a precautionary measure, an additional 25 percent reduction was made in the OY contribution for the southern area due assessment uncertainty. The coastwide OY is 2,433 mt in 2009.

l/ Arrowtooth flounder was assessed in 2007 and was estimated to be at 79 percent of its unfished biomass in 2007. Because the stock is above B40% , the OY is set equal to the ABC.

m/ Starry Flounder was assessed for the first time in 2005 and was estimated to be above 40 percent of its unfished biomass in 2005. However, the stock was projected to decline below 40 percent in both the northern and southern areas after 2008. The starry flounder assessment was considered to be a data-poor assessment relative to other groundfish assessments. For 2009, the coastwide ABC of 1,509 mt is based on the 2005 assessment with a FMSY proxy of F40%. To derive the OY (1,004 mt), the 40-10 harvest policy was applied to the ABC for both the northern and southern assessment areas then an additional 25 percent reduction was made due to assessment uncertainty.

n/ “Other flatfish” are those flatfish species that do not have individual ABC/OYs and include butter sole, curlfin sole, flathead sole, Pacific sand dab, rex sole, rock sole, and sand sole. The other flatfish ABC is based on historical catch levels. The ABC of 6,731 mt is based on the highest landings for sanddabs (1995) and rex sole (1982) for the 1981-2003 period and on the average landings from the 1994-1998 period for the remaining other flatfish species. The OY of 4,884 mt is based on the ABC with a 25 percent precautionary adjustment for sanddabs and rex sole and a 50 percent precautionary adjustment for the remaining species.

o/ A POP stock assessment was prepared in 2005 and was updated in 2007. The stock assessment update estimated the stock to be at 27.5 percent of its unfished biomass in 2007. The ABC of 1,160 mt for the Vancouver and Columbia areas is based on the 2007 stock assessment update with an FMSY proxy of F50%. The OY of 189 mt is based on a rebuilding plan with a target year to rebuild of 2017 and an SPR harvest rate of 86.4 percent. The OY is reduced by 2.0 mt for the amount anticipated to be taken during research activity and 0.14 mt for the amount expected to be taken during EFP fishing.

p/ Shortbelly rockfish remains an unexploited stock and is difficult to assess quantitatively. To understand the potential environmental determinants of fluctuations in the recruitment and abundance of an unexploited rockfish population in the California Current ecosystem, a non-quantitative assessment was conducted in 2007. The results of the assessment indicated the shortbelly stock was healthy with an estimated spawning stock biomass at 67 percent of its unfished biomass in 2005. The ABC and OY are being set at 6,950 mt which is 50 percent of the 2008 ABC and OY values. The stock is expected to remain at its current equilibrium with these harvest specifications.

q/ Widow rockfish was assessed in 2005 and an update was prepared in 2007. The stock assessment update estimated the stock to be at 36.2 percent of its unfished biomass in 2006. The ABC of 7,728 mt is based on the stock assessment update with an F50% FMSY proxy. The OY of 522 mt is based on a rebuilding plan with a target year to rebuild of 2015 and an SPR harvest rate of 95 percent. To derive the commercial harvest guideline of 460.4 mt the OY is reduced by 1.1 mt for the amount anticipated to be taken during research activity, 45.5 mt for the tribal set-aside, 7.2 mt the amount estimated to be taken in the recreational fisheries, 0.4 mt for the amount expected to be taken incidentally in non-groundfish fisheries, and 7.4 mt for the amount projected to be taken during EFP fishing. The following sector specific bycatch limits will be established for the Pacific whiting fishery: 153.0 mt for catcher/processors, 108.0 mt for motherships, and 189.0 mt for shore-based.

r/ Canary rockfish—A canary rockfish stock assessment was completed in 2007 and the stock was estimated to be at 32.7 percent of its unfished biomass coastwide in 2007. The coastwide ABC of 937 mt based on the 2007 rebuilding plan. The OY of 105 mt is based on a rebuilding plan with a target year to rebuild of 2021 and a SPR harvest rate of 88.7 percent. To derive the commercial harvest guideline of 42.3 mt, the OY is reduced by 8.0 mt for the amount anticipated to be taken during research activity, 7.3 mt the tribal set-aside, 43.8 mt the amount estimated to be taken in the recreational fisheries, 0.9 mt for the amount expected to be taken incidentally in non-groundfish fisheries, and 2.7 mt for the amount expected to be taken during EFP fishing. The following harvest guidelines are being specified for catch sharing in 2009: 19.7 mt for limited entry Non-Whiting Trawl, 18.0 mt for limited entry Whiting Trawl, 2.2 mt for limited entry fixed gear, 2.5 mt for directed open access, 4.9 mt for Washington recreational, 16.0 mt for Oregon recreational, and 22.9 mt for California recreational.

s/ Chilipepper rockfish was assessed in 2007 and the stock was estimated to be at 71 percent of its unfished biomass coastwide in 2007. The ABC of 3,037 mt is based on a FMSY proxy of F50%. Because the unfished biomass is estimated to be above 40 percent the unfished biomass, the default OY could be set equal to the ABC. However, the OY of 2,885 mt was the ABC reduced by 5 percent as a precautionary measure for uncertainty in the stock assessment. Open access is allocated 44.3 percent (1,278 mt) of the commercial HG and limited entry is allocated 55.7 percent (1,607 mt) of the commercial HG.

t/ A bocaccio stock assessment and a rebuilding analysis were prepared in 2007. The bocaccio stock was estimated to be at 13.8 percent of its unfished biomass in 2007. The ABC of 793 mt for the Monterey-Conception area is based on the new assessment with an FMSY proxy of F50%. The OY of 288 mt is based on a rebuilding plan with a target year to rebuild of 2026 and a SPR harvest rate of 77.7 percent. To derive the commercial harvest guideline of 206.4 mt, the OY is reduced by 2.0 mt for the amount anticipated to be taken during research activity, 67.3 mt for the amount estimated to be taken in the recreational fisheries, 1.3 mt for the amount expected to be taken incidentally in non-groundfish fisheries, and 11.0 mt for the amount expected to be taken during EFP fishing.

u/ Splitnose rockfish—The ABC is 615 mt in the Monterey-Conception area. The 461 mt OY for the area reflects a 25 percent precautionary adjustment because of the less rigorous stock assessment for this stock. In the north (Vancouver, Columbia and Eureka areas), splitnose is included within the minor slope rockfish OY. Because the harvest assumptions used to forecast future harvest were likely overestimates, carrying the previously used ABCs and OYs forward into 2009 was considered to be conservative and based on the best available data.

v/ Yellowtail rockfish—A yellowtail rockfish stock assessment was prepared in 2005 for the Vancouver, Columbia, Eureka areas. Yellowtail rockfish was estimated to be above 40 percent of its unfished biomass in 2005. The ABC of 4,562 mt is based on the 2005 stock assessment with the FMSY proxy of F50%. The OY of 4,562 mt was set equal to the ABC, because the stock is above the precautionary threshold of B40%.

w/ Shortspine thornyhead was assessed in 2005 and the stock was estimated to be at 63 percent of its unfished biomass in 2005. The ABC of 2,437 mt is based on a F50% FMSY proxy. For that portion of the stock (66 percent of the biomass) north of Point Conception (34°27′ N. lat.), the OY of 1,608 mt was set at equal to the ABC because the stock is estimated to be above the precautionary threshold. For that portion of the stock south of 34°27′ N. lat.(34 percent of the biomass), the OY of 414 mt was the portion of the ABC for the area reduced by 50 percent as a precautionary adjustment due to the short duration and amount of survey data for that area.

x/ Longspine thornyhead was assessed coastwide in 2005 and the stock was estimated to be at 71 percent of its unfished biomass in 2005. The coastwide ABC of 3,766 mt is based on a F50% FMSY proxy. The OY is set equal to the ABC because the stock is above the precautionary threshold. Separate OYs are being established for the areas north and south of 34°27′ N. lat. (Point Conception). The OY of 2,231 mt for that portion of the stock in the northern area (79 percent) the ABC reduced by 25 percent as a precautionary adjustment. For that portion of the stock in the south of 34°27′ N. lat. (21 percent), the OY of 395 mt was the portion of the ABC for the area reduced by 50 percent as a precautionary adjustment due to the short duration and amount of survey data for that area.

y/ Cowcod in the Conception area was assessed in 2007 and the stock was estimated to be between 3.4 to 16.3 percent of its unfished biomass. The ABC for the area south of 36°N. lat., the Conception and Monterey areas, is 13 mt and is based on the 2007 rebuilding analysis in which the Conception area stock assessment projection was doubled to account for both areas. A single OY of 4 mt is being set for both areas. The OY of 4 mt is based on a rebuilding plan with a target year to rebuild of 2072 and an SPR rate of 82.1 percent. The amount anticipated to be taken during research activity is 0.2 mt and the amount expected to be taken during EFP activity is 0.24 mt.

z/ Darkblotched rockfish was assessed in 2007 and a rebuilding analysis was prepared. The new stock assessment estimated the stock to be at 22.4 percent of its unfished biomass in 2007. The ABC is projected to be 437 mt and is based on the 2007 stock assessment with an FMSY proxy of F50%. The OY of 285 mt is based on a rebuilding plan with a target year to rebuild of 2028 and an SPR harvest rate of 62.1 percent. The commercial OY of 282.05 mt is the OY reduced by 2.0 mt for the amount anticipated to be taken during research activity and 0.95 mt for the amount projected to be taken during EFP activity.

aa/ Yelloweye rockfish was fully assessed in 2006 and an assessment update was completed in 2007. The 2007 stock assessment update estimated the spawning stock biomass in 2006 to be at 14 percent of its unfished biomass coastwide. The 31 mt coastwide ABC was derived from the base model in the new stock assessment with an FMSY proxy of F50%. The 17 mt OY is based on a rebuilding plan with a target year to rebuild of 2084 and an SPR harvest rate of 66.3 percent in 2009 and 2010 and an SPR harvest rate of 71.9 percent for 2011 and beyond. The OY is reduced by 2.8 mt for the amount anticipated to be taken during research activity, 2.3 mt the amount estimated to be taken in the tribal fisheries and 0.3 mt for the amount expected to be taken incidentally in non-groundfish fisheries. The catch sharing harvest guidelines for yelloweye rockfish in 2009 and 2010 are: limited entry non whiting trawl 0.6 mt, limited entry whiting 0.0 mt, limited entry fixed gear 1.4 mt, directed open access 1.1 mt, Washington recreational 2.7 mt, Oregon recreational 2.4 mt, California recreational 2.8 mt, and 0.3 mt for exempted fishing.

bb/ California Scorpionfish south of 34°27′ N. lat. was assessed in 2005 and was estimated to be above 40 percent of its unfished biomass in 2005. The ABC of 175 mt is based on the new assessment with a harvest rate proxy of F50%. Because the stock is above B40% coastwide, the OY is set equal to the ABC.

cc/ New assessments were prepared for black rockfish south of 45*56.00 N. lat. (Cape Falcon, Oregon) and for black rockfish north of Cape Falcon. The ABC for the area north of 46*16′ N. lat. (Washington) is 490 mt (97 percent) of the 505 mt ABC contribution from the northern assessment area. The ABC for the area south of 46*16′ N. lat. (Oregon and California) is 1,469 mt which is the sum of a contribution of 15 mt (3 percent) from the northern area assessment, and 1,454 mt from the southern area assessment. The ABCs were based on the results of the new assessment and derived using an FMSY proxy of F50%. Because both portions of the stock are above 40 percent, the OYs could be set equal to the ABCs. For the area north of 46*16′ N. lat., the OY of 490 mt is set equal to the ABC. The following tribal harvest guidelines are being set: 20,000 lb (9.1 mt) north of Cape Alava, WA (48*09.50′ N. lat.) and 10,000 lb (4.5 mt) between Destruction Island, WA (47*40′ N. lat.) and Leadbetter Point, WA (46*38.17′ N. lat.) The OY for the area south of 46*16′ N. lat. is being set at 1,000 mt which is a constant harvest level. The black rockfish OY in the area south of 46*16′ N. lat., is subdivided with separate HGs being set for the area north of 42* N. lat. (580 mt/58 percent) and for the area south of 42* N. lat. (420 mt/42 percent).

dd/ Minor rockfish north includes the “remaining rockfish” and “other rockfish” categories in the Vancouver, Columbia, and Eureka areas combined. These species include “remaining rockfish”, which generally includes species that have been assessed by less rigorous methods than stock assessments, and “other rockfish”, which includes species that do not have quantifiable stock assessments. Blue rockfish has been removed from the “other rockfish” and added to the remaining rockfish. The ABC of 3,678 mt is the sum of the individual “remaining rockfish” ABCs plus the “other rockfish” ABCs. The remaining rockfish ABCs continue to be reduced by 25 percent (F = 0.75M) as a precautionary adjustment. To obtain the total catch OY of 2,283 mt, the remaining rockfish ABCs were further reduced by 25 percent and other rockfish ABCs were reduced by 50 percent. This was a precautionary measure to address limited stock assessment information.

ee/ Minor rockfish south includes the “remaining rockfish” and “other rockfish” categories in the Monterey and Conception areas combined. These species include “remaining rockfish” which generally includes species that have been assessed by less rigorous methods than stock assessment, and “other rockfish” which includes species that do not have quantifiable stock assessments. Blue rockfish has been removed from the “other rockfish” and added to the remaining rockfish. The ABC of 3,384 mt is the sum of the individual “remaining rockfish” ABCs plus the “other rockfish” ABCs. The remaining rockfish ABCs continue to be reduced by 25 percent (F = 0.75M) as a precautionary adjustment. The remaining rockfish ABCs are further reduced by 25 percent, with the exception of blackgill rockfish (see footnote gg). The other rockfish ABCs were reduced by 50 percent. This was a precautionary measure due to limited stock assessment information. The resulting minor rockfish OY is 1,990 mt.

ff/ Bank rockfish—The ABC is 350 mt which is based on a 2000 stock assessment for the Monterey and Conception areas. This stock contributes 263 mt towards the minor rockfish OY in the south.

gg/ Blackgill rockfish in the Monterey and Conception areas was assessed in 2005 and is estimated to be at 49.9 percent of its unfished biomass in 2008. The ABC of 292 mt for the Monterey and Conception areas is based on the 2005 stock assessment with an FMSY proxy of F50% and is the two year average ABC for the 2007 and 2008 periods. This stock contributes 292 mt towards minor rockfish south.

hh/ “Other rockfish” includes rockfish species listed in 50 CFR 660.302. A new stock assessment was conducted for blue rockfish in 2007. As a result of the new stock assessment, the blue rockfish contribution to the other rockfish group, of 30 mt in the north and 232 mt in the south, are removed. A new contribution of 28 mt contribution in the north and 202 mt contribution in the south is added to the remaining rockfish. The ABC for the remaining species is based on historical data from a 1996 review landings and includes an estimate of recreational landings. Most of these species have never been assessed quantitatively.

ii/ Longnose skate was fully assessed in 2006 and an assessment update was completed in 2007. The ABC of 3,428 is based on the 2007 with an FMSY proxy of F45%. Longnose skate was previously managed as part of the Other Fish complex. The 2009 OY of 1,349 mt is a precautionary OY based on historical total catch increased by 50 percent.

jj/ “Other fish” includes sharks, skates, rays, ratfish, morids, grenadiers, kelp greenling, and other groundfish species noted above in footnote d/. The longnose skate contribution is being removed from this complex.

kk/ Sablefish allocation north of 36* N. lat.—The limited entry allocation is further divided with 58 percent allocated to the trawl fishery and 42 percent allocated to the fixed-gear fishery.

ll/ Specific open access/limited entry allocations specified in the FMP have been suspended during the rebuilding period as necessary to meet the overall rebuilding target while allowing harvest of healthy stocks.

BILLING CODE 3510-22-P

BILLING CODE 3510-22-C

a/ ABCs apply only to the U.S. portion of the Vancouver area.

b/ Optimum Yields (OYs) and Harvest Guidelines (HGs) are specified as total catch values. A harvest guideline is a specified harvest target and not a quota. The use of this term may differ from the use of similar terms in state regulation.

c/ Lingcod—A coastwide lingcod stock assessment was prepared in 2005. The lingcod biomass was estimated to be at 64 percent of its unfished biomass coastwide in 2005. The ABC of 4,829 mt was calculated using an FMSY proxy of F45%. Because the stock is above B40% coastwide, the coastwide OY was set equal to the ABC. The tribal harvest guideline is 250 mt.

d/ “Other species”—these species are neither common nor important to the commercial and recreational fisheries in the areas footnoted. Accordingly, these species are included in the harvest guidelines of “other fish”, “other rockfish” or “remaining rockfish”.

e/ Pacific Cod—The 3,200 mt ABC for the Vancouver-Columbia area is based on historical landings data. The 1,600 mt OY is the ABC reduced by 50 percent as a precautionary adjustment. A tribal harvest guideline of 400 mt is deducted from the OY resulting in a commercial OY of 1,200 mt.

f/ Pacific whiting—Pacific whiting—The most recent stock assessment was prepared in February 2008. The stock assessment base model estimated the Pacific whiting biomass to be at 42.6 percent (50th percentile estimate of depletion) of its unfished biomass in 2008. Final adoption of the Pacific whiting ABC and OY have been deferred until the Council's March 2009 meeting. Therefore, table 1a does not contain an ABC value, but does contain the OY range considered in the DEIS. It is anticipated that an new assessment will be available in early 2010 and the results will be used to set the 2010 ABC and OY. The final ABC and OY will be published is a separate action following the Council's recommendation at its March 2010 meeting.

g/ Sablefish—A coastwide sablefish stock assessment was prepared in 2007. The coastwide sablefish biomass was estimated to be at 38.3 percent of its unfished biomass in 2007. The coastwide ABC of 9,217 mt was based on the new stock assessment with a FMSY proxy of F45%. The 40-10 harvest policy was applied to the ABC then apportion between the northern and southern areas with 72 percent going to the area north of 36* N. lat. and 28 percent going to the area south of 36* N. lat. The OY for the area north of 36* N. lat. is 6,471 mt. When establishing the OY for the area south of 36* N. lat. a 50 percent reduction was made resulting in a Conception area OY of 1,258 mt. The Coastwide OY of 7,729 mt is the sum of the northern and southern area OYs. The tribal allocation for the area north of 36* N. lat. is 647 mt (10 percent of the OY north of 36* N. lat.), which is further reduced by 1.6 percent (10 mt) to account for discard mortality. The tribal landed catch value is 637 mt.

h/ Cabezon south of 42* N. lat. was assessed in 2005. The Cabezon stock was estimated to be at 40 percent of its unfished biomass north of 34* 27′ N. lat. and 28 percent of its unfished biomass south of 34* 27′ N. lat. in 2005. The ABC of 111 mt is based on the 2005 stock assessment with a harvest rate proxy of F45%. The OY of 79 mt is consistent with the application of a 60-20 harvest rate policy specified in the California Nearshore Fishery Management Plan.

i/ Dover sole north of 34* 27′ N. lat. was assessed in 2005. The Dover sole biomass was estimated to be at 59.8 percent of its unfished biomass in 2005 and was projected to be increasing. The ABC of 28,582 mt is based on the results of the 2005 assessment with an FMSY proxy of F40%. Because the stock is above B40% coastwide, the OY could be set equal to the ABC. The OY of 16,500 mt is less than the ABC. The OY is set at the MSY harvest level which is considerably larger than the coastwide catches in any recent years.

j/ A coastwide English sole stock assessment was prepared in 2005 and updated in 2007. The stock was estimated to be at 116 percent of its unfished biomass in 2007. The stock biomass is believed to be declining. The ABC of 9,745 mt is based on the results of the 2007 assessment update with an FMSY proxy of F40%. Because the stock is above B40%, the OY was set equal to the ABC.

k/ A petrale sole stock assessment was prepared for 2005. In 2005 the petrale sole stock was estimated to be at 32 percent of its unfished biomass coastwide (34 percent in the northern assessment area and 29 percent in the southern assessment area).The ABC of 2,751 mt is based on the 2005 assessment with a F40% FMSY proxy. To derive the OY, the 40-10 harvest policy was applied to the ABC for both the northern and southern assessment areas. As a precautionary measure, an additional 25 percent reduction was made in the OY contribution for the southern area due to assessment uncertainty. The coastwide OY is 2,393 mt in 2010.

l/ Arrowtooth flounder was assessed in 2007 and was estimated to be at 79 percent of its unfished biomass in 2007. Because the stock is above B40%, the OY is set equal to the ABC.

m/ Starry Flounder was assessed for the first time in 2005 and was estimated to be above 40 percent of its unfished biomass in 2005. However, the stock was projected to decline below 40 percent in both the northern and southern areas after 2008. For 2010, the coastwide ABC of 1,578 mt is based on the 2005 assessment with a FMSY proxy of F40%. To derive the OY of 1,077 mt, the 40-10 harvest policy was applied to the ABC for both the northern and southern assessment areas then an additional 25 percent reduction was made due to assessment uncertainty.

n/ “Other flatfish” are those flatfish species that do not have individual ABC/OYs and include butter sole, curlfin sole, flathead sole, Pacific sanddab, rex sole, rock sole, and sand sole. The other flatfish ABC is based on historical catch levels. The ABC of 6,731 mt is based on the highest landings for sanddabs (1995) and rex sole (1982) for the 1981-2003 period and on the average landings from the 1994-1998 period for the remaining other flatfish species. The OY of 4,884 mt is based on the ABC with a 25 percent precautionary adjustment for sanddabs and rex sole and a 50 percent precautionary adjustment for the remaining species.

o/ A POP stock assessment was prepared in 2005 and was updated in 2007. The stock assessment update estimated the stock to be at 27.5 percent of its unfished biomass in 2007. The ABC of 1,173 mt for the Vancouver and Columbia areas is based on the 2007 stock assessment update with an FMSY proxy of F50%. The OY of 200 mt is based on a rebuilding plan with a target year to rebuild of 2017 and an SPR harvest rate of 86.4 percent. The OY is reduced by 2.0 mt for the amount anticipated to be taken during research activity and 0.14 mt for the amount expected to be taken during EFP fishing.

p/ Shortbelly rockfish remains an unexploited stock and is difficult to assess quantitatively. To understand the potential environmental determinants of fluctuations in the recruitment and abundance of an unexploited rockfish population in the California Current ecosystem, a non-quantitative assessment was conducted in 2007. The results of the assessment indicated the shortbelly stock was healthy with an estimated spawning stock biomass at 67 percent of its unfished biomass in 2005. The ABC and OY are being set at 6,950 mt which is 50 percent of the 2008 ABC and OY values. The stock is expected to remain at its current equilibrium with these harvest specifications.

q/ Widow rockfish was assessed in 2005 and an update was prepared in 2007. The stock assessment update estimated the stock to be at 36.2 percent of its unfished biomass in 2006. The ABC of 6,937 mt is based on the stock assessment update with an F50% FMSY proxy. The OY of 509 is based on a rebuilding plan with a target year to rebuild of 2015 and an SPR harvest rate or 95 percent. To derive the commercial harvest guideline of 447.4 mt the OY is reduced by 1.1 mt for the amount anticipated to be taken during research activity, 45.5 mt for the tribal set-aside, 7.2 mt the amount estimated to be taken in the recreational fisheries, 0.4 mt for the amount expected to be taken incidentally in non-groundfish fisheries, and 7.4 mt for EFP fishing activities. The following sector specific bycatch limits will be established for the Pacific whiting fishery: 153.0 mt for catcher/processors, 108.0 mt for motherships, and 189.0 mt for shore-based.

r/ Canary rockfish—A canary rockfish stock assessment was completed in 2007 and the stock was estimated to be at 32.7 percent of its unfished biomass coastwide in 2007. The coastwide ABC of 940 mt is based on a FMSY proxy of F50%. The OY of 105 mt is based on a rebuilding plan with a target year to rebuild of 2021 and a SPR harvest rate of 88.7 percent. To derive the commercial harvest guideline of 42.3 mt, the OY is reduced by 8.0 mt for the amount anticipated to be taken during research activity, 7.3 mt the tribal set-aside, 43.8 mt the amount estimated to be taken in the recreational fisheries, 0.9 mt for the amount expected to be taken incidentally in non-groundfish fisheries, and 2.7 mt for the amount expected to be taken during EFP fishing. The following harvest guidelines are being specified for catch sharing in 2009: 19.7 mt for limited entry Non-Whiting Trawl, 18.0 mt for limited entry Whiting Trawl, 2.2 mt for limited entry fixed gear, 2.5 mt for directed open access, 4.9 mt for Washington recreational, 16.0 mt for Oregon recreational, and 22.9 mt for California recreational.

s/ Chilipepper rockfish was assessed in 2007 and the stock was estimated to be at 71 percent of its unfished biomass coastwide in 2007. The ABC of 2,576 mt is based on the new assessment with an FMSY proxy of F50%. Because the unfished biomass is estimated to be above 40 percent of the unfished biomass, the default OY could be set equal to the ABC. However, the OY of 2,447 mt was the ABC reduced by 5 percent as a precautionary measure. Open access is allocated 44.3 percent (1,084 mt) of the commercial HG and limited entry is allocated 55.7 percent (1,363 mt) of the commercial HG.

t/ A bocaccio stock assessment and a rebuilding analysis were prepared in 2007. The bocaccio stock was estimated to be at 13.8 percent of its unfished biomass in 2007. The ABC of 793 mt for the Monterey-Conception area is based on the new stock assessment with an FMSY proxy of F50%. The OY of 288 is based on a rebuilding plan with a target year to rebuild of 2026 and a SPR harvest rate of 77.7 percent. To derive the commercial harvest guideline of 206.4 mt, the OY is reduced by 2.0 mt for the amount anticipated to be taken during research activity, 67.3 mt for the amount estimated to be taken in the recreational fisheries, 1.3 mt for the amount expected to be taken incidentally in non-groundfish fisheries, and 11.0 mt for the amount expected to be taken during EFP fishing.

u/ Splitnose rockfish—The ABC is 615 mt in the Monterey-Conception area. The 461 mt OY for the area reflects a 25 percent precautionary adjustment because of the less rigorous stock assessment for this stock. In the north (Vancouver, Columbia and Eureka areas), splitnose is included within the minor slope rockfish OY. Because the harvest assumptions used to forecast future harvest were likely overestimates, carrying the previously used ABCs and OYs forward into 2010 was considered to be conservative and based on the best available data.

v/ Yellowtail rockfish—A yellowtail rockfish stock assessment was prepared in 2005 for the Vancouver, Columbia, Eureka areas. Yellowtail rockfish was estimated to be above 40 percent of its unfished biomass in 2005. The ABC of 4,562 mt is based on the 2005 stock assessment with the FMSY proxy of F50%. The OY of 4,562 mt was set equal to the ABC, because the stock is above the precautionary threshold of B40%.

w/ Shortspine thornyhead was assessed in 2005 and the stock was estimated to be at 63 percent of its unfished biomass in 2005. The ABC of 2,411 mt is based on a F50% FMSY proxy. For that portion of the stock (66 percent of the biomass) north of Point Conception (34°27′ N. lat.), the OY of 1,591 mt was set at equal to the ABC because the stock is estimated to be above the precautionary threshold. For that portion of the stock south of 34°27′ N. lat. (34 percent of the biomass), the OY of 410 mt was the portion of the ABC for the area reduced by 50 percent as a precautionary adjustment due to the short duration and amount of survey data for that area.

x/ Longspine thornyhead was assessed coastwide in 2005 and the stock was estimated to be at 71 percent of its unfished biomass in 2005. The coastwide ABC of 3,671 mt is based on a F50% FMSY proxy. The OY is set equal to the ABC because the stock is above the precautionary threshold. Separate OYs are being established for the areas north and south of 34°27′ N. lat. (Point Conception). The OY of 2,175 mt for that portion of the stock in the northern area (79 percent) was the ABC reduced by 25 percent as a precautionary adjustment. For that portion of the stock in the southern area (21 percent), the OY of 385 mt was the portion of the ABC for the area reduced by 50 percent as a precautionary adjustment due to the short duration and amount of survey data for that area.

y/ Cowcod in the Conception area was assessed in 2007 and the stock was estimated to be between 3.4 to 16.3 percent of its unfished biomass. The ABC for the Monterey and Conception areas is 14 mt and is based on the 2007 rebuilding analysis in which the Conception area stock assessment projection was doubled to account for both areas. A single OY of 4 mt is being set for both areas. The OY of 4 mt is based on a rebuilding plan with a target year to rebuild of 2072 and an SPR rate of 82.1 percent. The amount anticipated to be taken during research activity is 0.2 mt and the amount expected to be taken during EFP activity is 0.24 mt.

z/ Darkblotched rockfish was assessed in 2007 and a rebuilding analysis was prepared. The new stock assessment estimated the stock to be at 22.4 percent of its unfished biomass in 2007. The ABC is projected to be 440 mt and is based on the 2007 stock assessment with an FMSY proxy of F50%. The OY of 291 mt is based on a rebuilding plan with a target year to rebuild of 2028 and an SPR harvest rate of 62.1 percent. The commercial OY of 288.05 is the OY reduced by 2.0 mt for the amount anticipated to be taken during research activity and 0.95 mt for the amount projected to be taken during EFP activity.

aa/ Yelloweye rockfish was fully assessed in 2006 and an assessment update was completed in 2007. The 2007 stock assessment update estimated the spawning stock biomass in 2006 to be at 14 percent of its unfished biomass coastwide. The 32 mt coastwide ABC was derived from the base model in the new stock assessment with an FMSY proxy of F50%. The 17 mt OY is based on a rebuilding plan with a target year to rebuild of 2084 and an SPR harvest rate of 66.3 percent in 2009 and 2010 and an SPR harvest rate of 71.9 percent for 2011 and beyond. The OY is reduced by 2.8 mt for the amount anticipated to be taken during research activity, 2.3 mt the amount estimated to be taken in the tribal fisheries and 0.3 mt for the amount expected to be taken incidentally in non-groundfish fisheries. The catch sharing harvest guidelines for yelloweye rockfish in 2009 and 2010 are: Limited entry non-whiting trawl 0.6 mt, limited entry whiting 0.0 mt, limited entry fixed gear 1.4 mt, directed open access 1.1 mt, Washington recreational 2.7 mt, Oregon recreational 2.4 mt, California recreational 2.8 mt, and 0.3 mt for exempted fishing.

bb/ California Scorpionfish south of 34°27′ N. lat. (point Conception) was assessed in 2005 and was estimated to be above 40 percent of its unfished biomass in 2005. The ABC of 155 mt is based on the new assessment with a harvest rate proxy of F50%. Because the stock is above B40% coastwide, the OY is set equal to the ABC.

cc/ New assessments were prepared for black rockfish south of 45*56.00 N. lat. (Cape Falcon, Oregon) and for black rockfish north of Cape Falcon. The ABC for the area north of 46*16′ N. lat. (Washington) is 464 mt (97 percent) of the 478 mt ABC contribution from the northern assessment area. The ABC for the area south of 46*16′ N. lat. (Oregon and California) is 1,317 mt which is the sum of a contribution of 14 mt (3 percent) from the northern area assessment, and 1,303 mt from the southern area assessment. The ABCs were derived using an FMSY proxy of F50%. Because both portions of the stock are above 40 percent, the OYs could be set equal to the ABCs. For the area north of 46*16′ N. lat., the OY of 490 mt is set equal to the ABC. The following tribal harvest guidelines are being set: 20,000 lb (9.1 mt) north of Cape Alava, WA (48*09.50′ N. lat.) and 10,000 lb (4.5 mt) between Destruction Island, WA (47*40′ N. lat.) and Leadbetter Point, WA (46*38.17′ N. lat.) For the area south of 46*16′ N. lat., the OY of 1,000 mt is a constant harvest level. The black rockfish OY in the area south of 46*16′ N. lat., is subdivided with separate HGs being set for the area north of 42* N. lat. (580 mt/58 percent) and for the area south of 42* N. lat. (420 mt/42 percent).

dd/ Minor rockfish north includes the “remaining rockfish” and “other rockfish” categories in the Vancouver, Columbia, and Eureka areas combined. These species include “remaining rockfish”, which generally includes species that have been assessed by less rigorous methods than stock assessments, and “other rockfish”, which includes species that do not have quantifiable stock assessments. Blue rockfish has been removed from the “other rockfish” and added to the remaining rockfish. The ABC of 3,678 mt is the sum of the individual “remaining rockfish” ABCs plus the “other rockfish” ABCs. The remaining rockfish ABCs continue to be reduced by 25 percent (F = 0.75M) as a precautionary adjustment. To obtain the total catch OY of 2,283 mt, the remaining rockfish ABCs were further reduced by 25 percent and other rockfish ABCs were reduced by 50 percent. This was a precautionary measure to address limited stock assessment information.

ee/ Minor rockfish south includes the “remaining rockfish” and “other rockfish” categories in the Monterey and Conception areas combined. These species include “remaining rockfish” which generally includes species that have been assessed by less rigorous methods than stock assessment, and “other rockfish” which includes species that do not have quantifiable stock assessments. Blue rockfish has been removed from the “other rockfish” and added to the remaining rockfish. The ABC of 3,382 mt is the sum of the individual “remaining rockfish” ABCs plus the “other rockfish” ABCs. The remaining rockfish ABCs continue to be reduced by 25 percent (F = 0.75M) as a precautionary adjustment. The remaining rockfish ABCs are further reduced by 25 percent, with the exception of blackgill rockfish (see footnote gg). The other rockfish ABCs were reduced by 50 percent. This was a precautionary measure due to limited stock assessment information. The resulting minor rockfish OY is 1,990 mt.

ff/ Bank rockfish—The ABC is 350 mt which is based on a 2000 stock assessment for the Monterey and Conception areas. This stock contributes 263 mt towards the minor rockfish OY in the south.

gg/ Blackgill rockfish in the Monterey and Conception areas was assessed in 2005 and is estimated to be at 49.9 percent of its unfished biomass in 2008. The ABC of 292 mt for the Monterey and Conception areas is based on the 2005 stock assessment with an FMSY proxy of F50% and is the two year average ABC for the 2007 and 2008 periods. This stock contributes 292 mt towards minor rockfish south.

hh/ “Other rockfish” includes rockfish species listed in 50 CFR 660.302. A new stock assessment was conducted for blue rockfish in 2007. As a result of the new stock assessment, the blue rockfish contribution to the other rockfish group, of 30 mt in the north and 232 mt in the south, are removed. A new contribution of 28 mt contribution in the north and 202 mt contribution in the south is added to the remaining rockfish. The ABC for the remaining species is based on historical data from a 1996 review landings and includes an estimate of recreational landings. Most of these species have never been assessed quantitatively.

ii/ Longnose skate was fully assessed in 2006 and an assessment update was completed in 2007. The ABC of 3,428 is based on the 2007 with an FMSY proxy of F45%. Longnose skate was previously managed as part of the Other Fish complex. The 2009 OY of 1,349 mt is a precautionary OY based on historical total catch increased by 50 percent.

jj/ “Other fish” includes sharks, skates, rays, ratfish, morids, grenadiers, kelp greenling, and other groundfish species noted above in footnote d/. The longnose skate contribution is being removed from this complex.

kk/ Sablefish allocation north of 36* N. lat.—The limited entry allocation is further divided with 58 percent allocated to the trawl fishery and 42 percent allocated to the fixed-gear fishery.

ll/ Specific open access/limited entry allocations specified in the FMP have been suspended during the rebuilding period as necessary to meet the overall rebuilding target while allowing harvest of healthy stocks.

BILLING CODE 3510-22-P

[FR Doc. E9-4371 Filed 2-27-09; 4:15 pm]

BILLING CODE 3510-22-C